DEPARTMENT OF COMMERCE

Bureau of Industry and Security

15 CFR Parts 734, 746 and 750

[Docket No. 230515-0131]

RIN 0694-AJ17

Implementation of Additional Sanctions Against Russia and Belarus Under the Export Administration Regulations (EAR) and Refinements to Existing Controls

AGENCY: Bureau of Industry and Security, Department of Commerce.

ACTION: Final rule.

SUMMARY: In response to the Russian Federation's (Russia's) ongoing aggression against Ukraine, as substantially enabled by Belarus, the Department of Commerce is strengthening its existing sanctions under the Export Administration Regulations (EAR) against Russia and Belarus, including by expanding the scope of the EAR's Russian and Belarusian Industry Sector Sanctions and by expanding the foreign direct product rule that currently applies to Russia and Belarus to apply to the temporarily occupied Crimea region of Ukraine as well. Additionally, this rule revises recent restrictions targeting Iran's supply of Unmanned Aerial Vehicles to Russia. This rule also refines existing export controls on Russia and Belarus. The Department of Commerce is taking these actions to enhance the effectiveness of its controls on these countries and to better align them with those implemented by U.S. allies and partners.

DATES: This rule is effective on May 19, 2023.

FOR FURTHER INFORMATION CONTACT: For general questions on this final rule, contact Eileen Albanese, Director, Office of National Security and Technology Transfer Controls, Bureau of Industry and Security, Department of Commerce, Phone: (202) 482-0092, Fax: (202) 482-482-3355, Email: rpd2@bis.doc.gov. For emails, include “Russia, Belarus, and Iran May 2023 sanctions” in the subject line.

SUPPLEMENTARY INFORMATION:

I. Background

In response to Russia's February 2022 further invasion of Ukraine, BIS imposed extensive sanctions on Russia under the Export Administration Regulations (15 CFR parts 730-774) (EAR) as part of the final rule Implementation of Sanctions Against Russia Under the Export Administration Regulations (EAR) (the Russia Sanctions Rule), effective on February 24, 2022, and published on March 3, 2022 (87 FR 12226). Effective March 2, 2022, BIS also imposed similar sanctions on Belarus under the EAR in a final rule, Implementation of Sanctions Against Belarus (“Belarus Sanctions Rule”), published on March 8, 2022 (87 FR 13048). BIS has published a number of additional final rules strengthening the export controls on Russia and Belarus, in coordination with U.S. allies and partners. Most recently, in February 2023, as part of a series of U.S. Government actions undertaken at the one-year mark of Russia's war against Ukraine, BIS published a final rule effective February 24, 2023, that enhanced and strengthened existing sanctions under the EAR, including by rendering additional items subject to licensing requirements under the EAR's Russian and Belarusian Industry Sector Sanctions and “luxury goods” sanctions. In addition to ensuring the effectiveness of the EAR's measures, this rule also better aligned the EAR's measures with those implemented by our partners and allies on both countries. See 88 FR 12175 (Feb. 27, 2023). Taken together, these actions under the EAR reflect the U.S. Government's position that Russia's invasion of Ukraine and Belarus's complicity in the invasion, flagrantly violated international law, are contrary to U.S. national security and foreign policy interests, and undermine global order, peace, and security.

The export control measures in this final rule build upon the policy objectives set forth in the earlier rules referenced above. The adoption of these measures, undertaken in part to better align U.S. controls with the stringent measures implemented by partner and ally countries, will enhance the effectiveness of the multilateral sanctions on Russia by further limiting Russia's access to items that enable its military capabilities and to sources of revenue that could support those capabilities. Additionally, the new or expanded controls specified in this rule target Belarus as part of the U.S. response to the country's complicity in Russia's aggression, as well as Iran's support of Russia.

II. Overview of New Controls

This rule revises the EAR to enhance and strengthen the existing sanctions against Russia and Belarus by expanding the scope of the Russian and Belarusian industry sector sanctions to better align them with the controls that have been implemented by U.S. allies and partners imposing substantially similar controls on Russia and Belarus, including a control added on Iran effective February 24, 2023 pursuant to the rule, Export Control Measures Under the Export Administration Regulations (EAR) to Address Iranian Unmanned Aerial Vehicles (UAVs) and Their Use by the Russian Federation that targeted Iran's supply of UAVs to Russia. See 88 FR 12150 (Feb. 27, 2023) (Iran UAVs rule). For similar policy reasons, this rule also refines other controls on Russia and Belarus that were imposed in response to the February 2022 further invasion of Ukraine.

III. Amendments to the Export Administration Regulations (EAR)

This rule enhances and strengthens the sanctions that have been implemented on Russia, Belarus, the temporarily occupied Crimea region of Ukraine, and Iran under the EAR, as described under Sections A and B below. The regulatory revisions described under Section A. Imposition of new export controls on Russia, Belarus, the temporarily occupied Crimea region of Ukraine, and Iran, including to align the EAR's controls with those imposed by U.S. allies and partners, include:

• Expansion of Russian and Belarusian Industry Sector Sanctions under supplement no. 4 to part 746 to add additional items to align with controls imposed by U.S. partners and allies and to make other changes to render the EAR's controls stronger, more effective, and easier to understand;

• Expansion of Russian and Belarusian Industry Sector Sanctions under supplement no. 6 to part 746 to add additional items to align with controls imposed by U.S. partners and allies and to make other changes to render the EAR's controls stronger, more effective, and easier to understand;

• Expansion of Items that Require a License Under § 746.7 When Destined to Iran and Under § 746.8 When Destined to Russia or Belarus under supplement no. 7 to part 746 to add an additional item to align with controls imposed by U.S. partners and allies and to make other changes to render the EAR's controls stronger, more effective, and easier to understand; and

• Expansion of the Russia/Belarus Foreign-Direct Product (FDP) rule to add the temporarily occupied Crimea region of Ukraine and conforming EAR changes to strengthen the EAR's controls on the temporarily occupied Crimea region of Ukraine, thereby making it more difficult for items to be procured for Russia's use in Crimea in support of its ongoing military aggression in Ukraine.

A. Imposition of New Export Controls on Russia, Belarus, the Temporarily Occupied Crimea Region of Ukraine, and Iran, Including Changes To Align Controls With Those Imposed by U.S. Allies and Partners

This rule expands the scope of the Russian Industry Sector Sanctions by adding additional items to supplement no. 4 to part 746 that will require a license under § 746.5(a)(1)(ii) and to supplement no. 6 to part 746 that will require a license under § 746.5(a)(1)(iii), as described further below. This rule also adds an additional item to supplement no. 7 to part 746 that will require a license under § 746.7 when destined to Iran and under § 746.8 when destined to Russia or Belarus.

1. Expansion of Russian and Belarusian Industry Sector Sanctions under supplement no. 4 to part 746 to add additional items to align with controls imposed by U.S. partners and allies and make other changes to render the EAR's controls stronger, more effective, and easier to understand.

This rule expands supplement no. 4 to part 746—Russian and Belarusian Industry Sector Sanctions. Specifically, this rule adds 1,224 additional HTS-6 Code entries corresponding to 1,224 types of industrial items to supplement no. 4; consequently, these items will now require a license for export or reexport to or transfer within Russia or Belarus under § 746.5(a)(1)(ii). The restrictions on these 1,224 groups of industrial items are intended to further undermine the Russian and Belarusian industrial bases and their ability to continue to support Russia's military aggression in Ukraine. The items added include a variety of electronics, instruments, and advanced fibers for the reinforcement of composite materials, including carbon fibers. The complete list of 1,224 new HTS-6 Codes this rule adds to supplement no. 4 are identified in amendatory instruction 11.d.

Items controlled through amendments made in this rule were identified based on a review of public and non-public information regarding which items Russia seeks to further its war against Ukraine, an evaluation of areas in which U.S. trade has continued to provide an economic benefit to Russia, and an assessment of how the United States could better align with its allies and partners to directly or indirectly degrade Russia's war effort. Notably, with this rule, BIS will be controlling three entire harmonized system chapters in supplement no. 4 to part 746 of the EAR. Specifically, this rule will adopt controls on items described in all of the HTS-6 codes found in Chapters 84, 85, and 90 of the harmonized system schedule. Through such comprehensive controls, BIS intends to cut off Russia's access to any items of potential military significance within these chapters and also expand the economic impact of controls denying Russia additional resources it needs to continue waging war. In addition, adopting such comprehensive controls simplifies compliance decisions for persons trading in items that are listed in these three chapters, because all of the items listed in them now require a license. Although comprehensive in scope, BIS will generally review license applications for certain items that are predominantly agricultural or medical in nature on a case-by-case basis, consistent with the pre-existing exceptions to the policy of denial described in §§ 746.5 and 746.8 of the EAR.

Also in supplement no. 4 to part 746, as a conforming change, this rule adds one sentence at the end of paragraph (a) in the introductory text to identify 131 HTS-6 Codes (590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000) that are listed in both this supplement and in supplement no. 5 to part 746. This sentence is added to alert exporters, reexporters, and transferors that they must comply with the license requirements under both §§ 746.5(a)(1)(ii) and 746.10, as applicable, in connection with items identified under these 131 HTS-6 Codes.

In supplement no. 2 to part 746—Russian and Belarusian Industry Sector Sanction List Pursuant to § 746.5(a)(1)(i), under the last sentence of paragraph (a), and in supplement no. 4 to part 746, as a conforming change to the addition of seven HTS-6 Codes 730424, 731100, 761300, 841382, 841392, 843143, and 870520 to supplement no. 4 to part 746, this rule adds these seven HTS-6 Codes to the sentence in each of these supplements that identifies the HTS-6 codes that are listed in both supplements no. 2 and no. 4 to part 746. This sentence alerts exporters, reexporters, and transferors that they must comply with the license requirements under both § 746.5(a)(1)(i) and (ii) as applicable.

BIS estimates these changes to supplement no. 4 to part 746 will result in an additional 125 license applications submitted to BIS annually.

2. Expansion of Russian and Belarusian Industry Sector Sanctions under supplement no. 6 to part 746 to add additional items to align with controls imposed by U.S. partners and allies and make other changes to render the EAR's controls stronger, more effective, and easier to understand.

In supplement no. 6 to part 746, this rule expands the list of items that require a license under § 746.5(a)(1)(iii) to better align these Russian and Belarusian Industry Sector Sanctions with the U.S. allies' and partners' controls. This rule also makes certain clarifying changes to facilitate understanding of the controls. Specifically, this rule makes the following changes to supplement no. 6 to part 746:

a. Under the introductory text to the supplement, as a conforming change with the addition of chemicals to new paragraphs (a)(42) through (45) described in section 2.b, this rule revises the introductory text of supplement no. 6 to part 746 under the second sentence and last sentence to add the phrase “or other” before the reference to activities of concern. The additional chemicals added by this rule are not of concern for chemical and biological weapons production capabilities, so adding “or other” is intended to reflect a broadening of the scope of supplement no. 6 to part 746. The chemicals this rule adds to new paragraphs (a)(42) through (45) were added to this supplement, as opposed to supplement no. 4 to part 746, which identifies items by HTS-6 Codes to reflect BIS's position that it is more appropriate to identify these chemicals by their CAS numbers, which also facilitates compliance because industry typically identifies these chemicals by CAS numbers.

b. Under paragraph (a), this rule expands the scope by adding new paragraphs (a)(42) `Lithium chloride (CAS 7447-41-8),' (a)(43) `Lithium chloride hydrate (CAS 85144-11-2),' (a)(44) `Lithium chloride monohydrate (CAS 16712-20-2),' and (a)(45) `Lithium carbonate (CAS 554-13-2)' as additional chemicals subject to control under the EAR to align with controls imposed by U.S. allies and partners on the same chemicals. As conforming changes to the addition of paragraphs (a)(42) through (45), this rule revises paragraph (a)(40) to remove the word “or” and revises paragraph (a)(41) to remove a period and add a semi-colon in its place.

c. Under paragraph (e), this rule moves the position of the word “or,” so it is properly positioned in the list of items being described.

d. Under paragraph (f), this rule makes the following changes:

Under paragraph (f), this rule revises the heading and introductory text of paragraph (f) (Equipment) and paragraph (f)(3) to add the text “and consumable “materials.” ” This rule also revises Note 6 to paragraph (f) to add the text “and “materials.” ” Prior to this rule, BIS already interpreted paragraph (f) to include consumables, but these changes clarify that regardless of whether a consumable is considered “equipment” or a “material” under the EAR, it is controlled under paragraph (f).

BIS estimates these changes to supplement no. 6 to part 746 will result in an additional 25 license applications submitted to BIS annually.

3. Expansion of Items that Require a License Under § 746.7 When Destined to Iran and Under § 746.8 When Destined to Russia or Belarus under supplement no. 7 to part 746 to align with controls imposed by U.S. partners and allies and to make other changes to render the EAR's controls stronger, more effective, and easier to understand.

In supplement no. 7 to part 746—Items That Require a License Under § 746.7 When Destined to Iran and Under § 746.8 When Destined to Russia or Belarus, this rule expands the list of items that require a license to address an inadvertent omission in the Iran UAVs rule that became effective February 24, 2023. Specifically, this rule adds one additional HTS-6 Code entry corresponding to one industrial item to supplement no. 7; consequently, this item will now require a license for export or reexport to Iran under § 746.7(a)(1)(ii). The restrictions on this industrial item are intended to further undermine Iran's ability to support the Russian and Belarusian industrial bases and their ability to continue to support Russia's military aggression in Ukraine. The items added under this entry include a variety of electrical parts of machinery or apparatus, NESOI. The new HTS-6 Code that this rule adds to supplement no. 7 is as follows: 854800.

BIS estimates this change to supplement no. 7 to part 746 will result in an additional five license applications submitted to BIS annually.

4.Expansion of the Russia/Belarus FDP rule to add the temporarily occupied Crimea region of Ukraine and conforming EAR changes.

a. In § 734.9(f) (Russia/Belarus FDP rule), this rule expands the destination scope to add the temporarily occupied Crimea region of Ukraine. This expansion is made to strengthen the EAR's controls for the temporarily occupied Crimea region of Ukraine, thereby making it more difficult for items to be procured for Russia's use in Crimea in support of its ongoing military aggression in Ukraine. This rule effectuates this policy objective by adding the temporarily occupied Crimea region of Ukraine to the heading of paragraph (f). With this addition, the FDP rule that had applied to Russia and Belarus will be renamed as the Russia/Belarus/temporarily occupied Crimea region of Ukraine FDP rule. This rule also revises the paragraph (f)(1) heading to add the temporarily occupied Crimea region of Ukraine. This rule also makes a conforming change by revising paragraph (f)(2) (Destination scope of the Russia/Belarus FDP rule) to add the temporarily occupied Crimea region of Ukraine.

b. Revision to temporarily occupied Crimea region of Ukraine license requirements to add a license requirement based upon the Russia/Belarus/temporarily occupied Crimea region of Ukraine FDP rule and add an exclusion for supplement no. 3 to part 746. In § 746.6 Temporarily Occupied Crimea Region of Ukraine and Covered Regions of Ukraine, this rule revises the license requirements currently set forth under paragraph (a)(1) (General prohibition.—Temporarily occupied Crimea region of Ukraine) by redesignating that paragraph as new paragraph (a)(1)(i) and by adding a new paragraph (a)(1)(ii) that will impose a license requirement to reexport, export from abroad, or transfer (in-country) to any destination any foreign-produced item subject to the EAR under the Russia/Belarus/Temporarily occupied Crimea region of Ukraine FDP rule described in § 734.9(f) of the EAR. This rule also adds a new paragraph (a)(4) (Exclusion from license requirements under paragraph (a)(1)(ii) of this section) that specifies the same type of license requirement exclusion set forth in § 746.8(a)(4) for the countries listed in supplement no. 3 to part 746 that have committed to implementing substantially similar export controls under their domestic laws on Russia and Belarus. Exports or reexports from the countries described in this supplement No. 3 to part 746 or transfers (in-country) within Russia, Belarus, Iran, and the temporarily occupied Crimea region of Ukraine are not subject to the license requirements described in § 746.6(a)(1)(ii), unless a limit to the exclusion is described in the Scope column in supplement no. 3 to this part.

c. Other conforming changes related to the addition of the temporarily occupied Crimea region of Ukraine to the Russia/Belarus FDP rule.

This rule revises § 746.8(a)(2) (Foreign-produced “direct product” items subject to the EAR under Russia and Belarus foreign “direct product” (FDP rule)) to add a reference to the temporarily occupied Crimea region of Ukraine. This rule also revises § 746.8(a)(4) (Exclusion from license requirements under paragraphs (a)(2) and (3) of this section) to add a reference to the temporarily occupied Crimea region of Ukraine.

In supplement no. 3 to part 746—Countries Excluded From Certain License Requirements of §§ 746.7 and 746.8, this rule revises the heading and the first sentence of the introductory text of the supplement to add a reference to the temporarily occupied Crimea region of Ukraine and to § 746.6 (a)(4).

In supplement no. 7 to part 746—Items That Require a License Under § 746.7 When Destined to Iran and Under § 746.8 When Destined to Russia or Belarus, this rule revises the heading of the supplement to add the phrase `and Under § 746.6 When Destined to the Temporarily Occupied Crimea region of Ukraine' to specify that these additional license requirements apply to the items identified in the supplement. This rule also revises the second sentence of the introductory text of the supplement to reflect the expansion of the Russia/Belarus FDP rule to apply to the temporarily occupied Crimea region of Ukraine as well. This rule also revises the first sentence of paragraph (b) to add a reference to the Russia/Belarus/Temporarily Occupied Crimea region of Ukraine FDP license requirements for the temporarily occupied Crimea region of Ukraine that are specified under § 746.6(a)(1)(ii).

BIS estimates this change to supplement no. 7 to part 746 will result in an additional five license applications submitted to BIS annually.

B. Corrections and Clarifications to Existing Controls on Russia and Belarus

Some of the same EAR provisions discussed above in Section A with respect to the additional controls being imposed on Russia, Belarus, and Iran are also discussed here because this rule makes separate corrections and clarifications with respect to those provisions. The regulatory revisions described under Section B. Corrections and clarifications to existing controls on Russia and Belarus include:

• Clarification that U.S.-origin controlled content that meets the criteria in new § 746.5(a)(3) is also excluded from de minimis calculations when identifying controlled U.S.-origin content;

• Conforming change clarifying that deemed exports and deemed reexports are excluded from license requirements under § 746.5(a)(1)(i) through (iii) for consistency with the deemed export and deemed reexport exclusion from the license requirements set forth in § 746.8(a)(1);

• Clarifications to BIS licensing policy and the scope of existing licenses that were issued prior to additional HTS-6 Codes and items being added or that will be added to supplements nos. 2, 4, and 6 to part 746 by this rule or in subsequent rules;

• Conforming change to add License Exception AVS eligibility to § 746.5(c)(3) for consistency with § 746.8(c)(5).

• Addition of ECCN 5A991 to the exclusion that applies to items controlled under ECCNs 5A992 or 5D992 under §§ 746.8 and 746.10(a)(1);

• Clarifying change to supplement no. 4 to part 746 in areas of the table that mention parts related to one or more numerical headings; and

• Removal of Schedule B and Schedule B Description and addition of HTS-6 Codes under supplement no. 5 to part 746 for consistency with other supplements related to the EAR's Russian and Belarusian Industry Sector Sanctions.

BIS anticipates that the changes discussed in Section B will not result in the submission of any additional license applications to BIS.

1. Clarification that U.S.-origin controlled content that meets the criteria in new § 746.5(a)(3) is also excluded from de minimis calculations when identifying controlled U.S.-origin content.

In § 746.5 (Russian and Belarusian Industry Sector Sanctions), this rule adds a new paragraph (a)(3) (Exclusion from scope of U.S.-origin controlled content under paragraphs (a)(1)(i) through (iii) of this section). This addition clarifies that the same de minimis exclusion specified in § 746.8(a)(5) applies to the items identified in supplements nos. 2, 4, and 6 for the countries identified in supplement no. 3 to part 746 (Countries excluded from certain requirements set forth in §§ 746.7 and 746.8).

As a conforming change to the correction described above to § 746.5 that is reflected by the addition of paragraph (a)(3), this final rule revises supplement no. 2 to part 734—Guidelines for De Minimis Rules, by revising the third sentence of paragraph (a)(1), which specifies that exporters must adhere to the license requirements in part 746 to identify U.S.-origin controlled content for de minimis purposes (excluding U.S.-origin content that meets the criteria in §§ 746.7(a)(1)(v) or 746.8(a)(5)). This final rule revises this parenthetical phrase to specify that U.S.-origin controlled content that meets the criteria in § 746.5(a)(3) is also excluded from de minimis calculations when identifying controlled U.S.-origin content.

2. Conforming change to clarify that deemed exports and deemed reexports are excluded from license requirements under § 746.5(a)(1)(i) through (iii) for consistency with the deemed export and deemed reexport exclusion from license requirements under § 746.8(a)(1).

In § 746.5, as a clarifying change, this rule revises paragraph (a) (License requirements) to add introductory text to specify that the license requirements under paragraphs (a)(1)(i) through (iii) of this section exclude deemed exports and deemed reexports and adds a new Note 1 to paragraph (a)(1) to clarify that this deemed export and deemed reexport exclusion is only applicable to the license requirements set forth in § 746.5(a)(1)(i) through (iii). This correction is made for consistency with the deemed export and deemed reexport exclusion under § 746.8, which has the same deemed export and deemed reexport exclusion from the license requirements under § 746.8(a)(1).

3. Conforming change to add License Exception AVS eligibility to § 746.5(c)(3) for consistency with § 746.8(c)(5).

In § 746.5, this rule adds a new paragraph (c)(3) to specify that License Exception AVS, excluding any aircraft registered in, owned or controlled by, or under charter or lease by Russia or Belarus or a national of Russia or Belarus (§ 740.15(a) and (b) of the EAR), is available as a license exception under § 746.5. This conforming change is made for consistency with the License Exception AVS eligibility under § 746.8(c)(5).

4. Clarifications to BIS licensing policy and the scope of licenses that were issued prior to the HTS-6 Codes and other items being added or that will be added to EAR supplements no. 2, 4, and 6 to part 746 by this rule or in subsequent rules.

a. Addition of case-by-case license review policy for replacement licenses needed as a result of additional HTS-6 Codes added to supplements nos. 2 or 4 to part 746 or items added to supplement no. 6 to part 746. Under the paragraph (b) Licensing policy paragraphs set forth in §§ 746.5, 746.8, 746.10, respectively, this rule revises the second sentence to add text to clarify that the case-by-case license review policy also applies to replacement licenses for exports and reexports to and transfers within Russia and Belarus of items described in HTS-6 Codes that were added to the EAR after the validation date of the license. This rule also revises all of §§ 746.5(b)(1) and (2) and 746.8(b) to move the case-by-case licensing policies into their own paragraphs to improve readability and comprehension. This rule also adds a cross reference under paragraph (b) Licensing policy to alert transferors and reexporters to consult § 750.7(c)(1)(xi) for the divesture of items within Russia or Belarus or their transfer within Russia or Belarus for the purpose of reexporting such items from Russia or Belarus. For purposes of § 750.7(c)(1)(xi), divesture means the action or process of selling off subsidiary business interests or investments involving items subject to the EAR.

b. Addition of new non-material change to § 750.7(c)(1)(xi) for certain license applications for the divesture of items within Russia or Belarus or their transfer within Russia or Belarus for the purpose of reexporting such items from Russia or Belarus. This rule also adds under § 750.7 a new paragraph (c)(1)(xi) regarding non-material changes to BIS licenses. Specifically, it adds a new paragraph (c)(1)(xi) to specify that the addition of a new HTS-6 Code identified under supplements nos. 2, 4, or 5 to part 746 or of an item identified under supplement no. 6 to part 746 for an export or reexport to or transfer within Russia or Belarus does not require a replacement license provided the criteria under paragraphs (c)(1)(xi)(A) through (D) are met. The criteria under paragraph (c)(1)(xi)(A) require that the end use of the BIS license is for the divesture of items within Russia or Belarus or their transfer within Russia or Belarus for the purpose of reexporting such items from Russia or Belarus. The criteria under paragraph (c)(1)(xi)(B) require that the items are identified under new HTS-6 Codes under supplements nos. 2, 4, or 5 to part 746 or are identified under supplement no. 6 to part 746 in paragraphs that were added to the EAR after the validation date of the applicable BIS license. The criterion under paragraph (c)(1)(xi)(C) requires that the BIS license has not yet expired. Lastly, the criteria under paragraph (c)(1)(xi)(D) require that the export, reexport, or in-country transfer of items covered by these additional HTS-6 Codes under supplements nos. 2, 4, or 5 to part 746 or of items identified under supplement no. 6 to part 746 will not exceed the shipping tolerance of the original license or the number of units authorized under the original license.

5. Addition of ECCN 5A991 to the exclusion for items controlled under ECCNs 5A992 or 5D992 under §§ 746.8 and 746.10(a)(1).

In §§ 746.8 (Sanctions against Russia and Belarus) and 746.10 (`Luxury goods' sanctions against Russia and Belarus and Russian and Belarusian oligarchs and malign actors), this rule adds ECCN 5A991 to the introductory text to paragraph (a) to apply the exclusion for ECCNs 5A992 or 5D992 under § 746.8(a) introductory text and `luxury goods' sanctions under § 746.10(a)(1) to items classified under ECCN 5A991. ECCN 5A991 is added to the exclusion text for policy consistency because 5A991 commodities are used in similar end uses as 5A992 and 5D992 commodities and software by the end users identified in the exclusion. Prior to this rule, in certain cases, the lack of a corresponding exclusion for 5A991 commodities undermined the effectiveness of the exclusion for 5A992 and 5D992, in particular when these types of commodities and software were needed at the same time or for the same end use by an eligible entity.

In addition to adding ECCN 5A991, this rule revises the first sentence of the introductory text to paragraph (a) of §§ 746.8 and 746.10 to simplify the text to make it easier to read and understand.

6. Clarifying change to supplement no. 4 to part 746 when the supplement's table mentions parts related to one or more numerical headings.

In supplement no. 4 to part 746, as a clarifying change, this rule adds two sentences at the end of paragraph (b) in the introductory text of the supplement to clarify that when a description in the table mentions parts related to one or more numerical headings, parts related to any HS codes that begin with those digits are covered. This rule also adds an application example to facilitate understanding.

7. Removal of Schedule B and Schedule B Description and addition of HTS-6 Codes under supplement no. 5 to part 746 for consistency with other supplements under the Russian and Belarusian Industry Security Sanctions.

a. Removal of Schedule B and Schedule B Description columns under supplement no. 5 to part 746 to facilitate understanding of the supplement's scope and to align the controls with those imposed by U.S. allies and partners. In supplement no. 5 to part 746—`Luxury Goods' Sanctions for Russia and Belarus Pursuant to § 746.10(a)(1) and (2), this rule revises the table to replace the columns for Schedule B and Schedule B Description with columns for HTS Code and HTS Description columns. With these changes, the supplement will now utilize an item's HTS-6 Code and the HTS Description, instead of the Schedule B and Schedule B Description. This change aligns the underlying controls with those of U.S. allies and partners who generally use HS-6 Codes and HS Descriptions equivalent to the HTS-6 Codes and HTS Descriptions used under the U.S. Harmonized Tariff Schedule. Because the HS-6 Codes and HS Descriptions are recognized and used internationally, these changes will facilitate alignment of these EAR controls with those of U.S. allies and partners. This rule also adds the phrase “or greater” after the dollar value per unit wholesale price in the U.S. in all instances in which such dollar values are referenced in the HTS Description column. This change clarifies that the license requirements for items described in the applicable entries apply to the dollar value referenced and to amounts greater than the specified dollar value per unit wholesale price in the U.S.

b. Clarifications to supplement no. 5 to part 746 introductory text to specify how the HTS-6 Codes relate to other information in the table, as well as to content referring to HTS Codes at the 8 and 10 digit level.

This rule revises paragraph (b) under supplement no. 5 to part 746's introductory text to clarify that that HTS Description is included as a column heading in the table to assist exporters with their AES filing responsibilities, as well as to provide them with clarity regarding the types of items that fall under specific HTS-6 Codes. This rule also adds a sentence to specify that the HTS-6 Code governs when determining the license requirements that apply to the item. This rule adds a new sentence to paragraph (b) to clarify that the license requirements extend to HTS Codes at the 8 and 10 digit level when those HTS-8 and HTS-10 codes begin with the specified HTS-6 Codes as their first 6 numbers. This text is intended to prevent an exporter from identifying an item at the 8 or 10 digit level and consequently failing to determine that a license is required, either due to a misunderstanding of these license requirements, or as a means to evade these controls. If the 8 or 10 digit code for the item begins with the six numbers of one of the HTS-6 Codes in the table, the item will require a license under § 746.10(a)(1) and (2). Similar to the clarification described above to supplement no. 4 to part 746, this rule adds two sentences at the end of paragraph (b) in the introductory text of supplement no. 5 to part 746 to clarify that when a description in the table mentions parts that may be described in one or more HTS codes, this applies to parts related to any HS codes that begin with the digits in the range specified in the table.

c. Addition of cross reference for HTS-6 Codes listed under both supplements nos. 5 and 4 to part 746. This rule, as a conforming change, revises the last sentence in the introductory text to the supplement to remove the reference to Schedule B numbers and add text specifying that HTS-6 Codes 590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000, are listed in both supplement no. 5 and supplement no. 4 to part 746. This cross-reference alerts exporters, reexporters, and transferors that these items are subject to the license requirements under both §§ 746.5(a)(1)(ii) and 746.10 as applicable.

d. Removal of the per unit wholesale price exclusion text for any HTS-6 Code in supplement no. 5 to part 746 that is also listed in supplement no. 4 to part 746.

This rule removes the per unit wholesale price in the U.S. exclusion text for the 107 HTS-6 Codes (590500, 840710, 840721, 840729, 840731, 840732, 840733, 840734, 840790, 840810, 840820, 840890, 840910, 840991, 841111, 841112, 841121, 841122, 841181, 841182, 841191, 841199, 841290, 841451, 841459, 841460, 841510, 841810, 841821, 841829, 841830, 841840, 841981, 842310, 843139, 844312, 844331, 844332, 844339, 845011, 845012, 845019, 845121, 845210, 847010, 847021, 847030, 847130, 847141, 847149, 847160, 847170, 847190, 847290, 847960, 848310, 848320, 848330, 848340, 848350, 848360, 848390, 850811, 850819, 850860, 851110, 851120, 851130, 851140, 851150, 851180, 851190, 851220, 851240, 851660, 851679, 851711, 851713, 851718, 852110, 852190, 852691, 852719, 852721, 852729, 852791, 852792, 852799, 852871, 852910, 853110, 854430, 870310, 870321, 870322, 870323, 870324, 870331, 870332, 870333, 870340, 870350, 870360, 870370, 870380, 870390, and 902000) that are listed in both supplement no. 4 and supplement no. 5 to part 746. This rule makes this clarifying change because the license requirements imposed under §§ 746.5(a)(1)(ii) do not include a per unit wholesale price in the U.S. exclusion. Consequently, the exclusion for these entries in supplement no. 5 to part 746 applies only to the worldwide license requirement for `luxury goods' destined for Russian and Belarusian oligarch and malign actors that is specified in § 746.10(a)(2), when the export, reexport, or transfer is not made to or within Russia or Belarus. BIS is removing the per unit wholesale price in the U.S. exclusion text from supplement no. 5 to part 746 for these 107 HTS-6 Codes identified under both supplements to better ensure compliance.

Savings Clause

For the changes being made in this final rule, shipments of items removed from eligibility for a License Exception or export, reexport, or transfer (in-country) without a license (NLR) as a result of this regulatory action that were en route aboard a carrier to a port of export, reexport, or transfer (in-country), on May 19, 2023, pursuant to actual orders for export, reexport, or transfer (in-country) to or within a foreign destination, may proceed to that destination under the previous eligibility for a License Exception or export, reexport, or transfer (in-country) without a license (NLR), provided the export, reexport, or transfer (in-country) is completed no later than on June 20, 2023.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. To the extent it applies to certain activities that are the subject of this rule, the Trade Sanctions Reform and Export Enhancement Act of 2000 (TSRA) (codified, as amended, at 22 U.S.C. 7201-7211) also serves as authority for this rule.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves the following OMB-approved collections of information subject to the PRA:

• 0694-0088, “Multi-Purpose Application,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Russia, Belarus, and the temporarily occupied Crimea region of Ukraine under the EAR will result in an increase of 160 license applications submitted annually to BIS. However, the additional burden falls within the existing estimates currently associated with these control numbers. Additional information regarding these collections of information—including all background materials—can be found at https://www.reginfo.gov/public/do/PRAMain by using the search function to enter either the title of the collection or the OMB Control Number.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects

15 CFR Part 734

Administrative practice and procedure, Exports, Inventions and patents, Research, Science and technology.

15 CFR Part 746

Exports, Reporting and recordkeeping requirements.

15 CFR Part 750

Administrative practice and procedure, Exports, Reporting and recordkeeping requirements.

For the reasons stated in the preamble, parts 734, 746, and 750 of the Export Administration Regulations (15 CFR parts 730 through 774) are amended as follows:

PART 734—SCOPE OF THE EXPORT ADMINISTRATION REGULATIONS

1. The authority citation for 15 CFR part 734 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 8, 2022, 87 FR 68015 (November 10, 2022).

2. Section 734.9 is amended by revising the paragraphs (f) introductory text heading and (f)(1) heading and revising paragraph (f)(2) to read as follows:

§ 734.9 Foreign-Direct Product (FDP) Rules.

* * * * *

(f) Russia/Belarus/Temporarily occupied Crimea region of Ukraine FDP rule. * * *

(1) Product scope of Russia/Belarus/Temporarily occupied Crimea region of Ukraine FDP rule. * * *

(2) Destination scope of the Russia/Belarus/Temporarily occupied Crimea region of Ukraine FDP rule. A foreign-produced item meets the destination scope of this paragraph (f)(2) if there is “knowledge” that the foreign-produced item is destined to Russia, Belarus, or the temporarily occupied Crimea region of Ukraine or will be incorporated into or used in the “production” or” development” of any “part,” “component,” or “equipment” specified in any ECCN on the CCL or in supplement no. 6 or 7 to part 746 of the EAR and produced in or destined to Russia, Belarus, or the temporarily occupied Crimea region of Ukraine.

* * * * *

3. Supplement no. 2 to part 734 is amended by revising the third sentence of paragraph (a)(1) to read as follows:

Supplement No. 2 to Part 734—Guidelines for De Minimis Rules

(a) * * *

(1) * * * For purposes of identifying U.S.-origin controlled content, you should consult the Commerce Country Chart in supplement no. 1 to part 738 of the EAR and controls described in part 746 of the EAR (excluding U.S.-origin content that meets the criteria in §§ 746.5(a)(3), 746.7(a)(1)(v), or 746.8(a)(5)). * * *

* * * * *

PART 746—EMBARGOES AND OTHER SPECIAL CONTROLS

4. The authority citation for 15 CFR part 746 continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 9, 2022, 87 FR 28749 (May 10, 2022).

5. Section 746.5 is amended by:

a. Adding paragraph (a) introductory text, Note 1 to paragraph (a)(1), and paragraph (a)(3);

b. Revising paragraphs (b)(1) and (2);

c. Adding note 2 to paragraph (b); and

d. Adding paragraph (c)(3).

The additions and revisions read as follows:

§ 746.5 Russian and Belarusian Industry Sector Sanctions.

(a) * * * For purposes of paragraphs (a)(1)(i) through (iii) of this section, a license is not required for deemed exports and deemed reexports.

* * * * *

Note 1 to paragraph (a)(1): The exclusion for deemed exports and deemed reexports is limited to the license requirements specified in these paragraphs (a)(1)(i) through (iii). Any deemed export or deemed reexport to a Russian or Belarusian national must be made in accordance with all other applicable EAR license requirements, such as CCL-based license requirements. For example, the release of NS1 controlled technology to a Russian or Belarusian national in the United States or in a third country would require a CCL-based deemed export or deemed reexport license (as applicable). Consequently, authorization (in the form of a deemed export or deemed reexport license, or license exception eligibility) would be required under the EAR notwithstanding the exclusion in this paragraph (a)(1).

* * * * *

(3) Exclusion from scope of U.S.-origin controlled content under paragraph (a)(1)(i) through (iii) of this section. For purposes of determining U.S.-origin controlled content under supplement no. 2 to part 734 of the EAR when making a de minimis calculation for reexports and exports from abroad to Russia or Belarus, the license requirements in paragraph (a)(1)(i) through (iii) of this section are not used to determine controlled U.S.-origin content in a foreign-made item, provided the criteria in paragraphs (a)(3)(i) and (ii) of this section are met:

(i) The U.S.-origin content is described in supplement nos. 2, 4, or 6 and is not otherwise excluded from the applicable Scope column in supplement no. 3 to this part; and

(ii) The foreign made item will be reexported or exported from abroad from a country described in supplement no. 3 to this part.

(b) * * *

(1) Applications for the export, reexport, or transfer (in-country) of any item pursuant to paragraph (a)(1)(i) of this section that requires a license for Russia or Belarus will be reviewed under a policy of denial when for use directly or indirectly for exploration or production from deepwater (greater than 500 feet), Arctic offshore, or shale projects in Russia or Belarus that have the potential to produce oil or gas. The following types of license applications will be reviewed on a case-by-case basis to determine whether the transaction in question would benefit the Russian or Belarusian government or defense sector:

(i) Applications for export, reexport, or transfer (in-country) of items that may be necessary for health and safety reasons;

(ii) Applications for the disposition of items by companies not headquartered in Country Group D:1, D:5, E:1 or E:2 in supplement no. 1 to part 740 that are curtailing or closing all operations in Russia or Belarus;

(iii) Applications for items that are predominantly agricultural or medical in nature; and

(iv) Replacement licenses for exports and reexports to and transfers within Russia and Belarus of items described in HTS-6 Codes or items described in supplement no. 6 to part 746 that were added to the EAR and made subject to license requirements after the validation date of the BIS license.

(2) Applications for the export, reexport, or transfer (in-country) of any item pursuant to paragraph (a)(1)(ii) or (iii) of this section that requires a license for Russia or Belarus will be reviewed under a policy of denial. The following types of license applications will be reviewed on a case-by-case basis to determine whether the transaction in question would benefit the Russian or Belarusian government or defense sector:

(i) Applications for export, reexport, or transfer (in-country) of items that may be necessary for health and safety reasons;

(ii) Applications for items that meet humanitarian needs;

(iii) Applications for the disposition of items by companies not headquartered in Country Group D:1, D:5, E:1 or E:2 in supplement no. 1 to part 740 of this chapter that are curtailing or closing all operations in Russia or Belarus;

(iv) Applications for items that are predominantly agricultural or medical in nature; and

(v) replacement licenses for exports and reexports to and transfers within Russia and Belarus to add items described in HTS-6 Codes or items described in supplement no. 6 to part 746 that were added to the EAR after the validation date of the BIS license.

Note 2 to paragraph (b): See also § 750.7(c)(1)(xi) of the EAR for the divesture of items within Russia or Belarus or the transfer of items within Russia or Belarus for the purpose of reexporting such items from Russia or Belarus. For purposes of § 750.7(c)(1)(xi), divesture means the action or process of selling off subsidiary business interests or investments involving items subject to the EAR.

(c) * * *

(3) License Exception AVS, excluding any aircraft registered in, owned or controlled by, or under charter or lease by Russia or Belarus or a national of Russia or Belarus (§ 740.15(a) and (b) of the EAR).

6. Section 746.6 is amended by revising the section heading and paragraph (a)(1) and adding paragraph (a)(4) to read as follows:

§ 746.6 Temporarily occupied Crimea region of Ukraine and covered regions of Ukraine.

* * * * *

(a) License requirements—(1) General prohibition—Temporarily Occupied Crimea Region of Ukraine. (i) A license is required to export or reexport to or transfer within the temporarily occupied Crimea region of Ukraine any item subject to the EAR other than food and medicine designated as EAR99, or `software necessary to enable the exchange of personal communications over the Internet'; and

(ii) Except as described in paragraph (a)(4) of this section, a license is required to reexport, export from abroad, or transfer (in-country) to any destination any foreign-produced item subject to the EAR under the Russia/Belarus/Temporarily occupied Crimea region of Ukraine FDP rule described in § 734.9(f) of the EAR.

* * * * *

(4) Exclusion from license requirements under paragraph (a)(1)(ii) of this section. The countries listed in supplement No. 3 to this part have committed to implementing substantially similar export controls on Russia and Belarus under their domestic laws. Therefore, exports or reexports from the countries listed in supplement No. 3 to this part or transfers (in-country) within the countries listed in this supplement are not subject to the license requirements described in paragraphs (a)(1)(ii) of this section, unless a limit to the exclusion is described in the Scope column in supplement no. 3 to this part.

* * * * *

7. Section 746.8 is amended by:

a. Revising paragraph (a) introductory text, paragraphs (a)(2) and (4), and paragraph (b) to read as follows:

§ 746.8 Sanctions against Russia and Belarus.

(a) License requirements. For purposes of paragraphs (a)(1) and (2) of this section, commodities classified under ECCN 5A991, and commodities and software classified under ECCNs 5A992 or 5D992 that have been `classified in accordance with § 740.17' do not require a license to or within Russia or Belarus for the following civil end-users: wholly-owned U.S. subsidiaries, branches, or sales offices; joint ventures between two or more U.S. companies, including the wholly-owned subsidiaries, branches, or sales offices of such joint ventures; joint ventures between U.S. companies and companies headquartered in countries from Country Group A:5 and A:6 in supplement no. 1 to part 740 of the EAR, including the wholly-owned subsidiaries, branches, or sales offices of such joint ventures; wholly-owned subsidiaries, branches, or sales offices of companies headquartered in countries from Country Group A:5 and A:6 in supplement no. 1 to part 740; or joint ventures between two or more companies headquartered in Country Group A:5 and A:6 in supplement no. 1 to part 740, including the wholly-owned subsidiaries, branches, or sales offices of such joint ventures.

* * * * *

(2) Foreign-produced items subject to the EAR under Russia/Belarus/Temporarily occupied Crimea region of Ukraine foreign “direct product” (FDP) rule. Except as described in paragraph (a)(4) of this section, a license is required to reexport, export from abroad, or transfer (in-country) to any destination any foreign-produced item subject to the EAR under the Russia/Belarus/Temporarily occupied Crimea region of Ukraine FDP rule described in § 734.9(f) of the EAR.

* * * * *

(4) Exclusion from license requirements under paragraphs (a)(2) and (3) of this section. The countries listed in supplement No. 3 to this part have committed to implementing substantially similar export controls on Russia, Belarus, and the temporarily occupied Crimea region of Ukraine under their domestic laws. Therefore, exports or reexports from the countries listed in supplement No. 3 to this part or transfers (in-country) within the countries listed in this supplement are not subject to the license requirements described in paragraphs (a)(2) and (3) of this section, unless a limit to the exclusion is described in the Scope column in supplement no. 3 to this part.

* * * * *

(b) Licensing policy. (1) With limited exceptions, applications for the export, reexport, or transfer (in-country) of any item that requires a license pursuant to the requirements of this section will be reviewed with a policy of denial.

(2) The following types of license applications for licenses required under paragraphs (a)(1) and (2) of this section will be reviewed on a case-by-case basis to determine whether the transaction in question would benefit the Russian or Belarusian government or defense sector:

(i) Applications related to safety of flight;

(ii) Applications related to maritime safety;

(iii) Applications for civil nuclear safety;

(iv) Applications to meet humanitarian needs;

(v) Applications that support government space cooperation;

(vi) Applications for items destined to wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR, the wholly-owned subsidiaries, branches, or sales offices of companies headquartered in countries from Country Group A:5 and A:6 in supplement no. 1 to part 740, joint ventures of companies headquartered in Country Groups A:5 and A:6 with other companies headquartered in Country Groups A:5 and A:6;

(vii) Applications for companies headquartered in Country Groups A:5 and A:6 to support civil telecommunications infrastructure;

(viii) Applications for government-to-government activities; applications for the disposition of items by companies not headquartered in Country Group D:1, D:5, E:1 or E:2 in supplement no. 1 to part 740 that are curtailing or closing all operations in Russia or Belarus; and

(ix) Replacement licenses for exports and reexports to and transfers within Russia and Belarus to add items described in HTS-6 Codes that were added to the EAR after the effective date of the BIS export, reexport, in-country transfer license was issued.

(3) License applications required under paragraph (a)(3) of this section will be reviewed under a policy of denial in all cases.

Note 3 to paragraph (b): See also § 750.7(c)(1)(xi) for the divesture of items within Russia or Belarus or the transfer of items within Russia or Belarus for the purpose of reexporting from Russia or Belarus. For purposes of § 750.7(c)(1)(xi), divesture means the action or process of selling off subsidiary business interests or investments involving items subject to the EAR.

* * * * *

8. Section 746.10 is amended by:

a. Revising paragraph (a) introductory text;

b. Revising the second sentence of paragraph (b) and adding two sentences at the end of paragraph (b).

The revisions read as follows:

§ 746.10 `Luxury Goods' sanctions against Russia and Belarus and Russian and Belarusian oligarchs and malign actors.

(a) License requirements. For purposes of paragraphs (a)(1) and (2) of this section, commodities classified under ECCN 5A991, and commodities and software classified under ECCNs 5A992 or 5D992 that have been `classified in accordance with § 740.17' do not require a license to or within Russia or Belarus for the following civil end-users: wholly-owned U.S. subsidiaries, branches, or sales offices; joint ventures between two or more U.S. companies, including the wholly-owned subsidiaries, branches, or sales offices of such joint ventures; joint ventures between U.S. companies and companies headquartered in countries from Country Group A:5 and A:6 in supplement no. 1 to part 740 of the EAR, including the wholly-owned subsidiaries, branches, or sales offices of such joint ventures; wholly-owned subsidiaries, branches, or sales offices of companies headquartered in countries from Country Group A:5 and A:6 in supplement no. 1 to part 740; or joint ventures between two or more companies headquartered in Country Group A:5 and A:6 in supplement no. 1 to part 740, including the wholly-owned subsidiaries, branches, or sales offices of such joint ventures.

* * * * *

(b) Licensing policy. * * * The following types of license applications will be reviewed on a case-by-case basis to determine whether the transaction in question would benefit the Russian or Belarusian government or defense sector: applications involving items to meet humanitarian needs; applications for the disposition of items by companies not headquartered in Country Group D:1, D:5, E:1 or E:2 in supplement no. 1 to part 740 that are curtailing or closing all operations in Russia or Belarus; and replacement licenses for exports and reexports to and transfers within Russia and Belarus to add items described in HTS-6 Codes that were added to the EAR after the effective validation date of the BIS license. * * * See also § 750.7(c)(1)(xi) for the divesture of items within Russia or Belarus or the transfer of items within Russia or Belarus for the purpose of reexporting from Russia or Belarus. For purposes of § 750.7(c)(1)(xi), divesture means the action or process of selling off subsidiary business interests or investments involving items subject to the EAR.

* * * * *

9. Supplement No. 2 to part 746 is amended by revising the last sentence of paragraph (a) to read as follows:

Supplement No. 2 to Part 746—Russian and Belarusian Industry Sector Sanctions List Pursuant to § 746.5(a)(1)(i)

(a) * * * HTS-6 codes 730424, 731100, 761300, 841350, 841360, 841382, 841392, 842139, 843049, 843139, 843143, 847989, and 870520 are listed in both this supplement and supplement no. 4 to this part, so exporters, reexporters, and transferors must comply with the license requirements under both § 746.5(a)(1)(i) and (ii) as applicable.

* * * * *

10. Supplement No. 3 to part 746 is amended by revising the heading and the first sentence of the introductory text of the supplement to read as follows:

Supplement No. 3 to Part 746—Countries Excluded from Certain License Requirements of §§ 746.6, 746.7, and 746.8

Countries listed in this supplement have committed to implementing substantially similar export controls on Russia and Belarus, under their domestic laws and are consequently excluded from certain requirements in §§ 746.6 and 746.8 of the EAR, as described in §§ 746.6(a)(4) and 746.8(a)(4) and (5). * * *

* * * * *

11. Supplement No. 4 to part 746 is amended by:

a. In paragraph (a) revising the last sentence and adding a new sentence at the end of the paragraph;

b. Adding two sentences at the end of paragraph (b); and

c. Adding in numerical order the following entries to the table: “250810,” “250830,” “250840,” “250850,” “250860,” “250870,” “250900,” “251200,” “251511,” “251512,” “251520,” “251820,” “251910,” “252010,” “252100,” “252210,” “252220,” “252230,” “252510,” “252520,” “252530,” “252610,” “252620,” “253020,” “281820,” “282110,” “282510,” “282911,” “283539,” “284700,” “320110,” “320120,” “320190,” “320210,” “320290,” “320300,” “320490,” “320500,” “320641,” “320649,” “320710,” “320720,” “320730,” “320740,” “320810,” “320820,” “320890,” “320910,” “320990,” “321000,” “321290,” “321410,” “321490,” “321511,” “321519,” “340311,” “340319,” “340391,” “340399,” “350510,” “350699,” “370120,” “370191,” “370210,” “370231,” “370232,” “370239,” “370241,” “370242,” “370243,” “370244,” “370252,” “370253,” “370254,” “370255,” “370256,” “370296,” “370297,” “370298,” “370310,” “370320,” “370390,” “370500,” “370610,” “370690,” “380120,” “380620,” “380700,” “380910,” “380991,” “380992,” “380993,” “381010,” “381090,” “381111,” “381119,” “381121,” “381129,” “381190,” “381220,” “381300,” “381400,” “381511,” “381512,” “381590,” “381600,” “381700,” “381800,” “381900,” “382000,” “382313,” “382481,” “382484,” “382499,” “382590,” “382600,” “382790,” “390140,” “390220,” “390230,” “390290,” “390319,” “390390,” “390410,” “390450,” “390512,” “390519,” “390521,” “390529,” “390530,” “390591,” “390599,” “390610,” “390690,” “390721,” “390740,” “390770,” “390791,” “390810,” “390890,” “390920,” “390939,” “390940,” “390950,” “391211,” “391290,” “391520,” “391710,” “391723,” “391731,” “391732,” “391733,” “392010,” “392061,” “392069,” “392073,” “392091,” “392119,” “392290,” “392520,” “400211,” “400219,” “400220,” “400231,” “400239,” “400241,” “400249,” “400251,” “400259,” “400260,” “400270,” “400280,” “400291,” “400299,” “400510,” “400520,” “400591,” “400599,” “400610,” “400821,” “400912,” “400941,” “401011,” “401012,” “401019,” “401031,” “401032,” “401033,” “401034,” “401035,” “401036,” “401039,” “401120,” “401130,” “401211,” “401212,” “401213,” “401219,” “401220,” “401290,” “401693,” “440711,” “440712,” “440713,” “440714,” “440719,” “440721,” “440722,” “440723,” “440725,” “440726,” “440727,” “440728,” “440729,” “440791,” “440792,” “440793,” “440794,” “440795,” “440796,” “440797,” “440799,” “441113,” “441194,” “441210,” “441231,” “441233,” “441234,” “441239,” “441241,” “441242,” “441249,” “441251,” “441252,” “441259,” “441291,” “441292,” “441299,” “441830,” “441840,” “441879,” “450310,” “450390,” “450410,” “450490,” “470100,” “470311,” “470319,” “470321,” “470329,” “470411,” “470419,” “470421,” “470429,” “470500,” “470610,” “470620,” “470630,” “470691,” “470692,” “470693,” “470710,” “470720,” “470730,” “470790,” “480220,” “480240,” “480258,” “480261,” “480411,” “480419,” “480421,” “480429,” “480431,” “480439,” “480441,” “480442,” “480449,” “480451,” “480452,” “480459,” “480511,” “480512,” “480519,” “480524,” “480525,” “480530,” “480540,” “480550,” “480591,” “480592,” “480593,” “480610,” “480620,” “480630,” “480640,” “480700,” “480810,” “480840,” “480890,” “480920,” “480990,” “481013,” “481014,” “481019,” “481022,” “481029,” “481031,” “481032,” “481039,” “481092,” “481099,” “481110,” “481151,” “481159,” “481160,” “481190,” “481490,” “481920,” “482210,” “482290,” “482320,” “482340,” “482361,” “482369,” “482370,” “482390,” “490600,” “510510,” “510521,” “510529,” “510531,” “510539,” “510540,” “510610,” “510620,” “510710,” “510720,” “511211,” “511219,” “511220,” “511230,” “511290,” “520511,” “520512,” “520513,” “520514,” “520515,” “520521,” “520522,” “520523,” “520524,” “520526,” “520527,” “520528,” “520531,” “520532,” “520533,” “520534,” “520535,” “520541,” “520542,” “520543,” “520544,” “520546,” “520547,” “520548,” “520642,” “520911,” “521111,” “521112,” “521119,” “521120,” “521131,” “521132,” “521139,” “521141,” “521142,” “521143,” “521149,” “521151,” “521152,” “521159,” “530810,” “530820,” “530890,” “540263,” “540310,” “540331,” “540332,” “540333,” “540339,” “540341,” “540342,” “540349,” “540411,” “540412,” “540419,” “540490,” “540730,” “550111,” “550119,” “550120,” “550130,” “550140,” “550190,” “550210,” “550290,” “550311,” “550319,” “550320,” “550330,” “550340,” “550390,” “550490,” “550610,” “550620,” “550630,” “550640,” “550690,” “550700,” “551221,” “551299,” “551611,” “551612,” “551613,” “551614,” “551621,” “551622,” “551623,” “551624,” “551631,” “551632,” “551633,” “551634,” “551641,” “551642,” “551643,” “551644,” “551691,” “551692,” “551693,” “551694,” “560129,” “560130,” “560410,” “560490,” “560500,” “560741,” “580127,” “580300,” “580640,” “590110,” “590190,” “590500,” “590800,” “591000,” “591110,” “591131,” “591132,” “591140,” “600199,” “600310,” “600320,” “600330,” “600340,” “600390,” “600536,” “600544,” “600610,” “630900,” “680292,” “680423,” “680610,” “680620,” “680690,” “680710,” “680790,” “680919,” “681091,” “681140,” “681181,” “681182,” “681189,” “681320,” “681381,” “681389,” “681490,” “681511,” “690100,” “690410,” “690510,” “690590,” “690600,” “690722,” “690740,” “690990,” “700210,” “700220,” “700231,” “700232,” “700239,” “700312,” “700319,” “700320,” “700330,” “700420,” “700490,” “700510,” “700521,” “700529,” “700530,” “700711,” “700729,” “701110,” “701911,” “701912,” “701913,” “720292,” “720711,” “720712,” “720719,” “720720,” “721090,” “721113,” “721114,” “721129,” “721210,” “721260,” “721310,” “721320,” “721391,” “721399,” “721550,” “721610,” “721621,” “721622,” “721631,” “721632,” “721633,” “721640,” “721650,” “721661,” “721669,” “721691,” “721699,” “721810,” “721891,” “721899,” “722230,” “722410,” “722490,” “722519,” “722530,” “722599,” “722691,” “722810,” “722820,” “722830,” “722840,” “722850,” “722860,” “722870,” “722880,” “722990,” “730120,” “730424,” “730539,” “730650,” “730722,” “731100,” “731412,” “731824,” “732020,” “732290,” “732429,” “740710,” “740721,” “740729,” “740811,” “740819,” “740821,” “740822,” “740829,” “740911,” “740919,” “740921,” “740929,” “740931,” “740939,” “740940,” “740990,” “741129,” “741521,” “750511,” “750512,” “750521,” “750522,” “750610,” “750620,” “750711,” “750712,” “750720,” “750810,” “750890,” “760511,” “760519,” “760521,” “760529,” “760692,” “760720,” “761100,” “761290,” “761300,” “761610,” “780411,” “780419,” “780420,” “790500,” “800110,” “800120,” “800300,” “800700,” “810110,” “810210,” “810294,” “810295,” “810296,” “810297,” “810299,” “810590,” “810921,” “810929,” “810931,” “810939,” “810991,” “810999,” “820220,” “830120,” “830170,” “830230,” “830710,” “830790,” “830910,” “830990,” “840110,” “840120,” “840130,” “840140,” “840211,” “840310,” “840390,” “840610,” “840710,” “840731,” “840732,” “840733,” “840734,” “840790,” “840910,” “840991,” “841011,” “841012,” “841013,” “841181,” “841182,” “841199,” “841231,” “841290,” “841320,” “841340,” “841370,” “841382,” “841391,” “841392,” “841420,” “841430,” “841440,” “841451,” “841459,” “841460,” “841470,” “841480,” “841510,” “841581,” “841582,” “841590,” “841710,” “841780,” “841790,” “841810,” “841821,” “841829,” “841830,” “841840,” “841850,” “841891,” “841899,” “841911,” “841912,” “841920,” “841933,” “841934,” “841935,” “841939,” “841981,” “842010,” “842112,” “842121,” “842122,” “842132,” “842211,” “842219,” “842220,” “842230,” “842240,” “842290,” “842310,” “842320,” “842330,” “842381,” “842382,” “842389,” “842390,” “842420,” “842430,” “842441,” “842449,” “842482,” “842519,” “842539,” “842541,” “842542,” “842549,” “842810,” “842840,” “842860,” “843020,” “843031,” “843041,” “843061,” “843110,” “843131,” “843142,” “843143,” “843210,” “843221,” “843229,” “843231,” “843239,” “843241,” “843242,” “843280,” “843290,” “843311,” “843319,” “843320,” “843330,” “843340,” “843351,” “843352,” “843353,” “843359,” “843360,” “843390,” “843410,” “843420,” “843490,” “843510,” “843590,” “843610,” “843621,” “843629,” “843680,” “843691,” “843699,” “843710,” “843780,” “843790,” “843810,” “843820,” “843830,” “843840,” “843850,” “843860,” “843880,” “843890,” “843920,” “843991,” “843999,” “844010,” “844110,” “844120,” “844140,” “844180,” “844190,” “844250,” “844312,” “844314,” “844331,” “844332,” “844339,” “844399,” “844511,” “844512,” “844513,” “844519,” “844520,” “844530,” “844540,” “844590,” “844610,” “844630,” “844711,” “844712,” “844720,” “844790,” “844831,” “844832,” “844859,” “844900,” “845011,” “845012,” “845019,” “845020,” “845090,” “845121,” “845140,” “845150,” “845180,” “845210,” “845221,” “845229,” “845290,” “845320,” “845430,” “845510,” “845521,” “845590,” “845611,” “845612,” “845630,” “845650,” “845720,” “845929,” “845939,” “845951,” “845959,” “845969,” “846510,” “846591,” “846592,” “846595,” “846599,” “846630,” “846711,” “846719,” “846721,” “846722,” “846729,” “846781,” “846789,” “846791,” “846792,” “846799,” “847010,” “847021,” “847029,” “847030,” “847050,” “847090,” “847130,” “847141,” “847149,” “847150,” “847160,” “847170,” “847180,” “847190,” “847290,” “847329,” “847340,” “847350,” “847420,” “847432,” “847490,” “847510,” “847621,” “847629,” “847681,” “847689,” “847690,” “847710,” “847720,” “847780,” “847810,” “847890,” “847920,” “847940,” “847960,” “847971,” “847979,” “847983,” “848010,” “848041,” “848049,” “848050,” “848071,” “848079,” “848180,” “848190,” “848510,” “848580,” “850110,” “850132,” “850134,” “850140,” “850151,” “850152,” “850171,” “850172,” “850180,” “850410,” “850421,” “850422,” “850423,” “850431,” “850440,” “850450,” “850490,” “850519,” “850610,” “850630,” “850640,” “850650,” “850680,” “850750,” “850760,” “850780,” “850790,” “850811,” “850819,” “850860,” “850870,” “850940,” “850980,” “850990,” “851010,” “851020,” “851030,” “851090,” “851210,” “851230,” “851240,” “851310,” “851390,” “851440,” “851531,” “851539,” “851580,” “851590,” “851610,” “851629,” “851631,” “851632,” “851633,” “851640,” “851650,” “851660,” “851671,” “851672,” “851679,” “851690,” “851711,” “851713,” “851714,” “851718,” “851761,” “851762,” “851769,” “851810,” “851821,” “851822,” “851829,” “851830,” “851840,” “851850,” “851890,” “851920,” “851930,” “851981,” “851989,” “852110,” “852190,” “852210,” “852290,” “852321,” “852329,” “852341,” “852349,” “852352,” “852359,” “852380,” “852411,” “852412,” “852419,” “852491,” “852492,” “852499,” “852560,” “852691,” “852712,” “852713,” “852719,” “852729,” “852791,” “852792,” “852799,” “852842,” “852852,” “852859,” “852862,” “852869,” “852871,” “852872,” “852873,” “852990,” “853110,” “853120,” “853180,” “853190,” “853222,” “853223,” “853225,” “853310,” “853321,” “853331,” “853339,” “853340,” “853610,” “853620,” “853630,” “853641,” “853649,” “853661,” “853670,” “853720,” “853910,” “853921,” “853922,” “853931,” “853932,” “853949,” “853990,” “854011,” “854012,” “854040,” “854340,” “854390,” “854419,” “854420,” “854442,” “854511,” “854519,” “854590,” “854610,” “854620,” “854690,” “860210,” “860610,” “860630,” “860691,” “860699,” “870121,” “870122,” “870123,” “870124,” “870130,” “870321,” “870322,” “870323,” “870324,” “870331,” “870332,” “870333,” “870340,” “870350,” “870360,” “870370,” “870380,” “870390,” “870431,” “870441,” “870442,” “870443,” “870451,” “870452,” “870460,” “870490,” “870520,” “870530,” “890110,” “890311,” “890312,” “890319,” “890321,” “890322,” “890323,” “890331,” “890332,” “890333,” “890393,” “890399,” “900120,” “900130,” “900140,” “900150,” “900190,” “900211,” “900219,” “900220,” “900290,” “900311,” “900319,” “900390,” “900410,” “900490,” “900710,” “900720,” “900791,” “900792,” “900850,” “900890,” “901050,” “901060,” “901090,” “901110,” “901120,” “901180,” “901190,” “901210,” “901290,” “901310,” “901320,” “901390,” “901530,” “901600,” “901710,” “901720,” “901730,” “901780,” “901790,” “901811,” “901812,” “901813,” “901814,” “901819,” “901820,” “901831,” “901832,” “901839,” “901841,” “901849,” “901850,” “901890,” “901910,” “901920,” “902000,” “902110,” “902121,” “902129,” “902131,” “902139,” “902140,” “902150,” “902190,” “902212,” “902213,” “902214,” “902219,” “902221,” “902229,” “902230,” “902290,” “902300,” “902410,” “902490,” “902511,” “902580,” “902720,” “902730,” “902750,” “902790,” “902810,” “902820,” “902830,” “902890,” “903010,” “903020,” “903031,” “903033,” “903084,” “903090,” “903110,” “903141,” “903190,” “903210,” “903220,” “903290,” “903300,” “940110,” “940120,” “940330,” “940610,” “940620,” “940690,” “950300,” “960610,” “960621,” “960622,” “960629,” “960630,” “960891,” and “961220”.

The additions and revisions read as follows:

Supplement No. 4 to Part 746—Russian and Belarusian Industry Sector Sanctions pursuant to § 746.5(a)(1)(ii)

(a) * * * HTS-6 codes 730424, 731100, 761300, 841350, 841360, 841382, 841392, 842139, 843049, 843139, 843143, 847989, and 870520 are listed in both this supplement and supplement no. 2 to this part, so exporters, reexporters, and transferors must comply with the license requirements under both § 746.5(a)(1)(i) and (ii) as applicable. HTS-6 Codes 590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000 are listed in both this supplement and supplement no. 5 to this part, so exporters, reexporters, and transferors must comply with the license requirements under both §§ 746.5(a)(1)(ii) and 746.10 as applicable.

(b) * * * When a description mentions parts related to one or more numerical headings, this means parts related to any HS codes that begin with the digits in the range specified. For example, `headings 8524 to 8528' means any HS code, HTS code, or Schedule B which has 8524, 8525, 8526, 8527, or 8528 as the first four digits.

HTS-6 Code | HTS description
250810 | BENTONITE, WHETHER OR NOT CALCINED.
250830 | FIRE CLAY, WHETHER OR NOT CALCINED.
250840 | CLAYS (EXCLUDING EXPANDED CLAYS), NESOI, INCLUDING COMMON BLUE CLAY AND OTHER BALL CLAYS, WHETHER OR NOT CALCINED.
250850 | ANDALUSITE, KYANITE AND SILLIMANITE, WHETHER OR NOT CALCINED.
250860 | MULLITE.
250870 | CHAMOTTE OR DINAS EARTH.
250900 | CHALK.
251200 | SILICEOUS FOSSIL MEALS (INCLUDING KIESELGUHR, TRIPOLITE AND DIATOMITE) AND SIMILAR SILICEOUS EARTHS, OF AN APPARENT SPECIFIC GRAVITY OF 1 OR LESS.
251511 | MARBLE AND TRAVERTINE, CRUDE OR ROUGHLY TRIMMED.
251512 | MARBLE AND TRAVERTINE, MERELY CUT INTO BLOCKS OR SLABS OF RECTANGULAR OR SQUARE SHAPE.
251520 | CALCAREOUS MONUMENTAL OR BUILDING STONE, EXCEPT MARBLE AND TRAVERTINE; ALABASTER.
251820 | CALCINED DOLOMITE.
251910 | NATURAL MAGNESIUM CARBONATE (MAGNESITE).
252010 | GYPSUM; ANHYDRITE.
252100 | LIMESTONE FLUX; LIMESTONE AND OTHER CALCAREOUS STONE, OF A KIND USED FOR THE MANUFACTURE OF LIME OR CEMENT (OR FOR SOIL IMPROVEMENT).
252210 | QUICKLIME.
252220 | SLAKED LIME.
252230 | HYDRAULIC LIME.
252510 | CRUDE MICA AND MICA RIFTED INTO SHEETS OR SPLITTINGS.
252520 | MICA POWDER.
252530 | MICA WASTE.
252610 | NATURAL STEATITE AND TALC, NOT CRUSHED, NOT POWDERED.
252620 | NATURAL STEATITE AND TALC, CRUSHED OR POWDERED.
253020 | KIESERITE, EPSOM SALTS (NATURAL MAGNESIUM SULFATES).
281820 | ALUMINUM OXIDE, EXCEPT ARTIFICIAL CORUNDUM, NESOI.
282110 | IRON OXIDES AND HYDROXIDES.
282510 | HYDRAZINE AND HYDROXYLAMINE AND THEIR INORGANIC SALTS.
282911 | SODIUM CHLORATE.
283539 | POLYPHOSPHATES, NESOI.
284700 | HYDROGEN PEROXIDE, WHETHER OR NOT SOLIDIFIED WITH UREA.
320110 | QUEBRACHO EXTRACT.
320120 | WATTLE EXTRACT.
320190 | TANNING EXTRACTS OF VEGETABLE ORIGIN, NESOI; TANNINS AND THEIR SALTS, ETHERS, ESTERS AND OTHER DERIVATIVES.
320210 | SYNTHETIC ORGANIC TANNING SUBSTANCES.
320290 | INORGANIC TANNING SUBSTANCES; TANNING PREPARATIONS; ENZYMATIC PREPARATIONS FOR PRE-TANNING.
320300 | COLORING MATTER OF VEGETABLE OR ANIMAL ORIGIN AND PREPARATIONS BASED THEREON.
320490 | SYNTHETIC ORGANIC COLORING MATTER, NESOI.
320500 | COLOR LAKES; PREPARATIONS BASED ON COLOR LAKES.
320641 | ULTRAMARINE AND PREPARATIONS BASED THEREON.
320649 | COLORING MATTER OF A KIND USED FOR COLORING ANY MATERIAL OR USED IN THE MANUFACTURE OF COLORING PREPARATIONS (OTHER THAN PAINTS OR ENAMELS), NESOI.
320710 | PREPARED PIGMENTS, PREPARED OPACIFIERS, PREPARED COLORS AND SIMILAR PREPARATIONS.
320720 | VITRIFIABLE ENAMELS AND GLAZES, ENGOBES (SLIPS) AND SIMILAR PREPARATIONS.
320730 | LIQUID LUSTRES AND SIMILAR PREPARATIONS.
320740 | GLASS FRIT AND OTHER GLASS, IN THE FORM OF POWDER, GRANULES OR FLAKES.
320810 | PAINTS AND VARNISHES (INCLUDING ENAMELS AND LACQUERS) BASED ON SYNTHETIC AND OTHER POLYMERS, IN A NONAQUEOUS MEDIUM, BASED ON POLYESTERS.
320820 | PAINTS AND VARNISHES (INCLUDING ENAMELS AND LACQUERS) BASED ON SYNTHETIC AND OTHER POLYMERS IN A NONAQUEOUS MEDIUM, BASED ON ACRYLIC OR VINYL POLYMERS.
320890 | PAINTS AND VARNISHES (INCLUDING ENAMELS AND LACQUERS) BASED ON SYNTHETIC AND OTHER POLYMERS IN A NONAQUEOUS MEDIUM, NESOI.
320910 | PAINTS AND VARNISHES (INCLUDING ENAMELS AND LACQUERS) BASED ON SYNTHETIC AND OTHER POLYMERS IN AN AQUEOUS MEDIUM, BASED ON ACRYLIC OR VINYL POLYMERS.
320990 | PAINTS AND VARNISHES (INCLUDING ENAMELS AND LACQUERS) BASED ON SYNTHETIC AND OTHER POLYMERS IN AN AQUEOUS MEDIUM, NESOI.
321000 | PAINTS AND VARNISHES (INCLUDING ENAMELS, LACQUERS AND DISTEMPERS); PREPARED WATER PIGMENTS OF A KIND USED FOR FINISHING LEATHER.
321290 | PIGMENTS (INCLUDING METALLIC POWDERS AND FLAKES) IN NONAQUEOUS MEDIA FOR PAINT MANUFACTURE; DYES AND COLORS PACKAGED FOR RETAIL SALES.
321410 | MASTICS (INCLUDING GLAZIERS' PUTTY, GRAFTING PUTTY, RESIN CEMENTS AND CAULKIING COMPOUNDS); PAINTERS' FILLINGS.
321490 | NONREFRACTORY SURFACING PREPARATIONS FOR FACADES, INDOOR WALLS, FLOORS, CEILINGS OR THE LIKE.
321511 | PRINTING INK, BLACK.
321519 | PRINTING INK, OTHER THAN BLACK.
340311 | LUBRICATING PREPARATIONS FOR THE TREATMENT OF TEXTILE MATERIALS, LEATHER, FURSKINS OR OTHER MATERIALS, CONTAINING PETROLEUM OR BITUMINOUS MINERAL OILS.
340319 | LUBRICATING PREPARATIONS CONTAINING PETROLEUM OILS OR OILS OBTAINED FROM BITUMINOUS MINERALS, NESOI.
340391 | LUBRICATNG PREPARTIONS FOR THE TREATMENT OF TEXTILE MATERIALS, LEATHER, FUR OR OTHER MATERIALS, NOT CONTAINING PETROLEUM OR BITUMINOUS MINERAL OILS.
340399 | LUBRICATING PREPARATIONS NOT CONTAINING PETROLEUM OILS OR OILS OBTAINED FROM BITUMINOUS MINERALS, NESOI.
350510 | DEXTRINS AND OTHER MODIFIED STARCHES.
350699 | PREPARED GLUES AND ADHESIVES, NESOI.
370120 | INSTANT PRINT FILM IN THE FLAT.
370191 | PHOTOGRAPHIC PLATES AND FLAT FILM (OF MATERIAL OTHER THAN PAPER, PAPERBOARD OR TEXTILES) FOR COLOR PHOTOGRAPHY (POLYCHROME), SENSITIZED, UNEXPOSED.
370210 | X-RAY FILM IN ROLLS, SENSITIZED, UNEXPOSED.
370231 | PHOTOGRAPHIC FILM IN ROLLS, NESOI, WITHOUT SPROCKET HOLES, NOT OVER 105 MM IN WIDTH, FOR COLOR PHOTOGRAPHY (POLYCHROME), SENSITIZED, UNEXPOSED.
370232 | PHOTOGRAPHIC FILM IN ROLLS, NESOI, WITHOUT SPROCKET HOLES, NOT OVER 105 MM (4.1 IN.) IN WIDTH, WITH SILVER HALIDE EMULSION, SENSITIZED, UNEXPOSED.
370239 | PHOTOGRAPHIC FILM IN ROLLS, NESOI, WITHOUT SPROCKET HOLES, NOT OVER 105 MM (4.1 IN.) IN WIDTH, NESOI, SENSITIZED, UNEXPOSED.
370241 | PHOTOGRAPHIC FILM IN ROLLS, NESOI, WITHOUT SPROCKET HOLES, OVER 610 MM IN WIDTH AND OVER 200 M IN LENGTH, FOR COLOR PHOTOGRAPHY, SENSITIZED, UNEXPOSED.
370242 | PHOTOGRAPHIC FILM IN ROLLS, NESOI, WITHOUT SPROCKET HOLES, OVER 610 MM IN WIDTH AND OVER 200 M IN LENGTH, NESOI, SENSITIZED, UNEXPOSED.
370243 | PHOTOGRAPHIC FILM IN ROLLS, NESOI, WITHOUT SPROCKET HOLES, OVER 610 MM (24 IN.) IN WIDTH AND NOT OVER 200 M (656 FT.) IN LENGTH, SENSITIZED, UNEXPOSED.
370244 | PHOTOGRAPHIC FILM IN ROLLS, NESOI, WITHOUT SPROCKET HOLES, OVER 105 MM (4.1 IN.) BUT NOT OVER 610 MM (24 IN.) IN WIDTH, SENSITIZED, UNEXPOSED.
370252 | PHOTOGRAPHIC FILM IN ROLLS WITH PERFORATIONS, FOR COLOR PHOTOGRAPHY (POLYCHROME), NOT OVER 16 MM (0.6 IN.) WIDE, SENSITIZED, UNEXPOSED, ETC.
370253 | PHOTOGRAPHIC FILM ROLLS, NESOI, FILM NESOI, FOR COLOR SLIDES, OVER 16 MM, NOT OVER 35 MM WIDE AND NOT OVER 30 M LONG, SENSITIZED, UNEXPOSED.
370254 | PHOTOGRAPHIC FILM ROLLS, NESOI, FILM NESOI, FOR COLOR PHOTOGRAPHY NESOI, OVER 16 MM, NOT OVER 35 MM WIDE AND NOT OVER 30 M LONG, SENSITIZED, UNEXPOSED.
370255 | PHOTOGRAPHIC FILM ROLLS, NESOI, FILM NESOI, FOR COLOR PHOTOGRAPHY, OVER 16 MM, BUT NOT OVER 35 MM WIDE AND OVER 30 M LONG, SENSITIZED, UNEXPOSED.
370256 | PHOTOGRAPHIC FILM ROLLS, NESOI, FILM NESOI, FOR COLOR PHOTOGRAPHY, OVER 35 MM (1.4 IN.) WIDE, SENSITIZED, UNEXPOSED.
370296 | PHOTOGRAPHIC FILM OF A WIDTH NOT EXCEEDING 35 MM (1.4 IN.) AND OF A LENGTH NOT EXCEEDING 30 M (98 FT.), MONOCHROME, SENSITIZED, UNEXPOSED, NESOI.
370297 | PHOTOGRAPHIC FILM OF A WIDTH NOT EXCEEDING 35 MM (1.4 IN.) AND OF A LENGTH EXCEEDING 30 M (98 FT.), MONOCHROME, SENSITIZED, UNEXPOSED, NESOI.
370298 | PHOTOGRAPHIC FILM OF A WIDTH EXCEEDING 35 MM (1.4 IN.), MONOCHROME (BLACK AND WHITE), SENSITIZED, UNEXPOSED, NOT OF PAPER, PAPERBOARD ETC, NESOI.
370310 | PHOTOGRAPHIC PAPER, PAPERBOARD AND TEXTILES IN ROLLS, OVER 610 MM (24 IN.) WIDE, SENSITIZED, UNEXPOSED.
370320 | PHOTOGRAPHIC PAPER, PAPERBOARD AND TEXTILES, NESOI, FOR COLOR PHOTOGRAPHY (NOT IN ROLLS OVER 610 MM (24 IN.) WIDE), SENSITIZED, UNEXPOSED.
370390 | PHOTOGRAPHIC PAPER, PAPERBOARD AND TEXTILES, NESOI, OTHER THAN FOR COLOR PHOTOGRAPHY (NOT IN ROLLS OVER 610 MM (24 IN.) WIDE), SENSITIZED, UNEXPOSED.
370500 | PHOTOGRAPHIC PLATES AND FILM, EXPOSED AND DEVELOPED, OTHER THAN CINEMATOGRAPHIC FILM.
370610 | MOTION-PICTURE FILM, EXPOSED AND DEVELOPED, 35 MM (1.4 IN.) OR OVER IN WIDTH.
370690 | MOTION-PICTURE FILM, EXPOSED AND DEVELOPED, LESS THAN 35 MM (1.4 IN.) IN WIDTH.
380120 | COLLOIDAL OR SEMI-COLLOIDAL GRAPHITE.
380620 | SALTS OF ROSIN OR OF RESIN ACIDS OR OF DERIVATIVES OF ROSIN OR RESIN ACIDS, EXCEPT SALTS OF ROSIN ADDUCTS.
380700 | WOOD TAR; WOOD TAR OILS; WOOD CRESOTE; WOOD NAPHTHA; VEGETABLE PITCH; BREWERS' PITCH AND LIKE PRODUCTS BASED ON ROSIN, RESIN ACIDS OR VEGETABLE PITCH.
380910 | FINISHING AGENTS, DYE CARRIERS AND DRESSINGS USED IN THE TEXTILE, PAPER ETC. INDUSTRIES, WITH A BASIS OF AMYLACEOUS SUBSTANCES.
380991 | FINISHING AGENTS, DYE CARRIERS AND PREPARATIONS NESOI, OF A KIND USED IN THE TEXTILE OR LIKE INDUSTRIES.
380992 | FINISHING AGENTS, DYE CARRIERS AND PREPARATIONS NESOI, OF A KIND USED IN THE PAPER OR LIKE INDUSTRIES.
380993 | FINISHING AGENTS, DYE CARRIERS AND PREPARATION NESOI, OF A KIND USED IN THE LEATHER OR LIKE INDUSTRIES.
381010 | PICKLING PREPARATION FOR METAL SURFACES; SOLDERING, BRAZING OR WELDING POWDERS AND PASTES CONSISTING OF METAL AND OTHER MATERIALS.
381090 | FLUXES AND OTHER AUXILIARY PREPARATIONS FOR SOLDERING, BRAZING OR WELDING, NESOI; PREPARED CORES OR COATINGS FOR WELDING ELECTRODES OR RODS.
381111 | ANTIKNOCK PREPARATIONS, BASED ON LEAD COMPOUNDS.
381119 | ANTIKNOCK PREPARATIONS, NESOI.
381121 | ADDITIVES FOR LUBRICATING OILS CONTAINING PETROLEUM OILS OR OILS OBTAINED FROM BITUMINOUS MINERALS.
381129 | ADDITIVES FOR LUBRICATING OILS, NESOI.
381190 | PREPARED ADDITIVES FOR MINERAL OILS (INCLUDING GASOLINE) OR FOR OTHER LIQUIDS USED FOR THE SAME PURPOSE AS MINERAL OILS, NESOI.
381220 | COMPOUND PLASTICIZERS FOR RUBBER OR PLASTICS.
381300 | PREPARATIONS AND CHARGES FOR FIRE-EXTINGUISHERS; CHARGED FIRE-EXTINGUISHNG GRENADES.
381400 | ORGANIC COMPOSITE SOLVENTS AND THINNERS, NESOI; PREPARED PAINT OR VARNISH REMOVERS.
381511 | SUPPORTED CATALYSTS WITH NICKEL OR NICKEL COMPOUNDS AS THE ACTIVE SUBSTANCE.
381512 | SUPPORTED CATALYSTS WITH PRECIOUS METAL OR PRECIOUS METAL COMPOUNDS AS THE ACTIVE SUBSTANCE.
* * * * * * *
381590 | REACTION INITIATORS, REACTION ACCELERATORS AND CATALYTIC PREPARATIONS, NESOI.
381600 | REFRACTORY CEMENTS, MORTARS, CONCRETES, AND SIMILAR COMPOSITIONS (EXCEPT OF GRAPHITE OR OTHER CARBON PREPARATIONS), NESOI.
381700 | MIXED ALKYLBENZENES AND MIXED ALKLNAPHTHALENES, OTHER THAN THOSE OF HEADING 2707 OR 2902.
381800 | CHEMICAL ELEMENTS DOPED FOR USE IN ELECTRONICS, IN THE FORM OF DISCS, WAFERS OR SIMILAR FORMS; CHEMICAL COMPOUNDS DOPED FOR USE IN ELECTRONICS.
381900 | HYDRAULIC BRAKE FLUIDS AND PREPARED LIQUIDS FOR HYDRAULIC TRANSMISSION, WITH LESS THAN 70% (IF ANY) BY WEIGHT OF PETROLEUM OR BITUMINOUS MINERAL OILS.
382000 | ANTIFREEZING PREPARATIONS AND PREPARED DEICING FLUIDS.
382313 | TALL OIL FATTY ACIDS.
382481 | MIXTURES AND PREPARATIONS CONTAINING OXIRANE (ETHYLENE OXIDE).
382484 | MIX AND PREPS CONTAINING ALDRIN, CAMPHECHLOR, CHLORDANE, CHLORDECONE, DDT, 1,1,1-TRICHLORO-2-2BIS(P-CHLOROPHENYL)ETHANES),DIELDRIN, ENDOSULFAN,ETC.
382499 | CHEMICAL PRODUCTS AND PREPARATIONS OF THE CHEMICAL OR ALLIED INDUSTRIES, N.E.S.O.I.; RESIDUAL PRODUCTS OF THE CHEMICAL OR ALLIED INDUSTRIES, N.E.S.O.I.
382590 | WASTE AS SPECIFIED IN CHAPTER 38 NOTES, NESOI.
382600 | BIODIESEL AND MIXTURES THEREOF, NOT CONTAINING OR CONTAINING LESS THAN 70% BY WEIGHT OF PETROLEUM OILS OR OILS OBTAINED FROM BITUMINOUS MATERIALS.
382790 | ACYCLIC PERHALOGENATED DERIVATIVES, NESOI.
390140 | ETHYLENE-ALPHA-OLEFIN COPOLYMERS, HAVING A SPECIFIC GRAVITY OF LESS THAN 0.94.
390220 | POLYISOBUTYLENE, IN PRIMARY FORMS.
390230 | PROPYLENE COPOLYMERS, IN PRIMARY FORMS.
390290 | POLYMERS OF PROPYLENE OR OTHER OLEFINS NESOI, IN PRIMARY FORMS.
390319 | POLYSTYRENE NESOI, IN PRIMARY FORMS.
390390 | POLYMERS OF STYRENE NESOI, IN PRIMARY FORMS.
390410 | POLYVINYL CHLORIDE, NOT MIXED WITH ANY OTHER SUBSTANCES, IN PRIMARY FORMS.
390450 | VINYLIDENE CHLORIDE POLYMERS, IN PRIMARY FORMS.
390512 | POLYMERS OF VINYL ACETATE,IN AQUEOUS DISPERSION.
390519 | POLYMERS OF VINYL ACETATE, NOT IN AQUEOUS DISPERSION, IN PRIMARY FORMS.
390521 | VINYL ACETATE COPOLYMERS,IN AQUEOUS DISPERSION.
390529 | VINYL ACETATE COPOLYMERS, NESOI.
390530 | POLYVINYL ALCOHOLS, WHETHER OR NOT CONTAINING UNHYDROLYZED ACETATE GROUPS.
390591 | COPOLYMERS OF VINYL ESTERS, IN PRIMARY FORMS, N.E.S.O.I.
390599 | VINYL POLYMERS IN PRIMARY FORMS, N.E.S.O.I.
390610 | POLYMETHYL METHACRYLATE, IN PRIMARY FORMS.
390690 | ACRYLIC POLYMERS NESOI, IN PRIMARY FORMS.
390721 | POLYETHERS NESOI, IN PRIMARY FORMS.
390740 | POLYCARBONATES, IN PRIMARY FORMS.
390770 | POLY(LACTIC) ACID, IN PRIMARY FORMS.
390791 | POLYESTERS NESOI, UNSATURATED, IN PRIMARY FORMS.
390810 | POLYAMIDE-6,-11,-12,-6,6,-6,9,-6,10 OR -6,12 (NYLON TYPE), IN PRIMARY FORMS.
390890 | POLYAMIDES NESOI, IN PRIMARY FORMS.
390920 | MELAMINE RESINS, IN PRIMARY FORMS.
390939 | AMINO-RESINS, NESOI.
390940 | PHENOLIC RESINS, IN PRIMARY FORMS.
390950 | POLYURETHANES, IN PRIMARY FORMS.
391211 | CELLULOSE ACETATES, NONPLASTICIZED, IN PRIMARY FORMS.
391290 | CELLULOSE AND ITS CHEMICAL DERIVATIVES NESOI, IN PRIMARY FORMS.
391520 | WASTE, PARINGS AND SCRAP, OF POLYMERS OF STYRENE.
391710 | ARTIFICIAL GUTS (SAUSAGE CASING), OF HARDENED PROTEIN OR OF CELLULOSIC PLASTIC MATERIALS.
391723 | TUBES, PIPES AND HOSES, RIGID, OF POLYMERS OF VINYL CHLORIDE.
391731 | FLEXIBLE TUBES, PIPES AND HOSES, HAVING A MINIMUM BURST PRESSURE OF 27.6 MPA, OF PLASTICS.
391732 | TUBES, PIPES AND HOSES NESOI, NOT REINFORCED OR OTHERWISE COMBINED WITH OTHER MATERIALS, OF PLASTICS, WITHOUT FITTINGS.
391733 | TUBES, PIPES AND HOSES NESOI, NOT REINFORCED OR OTHERWISE COMBINED WITH OTHER MATERIALS, OF PLASTICS, WITH FITTINGS.
392010 | PLATES, SHEETS, FILM, FOIL AND STRIP OF PLASTICS, NOT SELF-ADHESIVE, NON-CELLULAR, NOT REINFORCED OR LAMINATED ETC., OF POLYMERS OF ETHYLENE.
392061 | PLATES, SHEETS, FILM, FOIL AND STRIP OF PLASTICS, NOT SELF-ADHESIVE, NON-CELLULAR, NOT REINFORCED ETC., OF POLYCARBONATES.
392069 | PLATES, SHEETS, FILM, FOIL AND STRIP OF PLASTICS, NOT SELF-ADHESIVE, NON-CELLULAR, NOT REINFORCED OR LAMINATED ETC., OF POLYESTERS NESOI.
392073 | PLATES, SHEETS, FILM, FOIL AND STRIP OF PLASTICS, NOT SELF-ADHESIVE, NON-CELLULAR, NOT REINFORCED OR LAMINATED ETC., OF CELLULOSE ACETATE.
392091 | PLATES, SHEETS, FILM, FOIL AND STRIP OF PLASTICS, NOT SELF-ADHESIVE, NON-CELLULAR, NOT REINFORCED OR LAMINATED ETC., OF POLYVINYL BUTYRAL.
392119 | PLATES, SHEETS, FILM, FOIL AND STRIP OF PLASTICS NESOI, CELLULAR PLASTICS NESOI.
392290 | BIDETS, LAVATORY PANS, FLUSHING CISTERNS AND SIMILAR SANITARY WARE, OF PLASTICS.
392520 | DOORS, WINDOWS AND THEIR FRAMES AND THRESHOLDS FOR DOORS, OF PLASTICS.
400211 | LATEX OF STYRENE-BUTADIENE RUBBER (SBR) OR CARBOXYLATED STYRENE-BUTADIENE RUBBER (XSBR).
400219 | STYRENE-BUTADIENE RUBBER (SBR) OR CARBOXYLATED STYRENE-BUTADIENE RUBBER (XSBR) IN PRIMARY FORMS (EXCEPT LATEX) OR IN PLATES, SHEETS OR STRIP.
400220 | BUTADIENE RUBBER (BR) IN PRIMARY FORMS OR IN PLATES, SHEETS OR STRIP.
400231 | ISOBUTENE-ISOPRENE (BUTYL) RUBBER (IIR) IN PRIMARY FORMS OR IN PLATES, SHEETS OR STRIP.
400239 | HALO-ISOBUTENE-ISOPRENE RUBBER (CIIR OR BIIR) IN PRIMARY FORMS OR IN PLATES, SHEETS OR STRIP.
400241 | LATEX OF CHLOROPRENE (CHLOROBUTADIENE) RUBBER (CR).
400249 | CHLOROPRENE (CHLOROBUTADIENE) RUBBER (CR) IN PRIMARY FORMS (EXCEPT LATEX) OR IN PLATES, SHEETS OR STRIP.
400251 | LATEX OF ACRYLONITRILE-BUTADIENE RUBBER (NBR).
400259 | ACRYLONITRILE-BUTADIENE RUBBER (NBR) IN PRIMARY FORMS (EXCEPT LATEX) OR IN PLATES, SHEETS OR STRIP.
400260 | ISOPRENE RUBBER (IR) IN PRIMARY FORMS OR IN PLATES, SHEETS OR STRIP.
400270 | ETHYLENE-PROPYLENE-NONCONJUGATED DIENE RUBBER (EPDM) IN PRIMARY FORMS OR IN PLATES, SHEETS OR STRIP.
400280 | MIXTURES OF NATURAL RUBBER OR SIMILAR NATURAL GUMS WITH SYNTHETIC RUBBER AND FACTICE DERIVED FROM OILS, IN PRIMARY FORMS OR IN PLATES, SHEETS OR STRIP.
400291 | LATEX OF SYNTHETIC RUBBER AND FACTICE DERIVED FROM OILS, NESOI.
400299 | SYNTHETIC RUBBER AND FACTICE DERIVED FROM OILS, IN PRIMARY FORMS OR IN PLATES, SHEETS OR STRIP, NESOI.
400510 | COMPOUNDED RUBBER, UNVULCANIZED, COMPOUNDED WITH CARBON BLACK OR SILICA, IN PRIMARY FORMS OR IN PLATES, SHEETS OR STRIP.
400520 | COMPOUNDED RUBBER, UNVULCANIZED, IN SOLUTION; DISPERSIONS OTHER THAN THOSE COMPOUNDED WITH CARBON BLACK OR SILICA.
400591 | COMPOUNDED RUBBER, UNVULCANIZED, IN PLATES, SHEETS, AND STRIP, NESOI.
400599 | COMPOUNDED RUBBER, UNVULCANIZED, IN PRIMARY FORMS, NESOI.
400610 | CAMEL-BACK STRIPS FOR RETREADING RUBBER TIRES, OF UNVULCANIZED RUBBER.
400821 | PLATES, SHEETS AND STRIP OF VULCANIZED RUBBER, EXCEPT HARD RUBBER, OF NONCELLULAR RUBBER.
400912 | TUBES, PIPE, AND HOSES, OF VULCANIZED RUBBER, EXC HARD RUBBER, NOT REINFORCED OR OTHERWISE COMBINED WITH OTHER MATERIALS, WITH FITTINGS.
400941 | TUBES, PIPES AND HOSES, OF VULCANIZED RUBBER, EXCEPT HARD RUBBER, REINFORCED OR OTHERWISE COMBINED WITH OTHER MATERIALS, NESOI, WITHOUT FITTINGS.
401011 | CONVEYOR BELTS OR BELTING REINFORCED ONLY WITH METAL.
401012 | CONVEYOR BELTS OR BELTING REINFORCED ONLY WITH TEXTILE MATERIALS.
401019 | CONVEYOR BELTS OR BELTING OF VULCANIZED RUBBER, NESOI.
401031 | ENDLESS TRANSMISSION BELTS OF TRAPEZOIDAL CROSS SECTION (V-BELTS), V-RIBBED, OF CIRCUMFERENCE EXCEEDING 60CM BUT NOT EXCEEDING 180 CM.
401032 | ENDLESS TRANSMISSION BELTS OF TRAPEZOIDAL CROSS SECTION (V-BELTS), OF CIRCUMFERENCE EXCEEDING 60CM BUT NOT EXCEEDING 180 CM, NESOI.
401033 | ENDLESS TRANSMISSION BELTS OF TRAPEZOIDAL CROSS SECTION (V-BELTS), V-RIBBED, OF CIRCUMFERENCE EXCEEDING 180CM BUT NOT EXCEEDING 240 CM.
401034 | ENDLESS TRANSMISSION BELTS OF TRAPEZOIDAL CROSS SECTION (V-BELTS), OF CIRCUMFERENCE EXCEEDING 180CM BUT NOT EXCEEDING 240 CM, NESOI.
401035 | ENDLESS SYNCHRONOUS BELTS OF A CIRCUMFERENCE EXCEEDING 60 CM BUT NOT EXCEEDING 150 CM.
401036 | ENDLESS SYNCHRONOUS BELTS OF A CIRCUMFERENCE EXCEEDING 150 CM BUT NOT EXCEEDING 198 CM.
401039 | TRANSMISSION BELTS OR BELTING, OF VULCANIZED RUBBER, NESOI.
401120 | NEW PNEUMATIC TIRES, OF RUBBER, OF A KIND USED ON BUSES OR TRUCKS.
401130 | NEW PNEUMATIC TIRES, OF RUBBER, OF A KIND USED ON AIRCRAFT.
401211 | RETREADED TIRES OF RUBBER, OF A KIND USED ON MOTOR CARS (INCLUDING STATION WAGONS AND RACING CARS).
401212 | RETREADED TIRES OF RUBBER, OF A KIND USED ON BUSES OR TRUCKS.
401213 | RETREADED TIRES OF RUBBER, OF A KIND USED ON AIRCRAFT.
401219 | RETREADED TIRES OF RUBBER, NESOI.
401220 | USED PNEUMATIC TIRES, OF RUBBER.
401290 | SOLID OR CUSHION TIRES, INTERCHANGEABLE TIRE TREADS AND TIRE FLAPS, OF RUBBER.
401693 | GASKETS, WASHERS AND OTHER SEALS, OF VULCANIZED RUBBER OTHER THAN HARD RUBBER.
440711 | PINE WOOD SAWN OR CHIPPED LENGTHWISE, SLICED OR PEELED, OF A THICKNESS EXCEEDING 6MM.
440712 | FIR WOOD SAWN OR CHIPPED LENGTHWISE, SLICED OR PEELED, OF A THICKNESS EXCEEDING 6MM.
440713 | OTHER CONIFEROUS WOOD SAWN OR CHIPPED LENGTHWISE, SLICED OR PEELED, THICKNESS EXCEEDING 6MM.
440714 | OTHER CONIFEROUS WOOD SAWN OR CHIPPED LENGTHWISE, SLICED OR PEELED, THICKNESS EXCEEDING 6MM.
440719 | OTHER CONIFEROUS WOOD SAWN OR CHIPPED LENGTHWISE, SLICED OR PEELED, THICKNESS EXCEEDING 6MM.
440721 | MAHOGANY (SWIETENIA SPP.), SAWN OR CHIPPED LENGTHWISE, SLICED OR PEELED.
440722 | VIROLA, IMBUIA AND BALSA, SAWN OR CHIPPED LENGTHWISE, SLICED OR PEELED.
440723 | TROPICAL WOOD SAWN ETC., BABOEN, MAHOGANY (SWIETENIA SPP.), IMBUIA AND BALSA, SLICED OR PEELED, PLANED OR NOT ETC., OVER 6 MM (.236 IN.) THICK.
440725 | DARK RED MERANTI, LIGHT RED MERANTI AND MERANTI BAKAU, WOOD SAWN OR CHIPPED LENGTHWISE,SLICED OR PEELED, WHETHER OR NOT PLANED, SANDED OR ETC.
440726 | WHITE LAUAN, WHITE MERANTI, WHITE SERAYA, YELLOW MERANTI AND ALAN, LUMBER.
440727 | SAPELLI, SAWN OR CHIPPED LENGTHWISE, SLICED OR PEELED.
440728 | IROKO, SAWN OR CHIPPED LENGTHWISE, SLICED OR PEELED.
440729 | OTHER TROPICAL WOOD SPECIFIED IN SUBHEADING NOTE 2 TO THIS CHAPTER, WOOD SAWN OR CHIPED LENGTHWISE, SLICED OR PEELED WHETHER OR NOT PLANED, SANDED ETC.
440791 | OAK WOOD, SAWN OR CHIPPED LENGTHWISE, SLICED OR PEELED, WHETHER OR NOT PLANED ETC., OVER 6 MM (.236 IN.) THICK.
440792 | BEECH WOOD SAWN OR CHIPPED LENGTHWISE, SLICED OR PEELED, WHETHER OR NOT PLANED ETC., OVER 6 MM (.236 IN.) THICK.
440793 | MAPLE (ACER SPP.), SAWN OR CHIPPED LENGTHWISE, SLICED OR PEELED.
440794 | CHERRY, SAWN OR CHIPPED LENGTHWISE, SLICED OR PEELED.
440795 | ASH, SAWN OR CHIPPED LENGTHWISE, SLICED OR PEELED.
440796 | BIRCH WOOD SAWN OR CHIPPED LENGTHWISE, SLICED OR PEELED, OF A THICKNESS EXCEEDING 6MM.
440797 | POPLAR AND ASPEN WOOD SAWN OR CHIPPED LENGTHWISE, SLICED OR PEELED, OF A THICKNESS EXCEEDING 6 MM.
440799 | NONCONIFEROUS WOOD NESOI, SAWN OR CHIPPED LENGTHWISE, SLICED OR PEELED, WHETHER OR NOT PLANED, ETC., OVER 6 MM (.236 IN.) THICK.
* * * * * * *
441113 | MEDIUM DENSITY FIBERBOARD (MDF), OF A THICKNESS EXCEEDING 5 MM BUT NOT EXCEEDING 9 MM.
441194 | FIBERBOARD OF WOOD OR OTHER LIGNEOUS MATERIALS, OF A DENSITY NOT EXCEEDING 0.5 G/M3, NESOI.
441210 | PLYWOOD, VENEERED PANELS AND SIMILAR LAMINATED WOOD, OF BAMBOO.
441231 | PLYWOOD CONSISTING SOLELY OF SHEETS OF WOOD (EXC BAMBOO), EACH PLY NOT EXCEEDING 6 MM IN THICKNESS, TROP WD SPEC IN SUBHEAD NT 1.
441233 | PLYWOOD, VENEERED PANELS, SIM LAMINATD WOOD, NES, AT LEAST ONE OUTER PLY OF NONCONIFEROUS WOOD OF THE SPECIES SPECIFIED IN THIS SUBHEADING.
441234 | PLYWOOD CONSISTING SOLELY OF SHEETS OF WOOD, EACH PLY NOT GT 6MM THICKNESS AT LEAST ONE OUTER PLY OF NONCONIF WOOD NOT SPECIFIED UNDER 4412.33, NES.
441239 | PLYWOOD CONSISTING SOLELY OF SHEETS OF WOOD (EXC BAMBOO), EACH PLY NOT EXCEEDING 6 MM IN THICKNESS, CONIFEROUS WD, NESOI.
441241 | PLYWOOD, VENEERED PANELS AND SIMILAR LAMINATED WOOD, NESOI.
441242 | PLYWOOD, VENEERED PANELS AND SIMILAR LAMINATED WOOD, NESOI.
441249 | PLYWOOD, VENEERED PANELS AND SIMILAR LAMINATED WOOD, NESOI.
441251 | BLOCKBOARD, LAMINBOARD AND BATTENBOARD, OTHER THAN OF BAMBOO.
441252 | BLOCKBOARD, LAMINBOARD AND BATTENBOARD, OTHER THAN OF BAMBOO.
441259 | BLOCKBOARD, LAMINBOARD AND BATTENBOARD, OTHER THAN OF BAMBOO.
441291 | PLYWOOD, VENEERED PANELS AND SIMILAR LAMINATED WOOD, NESOI, CONTAINING AT LEAST ONE LAYER OF PARTICLE BOARD.
441292 | VENEERED PANELS AND SIMILAR LAMINATED WOOD, PLYWOOD NESOI, ALL WITH AT LEAST ONE PLY OF TROPICAL WOOD, N.E.S.O.I.
441299 | PLYWOOD, VENEERED PANELS AND SIMILAR LAMINATED WOOD, NESOI.
* * * * * * *
441830 | PARQUET PANELS, OF WOOD.
441840 | FORMWORK (SHUTTERING) FOR CONCRETE CONSTRUCTIONAL WORK, OF WOOD.
441879 | ASSEMBLED FLOORING PANELS, OF WOOD, NESOI.
450310 | CORKS AND STOPPERS OF NATURAL CORK.
450390 | ARTICLES OF NATURAL CORK, NESOI.
450410 | BLOCKS, PLATES, SHEETS AND STRIP, TILES OF ANY SHAPE, SOLID CYLINDERS, INCLUDING DISKS, OF AGGLOMERATED CORK.
450490 | AGGLOMERATED CORK (WITH OR WITHOUT BINDING SUBSTANCES) AND ARTICLES OF AGGLOMERATED CORK, NESOI.
470100 | MECHANICAL WOODPULP.
470311 | CHEMICAL WOODPULP, SODA OR SULFATE, OTHER THAN DISSOLVING GRADE, UNBLEACHED, CONIFEROUS.
470319 | CHEMICAL WOODPULP, SODA OR SULFATE, OTHER THAN DISSOLVING GRADE, UNBLEACHED, NONCONIFEROUS.
470321 | CHEMICAL WOODPULP, SODA OR SULFATE, OTHER THAN DISSOLVING GRADES, SEMIBLEACHED OR BLEACHED, CONIFEROUS.
470329 | CHEMICAL WOODPULP, SODA OR SULFATE, OTHER THAN DISSOLVING GRADES, SEMIBLEACHED OR BLEACHED, NONCONIFEROUS.
470411 | CHEMICAL WOODPULP, SULFITE, OTHER THAN DISSOLVING GRADE, UNBLEACHED, CONIFEROUS.
470419 | CHEMICAL WOODPULP, SULFITE, OTHER THAN DISSOLVING GRADES, UNBLEACHED, NONCONIFEROUS.
470421 | CHEMICAL WOODPULP, SULFITE, OTHER THAN DISSOLVING GRADES, SEMIBLEACHED OR BLEACHED, CONFIEROUS.
470429 | CHEMICAL WOODPULP, SULFITE, OTHER THAN DISSOLVING GRADES, SEMIBLEACHED OR BLEACHED, NONCONIFEROUS.
470500 | WOOD PULP OBTAINED BY A COMBINATION OF MECHANICAL AND CHEMICAL PULPING PROCESSES.
470610 | COTTON LINTERS PULP.
470620 | PULPS OF FIBERS DERIVED FROM RECOVERED (WASTE AND SCRAP) PAPER OR PAPERBOARD.
470630 | PULPS OF FIBERS DERIVED OF OTHER FIBROUS CELLULOSIC MATERIAL, OTHER, OF BAMBOO.
470691 | MECHANICAL PULPS OF FIBROUS CELLULOSIC MATERIAL (OTHER THAN WOOD), NESOI.
470692 | CHEMICAL PULPS OF FIBROUS CELLULOSIC MATERIAL (OTHER THAN WOOD), NESOI.
470693 | PULPS OF FIBROUS CELLULOSIC MATERIAL OBTAINED BY A COMBINATION OF MECHANICAL AND CHEMICAL PROCESSES, NESOI.
470710 | WASTE AND SCRAP OF UNBLEACHED KRAFT PAPER OR PAPERBOARD OR OF CORRUGATED PAPER OR PAPERBOARD.
470720 | RECOVERED (WASTE AND SCRAP) PAPER OR PAPERBOARD, MADE MAINLY OF BLEACHED CHEMICAL PULP, NOT COLORED IN THE MASS.
470730 | RECOVERED (WASTE AND SCRAP) PAPER OR PAPERBOARD, MADE MAINLY OF MECHANICAL PULP (FOR EXAMPLE, NEWSPAPERS, JOURNALS AND SIMILAR PRINTED MATTER.
470790 | WASTE AND SCRAP OF PAPER OR PAPERBOARD, NESOI, INCLUDING UNSORTED WASTE AND SCRAP.
480220 | PAPER AND PAPERBOARD USED AS A BASE FOR PHOTO-SENSITIVE, HEAT-SENSITIVE OR ELECTRO-SENSITIVE PAPER OR PAPERBOARD, UNCOATED, IN ROLLS OR SHEETS.
480240 | WALLPAPER BASE (HANGING PAPER), UNCOATED, IN ROLLS OR SHEETS.
480258 | PAPER AND PAPERBOARD, NESOI, NOT OVER 10% (WT.) OF FIBERS (IF ANY) OBTAINED BY MECHANICAL PROCESS, WEIGHING OVER 150 G/M2, UNCOATED, ROLLS OR SHEETS.
480261 | PAPER & PAPERBOARD, UNCOATED, OVER 10% BY WEIGHT MECHANICAL FIBERS, IN ROLLS.
480411 | KRAFTLINER, UNCOATED, UNBLEACHED, IN ROLLS OR SHEETS.
480419 | KRAFTLINER, UNCOATED, BLEACHED, IN ROLLS OR SHEETS.
480421 | SACK KRAFT PAPER, UNCOATED, UNBLEACHED, IN ROLLS OR SHEETS.
480429 | SACK KRAFT PAPER, UNCOATED, BLEACHED, IN ROLLS OR SHEETS.
480431 | KRAFT PAPER AND PAPERBOARD, NESOI, WEIGHING NOT OVER 150 G/M2, UNCOATED, UNBLEACHED, IN ROLLS OR SHEETS.
480439 | KRAFT PAPER AND PAPERBOARD, NESOI, WEIGHING NOT OVER 150 G/M2, UNCOATED, BLEACHED, IN ROLLS OR SHEETS.
480441 | KRAFT PAPER AND PAPERBOARD, NESOI, WEIGHING OVER 150 G/M2 BUT LESS THAN 225 G/M2, UNCOATED, UNBLEACHED, IN ROLLS OR SHEETS.
480442 | KRAFT PAPER AND PAPERBOARD, NESOI, OVER 150 G/M2 BUT UNDER 225 G/M2, UNCOATED, BLEACHED, OVER 95% (WT.) WOOD FIBERS BY CHEMICAL PROCESS, IN ROLLS ETC.
480449 | KRAFT PAPER AND PAPERBOARD, NESOI, WEIGHING OVER 150 G/M2 BUT UNDER 225 G/M2, UNCOATED, BLEACHED NESOI, IN ROLLS OR SHEETS.
480451 | KRAFT PAPER AND PAPERBOARD, NESOI, WEIGHING 225 G/M2 OR OVER, UNCOATED, UNBLEACHED, IN ROLLS OR SHEETS.
480452 | KRAFT PAPER AND PAPERBOARD, NESOI, WEIGHING 225 G/M2 OR OVER, UNCOATED, BLEACHED, OVER 95% (WT.) WOOD FIBERS BY CHEMICAL PROCESS, IN ROLLS OR SHEETS.
480459 | KRAFT PAPER AND PAPERBOARD, NESOI, WEIGHING 225 G/M2 OR OVER, UNCOATED, BLEACHED NESOI, IN ROLLS OR SHEETS.
480511 | SEMICHEMICAL FLUTING PAPER (CORRUGATING MEDIUM), UNCOATED, IN ROLLS OR SHEETS.
480512 | STRAW FLUTING PAPER, UNCOATED, IN ROLLS/SHEETS, NOT FURTHER WORKED/PROCESSED THAN AS SPECIFIED IN NOTE 3 TO CHAPTER 48.
480519 | FLUTING PAPER, UNCOATED, IN ROLLS/SHEETS, NOT FUTHER WORKED OR PROCESSED THAT AS SPECIFIED IN NOTE 3 TO CHAPTER 48, NESOI.
480524 | TESTLINER (RECUCLED LINER BOARD),UNCOATED, IN ROLLS/SHEETS, NOT FURTHER WORKED THAN AS SPECIFIED IN NOTE 3 TO CHAPTER 48, WEIGHTING 150 G/M2 OR LESS.
480525 | TESTLINER (RECYCLED LINER BOARD, UNCOATED, IN ROLLS/SHEETS, NOT FUTHER WORKED THAN AS SPECIFIED IN NOTE 3 TO CHAPTER 48, WEIGHING MORE THAN 150 G/M2.
480530 | SULFITE WRAPPING PAPER, UNCOATED, IN ROLLS OR SHEETS.
480540 | FILTER PAPER AND PAPERBOARD, UNCOATED, IN ROLLS OR SHEETS.
480550 | FELT PAPER AND PAPERBOARD, UNCOATED, IN ROLLS OR SHEETS.
480591 | PAPER & PAPERBOARD, UNCOATED, WEIGHING 150 G/M2 OR LESS, IN ROLLS OR SHEETS, NESOI.
480592 | PAPER & PAPERBOARD, UNCOATED, IN ROLLS/SHEETS, WEIGHTING MORE THAN 150 BUT LESS THAN 225 G/M2, NESOI.
480593 | PAPER & PAPERBOARD, UNCOATED, IN ROLLS/SHEETS, WEIGHING 225 G/M2 OR MORE, NESOI.
480610 | VEGETABLE PARCHMENT PAPER, IN ROLLS OR SHEETS.
480620 | GREASEPROOF PAPERS (AS MANUFACTURED), IN ROLLS OR SHEETS.
480630 | TRACING PAPERS, IN ROLLS OR SHEETS.
480640 | GLASSINE AND OTHER GLAZED TRANSPARENT OR TRANSLUCENT PAPERS, IN ROLLS OR SHEETS.
480700 | COMPOSITE PAPER & PAPERBOARD (MADE BY STICKING FLAT LAYERS OF PAPER/PBRD TOGETHER W/AN ADHESIVE), NOT SURFACE-COATED OR IMPREGNATED, IN ROLLS/SHEETS.
480810 | CORRUGATED PAPER AND PAPERBOARD, WHETHER OR NOT PERFORATED, NESOI, IN ROLLS OR SHEETS.
480840 | KRAFT PAPER IN ROLLS OR SHEETS, CREPED OR CRINKLED, WHETHER OR NOT EMBOSSED OR PERFORATED, NESOI.
480890 | PAPER AND PAPERBOARD, NESOI, CREPED, CRINKLED, EMBOSSED OR PERFORATED, IN ROLLS OR SHEETS.
480920 | SELF-COPY PAPER, IN ROLLS OVER 36 CM WIDE OR RECTANGULAR SHEETS WITH AT LEAST ONE SIDE OVER 36 CM IN UNFOLDED STATE.
480990 | COPYING OR TRANSFER PAPERS, COATED OR IMPREGNATED, INCLUDING FOR DUPLICATOR STENCILS OR OFFSET PLATES, IN ROLLS OR RECTANGULAR SHEETS OVER 36CM WIDE.
481013 | PAPER & PAPERBOARD,FOR WRITING/PRINTING/GRAPHIC PURPOSE, CLAY COATED, NOT OVER 10% MECH FIBERS,IN ROLLS.
481014 | PAPER & PAPERBOARD,FOR WRITING/PRINTING/GRAPHIC PURPOSE,CLAY COATED, IN SHEETS 1 SIDE NOT EXCEEDING 435 MM OTHER <297MM, UNFOLDED.
481019 | PAPER & PAPERBOARD, FOR WRITING/PRINTING/GRAPHIC PURPOSE, CLAY COATED, NOT OVER 10% MECH FIBERS, NESOI.
481022 | PAPER, LIGHT-WEIGHT COATED, USED FOR WRITING, PRINTING OR OTHER GRAPHIC PURPOSES, OVER 10% (WT.) MECHANICAL FIBERS, IN ROLLS OR SHEETS.
481029 | PAPER AND PAPERBOARD FOR WRITING, PRINTING OR OTHER GRAPHIC PURPOSES, OVER 10% (WT.) MECHANICAL FIBERS, CLAY COATED NESOI, IN ROLLS OR SHEETS.
481031 | KRAFT PAPER AND PAPERBOARD (NOT FOR WRITING, ETC.), OVER 95% WOOD FIBER BY CHEMICAL PROCESS, NOT OVER 150 G/M2, CLAY COATED, BLEACHED, IN ROLLS ETC.
481032 | KRAFT PAPER AND PAPERBOARD (NOT FOR WRITING, ETC.), OVER 95% WOOD FIBER BY CHEMICAL PROCESS, OVER 150 G/M2, CLAY COATED, BLEACHED, IN ROLLS OR SHEETS.
481039 | KRAFT PAPER AND PAPERBOARD (NOT FOR WRITING, PRINTING OR OTHER GRAPHIC PURPOSES), CLAY COATED, UNBLEACHED, IN ROLLS OR SHEETS.
481092 | PAPER AND PAPERBOARD (OTHER THAN KRAFT OR GRAPHIC), MULTI-PLY, CLAY COATED, IN ROLLS OR SHEETS.
481099 | PAPER AND PAPERBOARD (OTHER THAN KRAFT OR GRAPHIC), NESOI, CLAY COATED, IN ROLLS OR SHEETS.
481110 | PAPER AND PAPERBOARD COATED OR IMPREGNATED WITH TAR, BITUMEN OR ASPHALT, NESOI, IN ROLLS OR SHEETS.
481151 | PAPER & PAPERBOARD, COATED, IMPREGNATED OR COVERED WITH PLASTICS (EXCLUDING ADHESIVES), BLEACHED, WEIGHING MORE THAN 150 G/M2.
481159 | PAPER & PAPERBOARD, COATED IMPREGNATED OR COVERED WITH PLASTICS .(EXCLUDING ADHESIVES), NESOI
481160 | PAPER & PAPERBOARD, COATED, IMPREGNATED OR COVERED WITH WAX, PARAFIN, STEAIN, OIL, OR GLYCEROL.
481190 | PAPER, PAPERBOARD, CELLULOSE WADDING AND WEBS OF CELLULOSE FIBERS, COATED, IMPREGNATED, ETC. NESOI, IN ROLLS OR SHEETS.
481490 | WALLPAPER AND SIMILAR WALLCOVERING, NESOI; WINDOW TRANSPARENCIES OF PAPER.
481920 | FOLDING CARTONS, BOXES AND CASES, OF NON-CORRUGATED PAPER OR PAPERBOARD USED IN OFFICES, SHOPS, OR THE LIKE.
482210 | BOBBINS, SPOOLS, COPS AND SIMILAR SUPPORTS OF PAPER PULP, PAPER OR PAPERBOARD OF A KIND USED FOR WINDING TEXTILE YARN.
482290 | BOBBINS, SPOOLS, COPS AND SIMILAR SUPPORTS OF PAPER PULP, PAPER OR PAPERBOARD, NESOI.
482320 | FILTER PAPER AND PAPERBOARD, CUT TO SIZE OR SHAPE.
482340 | ROLLS, SHEETS AND DIALS, PRINTED FOR SELF-RECORDING APPARATUS, CUT TO SIZE OR SHAPE, OF PAPER OR PAPERBOARD.
482361 | TRAYS, DISHES, PLATES, CUPS AND THE LIKE OF PAPER OR PAPERBOARD, OF BAMBOO.
482369 | TRAYS, DISHES, PLATES, CUPS AND THE LIKE, OF PAPER OR PAPERBOARD, NES.
482370 | MOLDED OR PRESSED ARTICLES OF PAPER PULP.
482390 | ARTICLES OF PAPER PULP, PAPER, PAPERBOARD, CELLULOSE WADDING OR WEBS OF CELLULOSE FIBERS, NESOI.
490600 | PLANS AND DRAWINGS FOR ARCHITECTURAL, ENGINEERING, INDUSTRIAL, COMMERCIAL, TOPOGRAPHICAL OR SIMILAR PURPOSES, ORIGINALS AND SPECIFIC REPRODUCTIONS.
510510 | WOOL, CARDED.
510521 | WOOL, COMBED, IN FRAGMENTS.
510529 | WOOL TOPS AND OTHER COMBED WOOL, NESOI.
510531 | WOOL AND FINE ANIMAL HAIR, OF KASHMIR (CASHMERE) GOATS, CARDED OR COMBED (INCLUDING COMBED WOOL IN FRAGMENTS).
510539 | FINE ANIMAL HAIR, CARDED OR COMBED, NESOI.
510540 | COARSE ANIMAL HAIR, CARDED OR COMBED.
510610 | YARN OF CARDED WOOL, NOT PUT UP FOR RETAIL SALE, CONTAINING 85% OR MORE BY WEIGHT OF WOOL.
510620 | YARN OF CARDED WOOL, NOT PUT UP FOR RETAIL SALE, CONTAINING LESS THAN 85% BY WEIGHT OF WOOL.
510710 | YARN OF COMBED WOOL, NOT PUT UP FOR RETAIL SALE, CONTAINING 85% OR MORE BY WEIGHT OF WOOL.
510720 | YARN OF COMBED WOOL, NOT PUT UP FOR RETAIL SALE, CONTAINING LESS THAN 85% BY WEIGHT OF WOOL.
511211 | WOVEN FABRICS CONTAINING 85% OR MORE BY WEIGHT OF COMBED WOOL OR FINE ANIMAL HAIR, NOT OVER 200 G/M2.
511219 | WOVEN FABRICS CONTAINING 85% OR MORE BY WEIGHT OF COMBED WOOL OR FINE ANIMAL HAIR, NESOI.
511220 | WOVEN FABRICS OF COMBED WOOL OR OF FINE ANIMAL HAIR, NESOI, MIXED MAINLY OR SOLELY WITH MANMADE FILAMENTS.
511230 | WOVEN FABRICS OF COMBED WOOL OR OF FINE ANIMAL HAIR, NESOI, MIXED MAINLY OR SOLELY WITH MANMADE STAPLE FIBERS.
511290 | WOVEN FABRICS OF COMBED WOOL OR FINE ANIMAL HAIR, NESOI.
520511 | COTTON YARN NESOI, 85% OR MORE BY WEIGHT OF COTTON, NOT PUT UP FOR RETAIL SALE, SINGLE UNCOMBED YARN, NOT OVER 14 NM.
520512 | COTTON YARN NESOI, 85% OR MORE BY WEIGHT OF COTTON, NOT PUT UP FOR RETAIL SALE, SINGLE UNCOMBED YARN, OVER 14 NM BUT NOT OVER 43 NM.
520513 | COTTON YARN NESOI, 85% OR MORE BY WEIGHT OF COTTON, NOT PUT UP FOR RETAIL SALE, SINGLE UNCOMBED YARN, OVER 43 NM BUT NOT OVER 52 NM.
520514 | COTTON YARN NESOI, 85% OR MORE BY WEIGHT OF COTTON, NOT PUT UP FOR RETAIL SALE, SINGLE UNCOMBED YARN, OVER 52 NM BUT NOT OVER 80 NM.
520515 | COTTON YARN NESOI, 85% OR MORE BY WEIGHT OF COTTON, NOT PUT UP FOR RETAIL SALE, SINGLE UNCOMBED YARN, OVER 80 NM.
520521 | COTTON YARN NESOI, 85% OR MORE BY WEIGHT OF COTTON, NOT PUT UP FOR RETAIL SALE, SINGLE COMBED YARN, NOT OVER 14 NM.
520522 | COTTON YARN NESOI, 85% OR MORE BY WEIGHT OF COTTON, NOT PUT UP FOR RETAIL SALE, SINGLE COMBED YARN, OVER 14 NM BUT NOT OVER 43 NM.
520523 | COTTON YARN NESOI, 85% OR MORE BY WEIGHT OF COTTON, NOT PUT UP FOR RETAIL SALE, SINGLE COMBED YARN, OVER 43 NM BUT NOT OVER 52 NM.
520524 | COTTON YARN NESOI, 85% OR MORE BY WEIGHT OF COTTON, NOT PUT UP FOR RETAIL SALE, SINGLE COMBED YARN, OVER 52 NM BUT NOT OVER 80 NM.
520526 | COTTON YARN (OTH THAN SEWING THREAD) 85% OR MORE BY WGT COTTON, NT FOR RETAIL SALE: SINGLE YARN OF COMBED FIBER > 80NM AND LESS THAN 94NM.
520527 | COTTON YARN (OTH THAN SEWING THREAD) 85% OR MORE BY WGT COTTON, NT FOR RETAIL SALE: SINGLE YARN OF COMBED FIBER > 94NM BUT LESS THAN 120NM.
520528 | COTTON YARN (OTH THAN SEWING THREAD) 85% OR MORE BY WGT COTTON, NT FOR RETAIL SALE: SINGLE YARN OF COMBED FIBER GREATER THAN 120NM.
520531 | COTTON YARN NESOI, 85% OR MORE (WT.) COTTON, NOT FOR RETAIL SALE, MULTIPLE OR CABLED UNCOMBED YARN, NOT OVER 14 NM PER SINGLE YARN.
520532 | COTTON YARN NESOI, 85% OR MORE (WT.) COTTON, NOT FOR RETAIL SALE, MULTIPLE OR CABLED UNCOMBED YARN, OVER 14 NM BUT NOT OVER 43 NM PER SINGLE YARN.
520533 | COTTON YARN NESOI, 85% OR MORE (WT.) COTTON, NOT FOR RETAIL SALE, MULTIPLE OR CABLED UNCOMBED YARN, OVER 43 NM BUT NOT OVER 52 NM PER SINGLE YARN.
520534 | COTTON YARN NESOI, 85% OR MORE (WT.) COTTON, NOT FOR RETAIL SALE, MULTIPLE OR CABLED UNCOMBED YARN, OVER 52 NM BUT NOT OVER 80 NM PER SINGLE YARN.
520535 | COTTON YARN NESOI, 85% OR MORE (WT.) COTTON, NOT FOR RETAIL SALE, MULTIPLE OR CABLED UNCOMBED YARN, OVER 80 NM PER SINGLE YARN.
520541 | COTTON YARN NESOI, 85% OR MORE (WT.) COTTON, NOT FOR RETAIL SALE, MULTIPLE OR CABLED COMBED YARN, NOT OVER 14 NM PER SINGLE YARN.
520542 | COTTON YARN NESOI, 85% OR MORE (WT.) COTTON, NOT FOR RETAIL SALE, MULTIPLE OR CABLED COMBED YARN, OVER 14 NM BUT NOT OVER 43 NM PER SINGLE YARN.
520543 | COTTON YARN NESOI, 85% OR MORE (WT.) COTTON, NOT FOR RETAIL SALE, MULTIPLE OR CABLED COMBED YARN, OVER 43 NM BUT NOT OVER 52 NM PER SINGLE YARN.
520544 | COTTON YARN NESOI, 85% OR MORE (WT.) COTTON, NOT FOR RETAIL SALE, MULTIPLE OR CABLED COMBED YARN, OVER 52 NM BUT NOT OVER 80 NM PER SINGLE YARN.
520546 | COTTON YARN (NOT SEWING THREAD) 85% OR > BY WGT OF COTTON NT FOR RET AIL SALE: MULTI OR CBLD YRN OF COMBED FIBERS > 80NM BUT < 94NM.
520547 | COTTON YARN (NOT SEWING THREAD) 85% OR > BY WGT OF COTTON NT FOR RET AIL SALE: MULTI OR CBLD YRN OF COMBED FIBERS > 94NM BUT < 120NM.
520548 | COTTON YARN (NOT SEWING THREAD) 85% OR > BY WGT OF COTTON NT FOR RET AIL SALE: MULTI OR CBLD YRN OF COMBED FIBERS > 120NM.
520642 | COTTON YARN NESOI, LESS THAN 85% (WT.) COTTON, NOT FOR RETAIL SALE, MULTIPLE OR CABLED COMBED YARN, OVER 14 NM BUT NOT OVER 43 NM PER SINGLE YARN.
520911 | WOVEN FABRICS OF COTTON, 85% OR MORE COTTON BY WEIGHT, UNBLEACHED, PLAIN WEAVE, WEIGHING OVER 200 G/M2.
521111 | WOVEN FABRICS OF COTTON, LESS THAN 85% COTTON BY WEIGHT, MIXED MAINLY WITH MANMADE FIBERS, UNBLEACHED, PLAIN WEAVE, WEIGHING OVER 200 G/M2.
521112 | WOVEN FABRICS OF COTTON, UNDER 85% COTTON (WT.) MIXED MAINLY WITH MANMADE FIBERS, UNBLEACHED, 3-THREAD, 4-THREAD OR CROSS TWILL, OVER 200 G/M2.
521119 | WOVEN FABRICS OF COTTON, LESS THAN 85% COTTON BY WEIGHT, MIXED MAINLY WITH MANMADE FIBERS, UNBLEACHED, EXCEPT PLAIN WEAVE, NESOI, OVER 200 G/M2.
521120 | WOVEN FABRICS OF COTTON, CONTAINING LESS THAN 85% WT COTTON, MIXED W/MANMADE FIBERS, WEIGHING MORE THAN 200 G/M2, BLEACHED, PLAIN WEAVE.
521131 | WOVEN FABRICS OF COTTON, LESS THAN 85% COTTON BY WEIGHT, MIXED MAINLY WITH MANMADE FIBERS, DYED, PLAIN WEAVE, WEIGHING OVER 200 G/M2.
521132 | WOVEN FABRICS OF COTTON, UNDER 85% COTTON (WT.) MIXED MAINLY WITH MANMADE FIBERS, DYED, 3-THREAD, 4-THREAD OR CROSS TWILL, WEIGHING OVER 200 G/M2.
521139 | WOVEN FABRICS OF COTTON, LESS THAN 85% COTTON BY WEIGHT, MIXED MAINLY WITH MANMADE FIBERS, DYED, EXCEPT PLAIN WEAVE, NESOI, WEIGHING OVER 200 G/M2.
521141 | WOVEN FABRICS OF COTTON, LESS THAN 85% COTTON BY WEIGHT, MIXED MAINLY WITH MANMADE FIBERS, DIFFERENT COLORED YARNS, PLAIN WEAVE, OVER 200 G/M2.
521142 | WOVEN FABRICS OF COTTON, LESS THAN 85% COTTON BY WEIGHT, MIXED MAINLY WITH MANMADE FIBERS, DENIM, WEIGHING OVER 200 G/M2.
521143 | WOVEN FABRICS OF COTTON, UNDER 85% COTTON (WT.) MIXED MAINLY WITH MANMADE FIBERS, DIFFERENT COLORED YARNS, 3-, 4-THREAD OR CROSS TWILL, OVER 200 G/M2.
521149 | WOVEN FABRICS OF COTTON, UNDER 85% COTTON (WT.) MIXED MAINLY WITH MANMADE FIBERS, DIFFERENT COLORED YARNS, EXCEPT PLAIN WEAVE, NESOI, OVER 200 G/M2.
521151 | WOVEN FABRICS OF COTTON, LESS THAN 85% COTTON BY WEIGHT, MIXED MAINLY WITH MANMADE FIBERS, PRINTED, PLAIN WEAVE, WEIGHING OVER 200 G/M2.
521152 | WOVEN FABRICS OF COTTON, UNDER 85% COTTON (WT.) MIXED MAINLY WITH MANMADE FIBERS, PRINTED, 3-THREAD, 4-THREAD OR CROSS TWILL, WEIGHING OVER 200 G/M2.
521159 | WOVEN FABRICS OF COTTON, LESS THAN 85% COTTON BY WEIGHT, MIXED MAINLY WITH MANMADE FIBERS, PRINTED, EXCEPT PLAIN WEAVE, NESOI, WEIGHING OVER 200 G/M2.
530810 | YARN OF COCONUT TEXTILE FIBERS (COIR YARN).
530820 | YARN OF TRUE HEMP TEXTILE FIBERS.
530890 | YARN OF VEGETABLE TEXTILE FIBERS, NESOI.
540263 | POLYPROPYLENE YARN, MUTIPLE (FOLEDED) OR CABLES, NOT FOR RETAIL SALE,NESOI.
540310 | ARTIFICIAL FILAMENT YARN EXCEPT SEWING THREAD, NOT FOR RETAIL SALE, HIGH TENACITY YARN OF VISCOSE RAYON.
540331 | ARTIFICIAL FILAMENT YARN EXCEPT SEWING THREAD, NOT FOR RETAIL SALE, SINGLE YARN NESOI, NOT OVER 120 TURNS PER METER IF TWISTED, OF VISCOSE RAYON.
540332 | ARTIFICIAL FILAMENT YARN EXCEPT SEWING THREAD, NOT FOR RETAIL SALE, SINGLE YARN NESOI, TWISTED WITH OVER 120 TURNS PER METER, OF VISCOSE RAYON.
540333 | ARTIFICIAL FILAMENT YARN EXCEPT SEWING THREAD, NOT FOR RETAIL SALE, SINGLE YARN NESOI, OF CELLULOSE ACETATE.
540339 | ARTIFICIAL FILAMENT YARN EXCEPT SEWING THREAD, NOT FOR RETAIL SALE, SINGLE YARN NESOI, OF YARNS NESOI.
540341 | ARTIFICIAL FILAMENT YARN EXCEPT SEWING THREAD, NOT FOR RETAIL SALE, YARN NESOI, MULTIPLE OR CABLED, OF VISCOSE RAYON.
540342 | ARTIFICIAL FILAMENT YARN EXCEPT SEWING THREAD, NOT FOR RETAIL SALE, YARN NESOI, MULTIPLE OR CABLED, OF CELLULOSE ACETATE.
540349 | ARTIFICIAL FILAMENT YARN EXCEPT SEWING THREAD, NOT FOR RETAIL SALE, YARN NESOI, MULTIPLE OF CABLED, OF YARNS NESOI.
540411 | SYNTHETIC ELASTOMERIC MONOFILAMENT OF 67 DECITEX OR MORE AND OF WHICH NO CROSS-SECTIONAL DIMENSION EXCEEDS 1 MM, NESOI.
540412 | POLYPROPYLENE MONOFILAMENT OF 67 DECITEX OR MORE AND OF WHICH NO CROSS-SECTIONAL DIMENSION EXCEEDS 1 MM, NESOI.
540419 | SYNTHETIC MONOFILAMENT OF 67 DECITEX AND OF WHICH NO CROSS-SECTIONAL DIMENSION EXCEEDS 1 MM, NESOI.
540490 | SYNTHETIC STRIP AND THE LIKE (FOR EXAMPLE, ARTIFICIAL STRAW) OF SYNTHETIC TEXTILE MATERIALS OF AN APPARENT WIDTH NOT OVER 5 MM.
540730 | WOVEN FABRICS OF SYNTHETIC FILAMENT YARN SPECIFICALLY BONDED IN LAYERS.
550111 | SYNTHETIC FILAMENT TOW OF NYLON OR OTHER POLYAMIDES.
550119 | SYNTHETIC FILAMENT TOW OF NYLON OR OTHER POLYAMIDES.
550120 | SYNTHETIC FILAMENT TOW OF POLYESTERS.
550130 | SYNTHETIC FILAMENT TOW, ACRYLIC OR MODACRYLIC.
550140 | SYNTHETIC FILAMENT TOW, OF POLYPROPYLENE.
550190 | SYNTHETIC FILAMENT TOW, NESOI.
550210 | ARTIFICIAL FILAMENT TOW OF CELLULOSE ACETATE.
550290 | ARTIFICIAL FILAMENT TOW OTHER THEN OF CELLULOSE ACETATE.
550311 | STAPLE FIBERS, OF ARAMIDS, NOT CARDED, COMBED OR OTHERWISE PROCESSED FOR SPINNING.
550319 | STAPLE FIBERS, OF NYLONS OR OTHER POLYAMIDES, EXCLUDING ARAMIDS, NOT CARDED, COMBED OR OTHERWISE PROCESSED FOR SPINNING.
550320 | SYNTHETIC STAPLE FIBERS, NOT CARDED, COMBED OR OTHERWISE PROCESSED FOR SPINNING, OF POLYESTERS.
550330 | SYNTHETIC STAPLE FIBERS, NOT CARDED, COMBED OR OTHERWISE PROCESSED FOR SPINNING, ACRYLIC OR MODACRYLIC.
550340 | SYNTHETIC STAPLE FIBERS, NOT CARDED, COMBED OR OTHERWISE PROCESSED FOR SPINNING, POLYPROPYLENE.
550390 | SYNTHETIC STAPLE FIBERS, NOT CARDED, COMBED OR OTHERWISE PROCESSED FOR SPINNING, NESOI.
550490 | ARTIFICIAL STAPLE FIBERS, NOT CARDED, COMBED OR OTHERWISED PROCESSED FOR SPINNING, OTHER THAN VISCOSE RAYON.
550610 | SYNTHETIC STAPLE FIBERS, CARDED, COMBED OR OTHERWISE PROCESSED FOR SPINNING, OF NYLON OR OTHER POLYAMIDES.
550620 | SYNTHETIC STAPLE FIBERS, CARDED, COMBED OR OTHERWISE PROCESSED FOR SPINNING, OF POLYESTERS.
550630 | SYNTHETIC STAPLE FIBERS, CARDED, COMBED OR OTHERWISE PROCESSED FOR SPINNING, ACRYLIC OR MODACRYLIC.
550640 | SYNTHETIC STAPLE FIBERS, CARDED, COMBED OR OTHERWISE PROCESSED FOR SPINNING OF POLYPROPYLENE.
550690 | SYNTHETIC STAPLE FIBERS, CARDED, COMBED OR OTHERWISE PROCESSED FOR SPINNING, NESOI.
550700 | ARTIFICAL STAPLE FIBERS, CARDED, COMBED OR OTHERWISE PROCESSED FOR SPINNING.
551221 | WOVEN FABRICS OF SYNTHETIC STAPLE FIBERS, CONTAINING 85% OR MORE BY WEIGHT OF ACRYLIC OR MODACRYLIC STAPLE FIBERS, UNBLEACHED OR BLEACHED.
551299 | WOVEN FABRICS OF SYNTHETIC STAPLE FIBERS, CONTAINING 85% OR MORE BY WEIGHT OF SYNTHETIC STAPLE FIBERS NESOI, PRINTED, DYED OR COLORED.
551611 | WOVEN FABRICS OF ARTIFICIAL STAPLE FIBERS, CONTAINING 85% OR MORE BY WEIGHT OF SUCH FIBERS, UNBLEACHED OR BLEACHED.
551612 | WOVEN FABRICS OF ARTIFICIAL STAPLE FIBERS, CONTAINING 85% OR MORE BY WEIGHT OF SUCH FIBERS, DYED.
551613 | WOVEN FABRICS OF ARTIFICIAL STAPLE FIBERS, CONTAINING 85% OR MORE BY WEIGHT OF SUCH FIBERS, OF DIFFERENT COLORED YARNS.
551614 | WOVEN FABRICS OF ARTIFICIAL STAPLE FIBERS, CONTAINING 85% OR MORE BY WEIGHT OF SUCH FIBERS, PRINTED.
551621 | WOVEN FABRICS OF ARTIFICIAL STAPLE FIBERS, CONTAINING UNDER 85% (WT.) OF SUCH FIBERS, MIXED WITH MANMADE FILAMENTS, UNBLEACHED OR BLEACHED.
551622 | WOVEN FABRICS OF ARTIFICIAL STAPLE FIBERS, CONTAINING UNDER 85% (WT.) OF SUCH FIBERS, MIXED WITH MANMADE FILAMENTS, DYED.
551623 | WOVEN FABRICS OF ARTIFICIAL STAPLE FIBERS, CONTAINING UNDER 85% (WT.) OF SUCH FIBERS, MIXED WITH MANMADE FILAMENTS, OF DIFFERENT COLORED YARNS.
551624 | WOVEN FABRICS OF ARTIFICIAL STAPLE FIBERS, CONTAINING UNDER 85% (WT.) OF SUCH FIBERS, MIXED WITH MANMADE FILAMENTS, PRINTED.
551631 | WOVEN FABRICS OF ARTIFICIAL STAPLE FIBERS, CONTAINING UNDER 85% (WT.) OF SUCH FIBERS, MIXED WITH WOOL OR FINE ANIMAL HAIR, UNBLEACHED OR BLEACHED.
551632 | WOVEN FABRICS OF ARTIFICIAL STAPLE FIBERS, CONTAINING UNDER 85% (WT.) OF SUCH FIBERS, MIXED WITH WOOL OR FINE ANIMAL HAIR, DYED.
551633 | WOVEN FABRICS OF ARTIFICIAL STAPLE FIBERS, CONTAINING UNDER 85% (WT.) OF SUCH FIBERS, MIXED WITH WOOL OR FINE ANIMAL HAIR, OF DIFFERENT COLORED YARNS.
551634 | WOVEN FABRICS OF ARTIFICIAL STAPLE FIBERS, CONTAINING UNDER 85% (WT.) OF SUCH FIBERS, MIXED WITH WOOL OR FINE ANIMAL HAIR, PRINTED.
551641 | WOVEN FABRICS OF ARTIFICIAL STAPLE FIBERS, CONTAINING UNDER 85% (WT.) OF SUCH FIBERS, MIXED WITH COTTON, UNBLEACHED OR BLEACHED.
551642 | WOVEN FABRICS OF ARTIFICIAL STAPLE FIBERS, CONTAINING UNDER 85% (WT.) OF SUCH FIBERS, MIXED WITH COTTON, DYED.
551643 | WOVEN FABRICS OF ARTIFICIAL STAPLE FIBERS, CONTAINING UNDER 85% (WT.) OF SUCH FIBERS, MIXED WITH COTTON, OF DIFFERENT COLORED YARNS.
551644 | WOVEN FABRICS OF ARTIFICIAL STAPLE FIBERS, CONTAINING UNDER 85% (WT.) OF SUCH FIBERS, MIXED WITH COTTON, PRINTED.
551691 | WOVEN FABRICS OF ARTIFICIAL STAPLE FIBERS, CONTAINING UNDER 85% (WT.) OF SUCH FIBERS, MIXED WITH OTHER FIBERS NESOI, UNBLEACHED OR BLEACHED.
551692 | WOVEN FABRICS OF ARTIFICIAL STAPLE FIBERS, CONTAINING UNDER 85% (WT.) OF SUCH FIBERS, MIXED WITH OTHER FIBERS NESOI, DYED.
551693 | WOVEN FABRICS OF ARTIFICIAL STAPLE FIBERS, CONTAINING UNDER 85% (WT.) OF SUCH FIBERS, MIXED WITH OTHER FIBERS NESOI, OF DIFFERENT COLORED YARNS.
551694 | WOVEN FABRICS OF ARTIFICIAL STAPLE FIBERS, CONTAINING UNDER 85% (WT.) OF SUCH FIBERS, MIXED WITH OTHER FIBERS NESOI, PRINTED.
560129 | WADDING AND ARTICLES OF WADDING NESOI, OF TEXTILE MATERIALS OTHER THAN COTTON OR MANMADE FIBERS.
560130 | TEXTILE FLOCK (TEXTILE FIBERS NOT EXCEEDING 5 MM IN LENGTH) AND DUST AND MILL NEPS.
560410 | RUBBER THREAD AND CORD, TEXTILE COVERED.
560490 | MANMADE TEXTILE YARN OF 67 DECITEX OR MORE, NO CROSS-SECTIONAL DIMENSION OVER 1 MM AND STRIP NOT OVER 5 MM WIDE, RUBBER OR PLASTICS COATED ETC., NESOI.
560500 | METALLIZED MANMADE TEXTILE YARN OF 67 DECITEX OR MORE, NO CROSS-SECTION OVER 1 MM, GIMPED OR NOT, AND STRIP NOT OVER 5 MM WIDE COMBINED WITH METAL.
560741 | BINDER OR BALER TWINE, WHETHER OR NOT PLAITED OR BRAIDED OR COATED ETC. WITH RUBBER OR PLASTICS, OF POLYETHYLENE OR POLYPROPYLENE.
580127 | WARP PILE FABRICS OF COTTON.
580300 | GAUZE, OTHER THAN NARROW FABRICS OF HEADING 5806.
580640 | NARROW FABRICS CONSISTING OF WARP WITHOUT WEFT ASSEMBLED BY MEANS OF AN ADHESIVE (BOLDUCS).
590110 | TEXTILE FABRICS COATED WITH GUM OR AMYLACEOUS SUBSTANCES, OF A KIND USED FOR THE OUTER COVERS OF BOOKS OR THE LIKE.
590190 | TRACING CLOTH; PREPARED PAINTING CANVAS; BUCKRAM AND SIMILAR STIFFENED TEXTILE FABRICS OF A KIND USED FOR HAT FOUNDATIONS.
590500 | TEXTILE WALL COVERINGS.
590800 | TEXTILE WICKS FOR LAMPS, STOVES, LIGHTERS, CANDLES ETC; GAS MANTLES AND TUBULAR KNITTED GAS MANTLE FABRIC, WHETHER OR NOT IMPREGNATED.
591000 | TRANSMISSION OR CONVEYOR BELTS OR BELTING, OF TEXTILE MATERIAL, WHETHER OR NOT REINFORCED WITH METAL OR OTHER MATERIAL OR COATED IMPREG WITH PLASTICS.
591110 | TEXTILE FABRICS, FELT AND FELT-LINED WOVEN WITH LAYERS OF RUBBER, LEATHER, ETC. FOR CARD CLOTHING, AND SIMILAR FABRIC FOR OTHER TECHNICAL USES.
591131 | TEXTILE FABRICS AND FELTS, ENDLESS OR FITTED WITH LINKING DEVICES, OF A KIND USED IN PAPERMAKING OR SIMILAR MACHINES, WEIGHING LESS THAN 650 G/M2.
591132 | TEXTILE FABRICS AND FELTS, ENDLESS OR FITTED WITH LINKING DEVICES, OF A KIND USED IN PAPERMAKING OR SIMILAR MACHINES, WEIGHING 650 G/M2 OR MORE.
591140 | TEXTILE STRAINING CLOTH OF A KIND USED IN OIL PRESSES OR THE LIKE, INCLUDING HUMAN HAIR.
600199 | PILE FABRICS NESOI, KNITTED OR CROCHETED, OF TEXTILE MATERIALS NESOI.
600310 | KNIT/CROCHETED FABRICS OF A WIDTH NOT EXCEEDING 30 CM, OTHER THAN OF HEADINGS 6001 OR 6002, OF WOOL OR FINE ANIMAL HAIR.
600320 | KNIT/CROCHETED FABRICS OF A WIDTH NOT EXCEEDING 30 CM, OTHER THAN OF HEADINGS 6001 OR 6002, OF COTTON.
600330 | KNIT OR CROCHETED FABRICS OF A WIDTH NOT EXCEEDING 30CM, OF SYNTHETIC FIBERS, OTHER THAN THOSE OF HEADING 6001 OR 6002.
600340 | KNIT OR CROCHETED FABRICS OF A WIDTH NOT EXCEEDING 30CM, OF ARTIFICIAL FIBERS, OTHER THAN THOSE OF HEADING 6001 OR 6002.
600390 | KNIT/CROCHETED FABRICS OF A WIDTH NOT EXCEEDING 30CM, OTHER THAN THOSE OF HEADING 6001 OR 6002, NESOI.
600536 | WARP KNIT FABRICS, OF SYNTHETIC FIBERS, OTHER, UNBLEACHED OR BLEACHED.
600544 | WARP KNIT FABRICS (INCLUDING THOSE MADE ON GALLOON KNITTING MACHINES) OF PRINTED ARTIFICIAL FIBERS.
600610 | KNITTED OR CROCHETED FABRICS NESOI, OF WOOL OR FINE ANIMAL HAIR.
630900 | WORN CLOTHING AND OTHER WORN TEXTILE ARTICLES.
680292 | WORKED MONUMENTAL OR BUILDING STONE NESOI, OF CALCAREOUS STONE NESOI.
680423 | MILLSTONES, GRINDSTONES, GRINDING WHEELS AND THE LIKE NESOI, OF NATURAL STONE.
680610 | SLAG WOOL, ROCK WOOL AND SIMILAR MINERAL WOOLS (INCLUDING INTERMIXTURES THEREOF), IN BULK, SHEETS OR ROLLS.
680620 | EXFOLIATED VERMICULITE, EXPANDED CLAYS, FOAMED SLAG AND SIMILAR EXPANDED MINERAL MATERIALS (INCLUDING INTERMIXTURES THEREOF).
680690 | MIXTURES AND ARTICLES OF HEAT-INSULATING, SOUND-INSULATING OR SOUND-ABSORBING MINERAL MATERIALS NESOI.
680710 | ARTICLES OF ASPHALT OR OF SIMILAR MATERIAL (PETROLEUM BITUMEN OR COAL TAR PITCH ETC.), IN ROLLS.
680790 | ARTICLES OF ASPHALT OR OF SIMILAR MATERIAL (PETROLEUM BITUMEN OR COAL TAR PITCH ETC.) NESOI.
680919 | PANELS, SHEETS, TILES AND SIMILAR ARTICLES, NOT ORNAMENTED, OF PLASTER OR COMPOSITIONS BASED ON PLASTER, NESOI.
681091 | PREFABRICATED STRUCTURAL COMPONENTS FOR BUILDING OR CIVIL ENGINEERING MADE OF CEMENT, CONCRETE OR ARTIFICIAL STONE, WHETHER OR NOT REINFORCED.
681140 | ARTICLES OF ASBESTOS-CEMENT, OF CELLULOSE FIBER-CEMENT OR THE LIKE, CONTAINING ASBESTOS.
681181 | CORRUGATED SHEETS, OF CELLULOSE FIBER-CEMENT OR THE LIKE, NOT CONTAINING ASBESTOS.
681182 | SHEETS, PANELS, TILES AND SIMILAR ARTICLES, OF CELLULOSE FIBER-CEMENT OR THE LIKE, NOT CONTAINING ASBESTOS, EXCLUDING CORRUGATED SHEETS.
681189 | ARTICLES OF CELLULOSE FIBER-CEMENT OR THE LIKE, NOT CONTAINING ASBESTOS, NESOI.
681320 | FRICTION MATERIAL AND ARTICLES THEREOF, UNMOUNTED, WITH A BASIS OF ASBESTOS.
681381 | BRAKE LININGS AND PADS NOT OF ASBESTOS, OTHER MINERAL SUBSTANCES OR CELLULOSE.
681389 | FRICTION MATERIAL AND ARTICLES THEREOF (EXCEPT BRAKE LININGS OR PADS), UNMOUNTED, NOT CONTAINING ASBESTOS, OTHER MINERALSUBSTANCES OR OF CELLULOSE,NES.
681490 | WORKED MICA AND ARTICLES OF MICA, NESOI.
681511 | NONELECTRICAL ARTICLES OF GRAPHITE OR CARBON, NESOI.
690100 | BRICKS, BLOCKS, TILES AND OTHER CERAMIC GOODS OF SILICEOUS FOSSIL MEALS (INCLUDING KIESELGUHR, TRIPOLITE OR DIATOMITE) OR SIMILAR SILICEOUS EARTHS.
690410 | CERAMIC BUILDING BRICKS.
690510 | CERAMIC ROOFING TILES.
690590 | CERAMIC CHIMNEY POTS, COWLS, CHIMNEY LINERS, ARCHITECTURAL ORNAMENTS AND OTHER CERAMIC CONSTRUCTIONAL GOODS NESOI.
690600 | CERAMIC PIPES, CONDUITS, GUTTERING AND PIPE FITTINGS.
690722 | CERAMIC FLAGS AND PAVING, HEARTH OR WALL TILES, OF A WATER ABSORPTION COEFFICIENT BY WEIGHT EXCEEDING 0.5 BUT NOT EXCEEDING 10%.
690740 | FINISHING CERAMICS.
690990 | CERAMIC TROUGHS, TUBS ETC. USED IN AGRICULTURE; CERAMIC POTS, JARS AND SIMILAR ARTICLES FOR THE CONVEYANCE OR PACKING OF GOODS.
700210 | GLASS BALLS (EXCEPT MICROSHERES NOT OVER 1 MM IN DIAMETER), UNWORKED.
700220 | GLASS RODS, UNWORKED.
700231 | TUBES OF FUSED QUARTZ OR OTHER FUSED SILICA, UNWORKED.
700232 | GLASS NESOI, HAVING A LINEAR COEFFICIENT OF EXPANSION NOT OVER 5X10-6 PER KELVIN WITHIN A TEMPERATURE RANGE OF 0 TO 300 DEGREES C, UNWORKED.
700239 | TUBES OF GLASS NESOI, UNWORKED.
700312 | CAST AND ROLLED GLASS, NONWIRED SHEETS, COLORED THROUGHOUT THE MASS, OPACIFIED, FLASHED, WITH AN ABSORBENT, REFLECTING OR NONREFLECTING LAYER.
700319 | CAST GLASS AND ROLLED GLASS, IN NONWIRED SHEETS NESOI (NOT BODY TINTED, OPACIFIED OR FLASHED AND WITHOUT AN ABSORBENT OR REFLECTING LAYER), UNWORKED.
700320 | CAST GLASS AND ROLLED GLASS, IN WIRED SHEETS, WHETHER OR NOT HAVING AN ABSORBENT OR REFLECTING LAYER, BUT NOT OTHERWISE WORKED.
700330 | CAST GLASS AND ROLLED GLASS, IN PROFILES, WHETHER OR NOT HAVING AN ABSORBENT OR REFLECTING LAYER, BUT NOT OTHERWISE WORKED.
700420 | GLASS, COLORED THROUGHOUT THE MASS, OPACIFIED, FLASHED OR AN ABSORBENT, REFLECTING OR NONREFLECTING LAYER, DRAWN OR BLOWN, SHEETS NOT OTHERWISE WORKED.
700490 | DRAWN GLASS AND BLOWN GLASS, IN SHEETS, WHETHER OR NOT HAVING AN ABSORBENT OR REFLECTING LAYER, BUT NOT OTHERWISE WORKED, NESOI.
700510 | FLOAT GLASS AND SURFACE GROUND OR POLISHED GLASS, IN SHEETS, NONWIRED, WITH AN ABSORBENT, REFLECTING OR NONREFLECTING LAYER, BUT NOT OTHERWISE WORKED.
700521 | FLOAT AND OTHER GLASS, IN NONWIRED SHEETS, COLORED THROUGHOUT THE MASS, OPACIFIED, FLASHED OR SURFACE GROUND, WITHOUT AN ABSORBENT OR REFLECTING LAYER.
700529 | FLOAT GLASS AND SURFACE GROUND OR POLISHED GLASS, IN NONWIRED SHEETS, NESOI.
700530 | FLOAT GLASS AND SURFACE GROUND OR POLISHED GLASS, IN WIRED SHEETS, WHETHER OR NOT HAVING AN ABSORBENT OR REFLECTING LAYER, BUT NOT OTHERWISE WORKED.
700711 | TOUGHENED (TEMPERED) SAFETY GLASS, OF SIZE AND SHAPE SUITABLE FOR INCORPORATION IN VEHICLES, AIRCRAFT, SPACECRAFT OR VESSELS.
700729 | LAMINATED SAFETY GLASS, NOT SUITABLE FOR INCORPORATION IN VEHICLES, AIRCRAFT, SPACECRAFT OR VESSELS.
701110 | GLASS ENVELOPES, OPEN, AND GLASS PARTS THEREOF, WITHOUT FITTINGS, FOR ELECTRIC LIGHTING.
701911 | CHOPPED STRANDS OF GLASS FIBERS NOT OVER 50 MM LONG.
701912 | GLASS FIBER ROVINGS.
701913 | GLASS FIBERS (INCLUDING GLASS WOOL) AND ARTICLES THEREOF (FOR EXAMPLE, YARN, WOVEN FABRICS), N.E.S.O.I.
720292 | FERROVANADIUM.
720711 | SEMIFINISHED PRODUCTS OF IRON OR NONALLOY STEEL, UNDER 0.25% (WT.) CARBON, RECTANGULAR OR SQUARE CROSS SECTION, WIDTH LESS THAN TWICE THE THICKNESS.
720712 | SEMIFINISHED PRODUCTS OF IRON OR NONALLOY STEEL, UNDER 0.25% (WT.) CARBON, RECTANGULAR CROSS SECTION, WIDTH NOT LESS THAN TWICE THE THICKNESS.
720719 | SEMIFINISHED PRODUCTS OF IRON OR NONALLOY STEEL, UNDER 0.25% (WT.) CARBON, CROSS SECTION OTHER THAN RECTANGULAR, NESOI.
720720 | SEMIFINISHED PRODUCTS OF IRON OR NONALLOY STEEL, CONTAINING 0.25% (WT.) OR MORE OF CARBON.
* * * * * * *
721090 | FLAT-ROLLED IRON OR NONALLOY STEEL PRODUCTS, 600 MM OR MORE WIDE, CLAD, PLATED OR COATED, NESOI.
721113 | FLAT-ROLLED HIGH-STRNGTH IRON OR NONALLOY STEEL UNDER 600MM WIDE HOT-ROLLED, NOT CLAD, COATED OR PLATED, UNIVERSAL MILLPLATE.
721114 | FLAT-ROLLD HIGH-STRNGTH IRON OR NONALLOY STEEL UNDER 600MM WIDE HOT-ROLLD, NOT CLAD, COATED OR PLATED 4.75MM THICK OR MORE.
* * * * * * *
721129 | FLAT-ROLLED IRON OR NONALLOY STEEL PRODUCTS UNDER 600 MM WIDE, COLD-ROLLED, NOT CLAD, PLATED OR COATED, NESOI.
* * * * * * *
721210 | FLAT-ROLLED IRON OR NONALLOY STEEL PRODUCTS, UNDER 600 MM WIDE, PLATED OR COATED WITH TIN.
* * * * * * *
721260 | FLAT-ROLLED IRON OR NONALLOY STEEL PRODUCTS, UNDER 600 MM WIDE, CLAD.
721310 | BARS AND RODS OF IRON OR NONALLOY STEEL, HOT-ROLLED, IN IRREGULLARLY WOUND COILS, CONCRETE REINFORCING.
721320 | BARS AND RODS OF FREE-CUTTING NONALLOY STEEL, HOT-ROLLED, IN IRREGULARLY WOUND COILS.
721391 | BARS AND RODS,HOT-ROLLED, IN IRREGULARLY WOUND COILS, OF IRON OR NONALLOY STEEL, OF CIRCULAR CROSS-SECTION MEASURING LESS THAN 14MM IN DIAMETER, NESOI.
721399 | BARS AND RODS, HOT-ROLLED, IN IRREGULARLY WOUND COILS, OF IRON OR NONALLOY STEEL, N.E.S.O.I.
721550 | BARS AND RODS OF IRON OR NONALLOY STEEL, NOT FURTHER WORKED THAN COLD-FORMED OR COLD-FINISHED, N.E.S.O.I.
721610 | U, I OR H SECTIONS OF IRON OR NONALLOY STEEL, HOT-WORKED, LESS THAN 80 MM HIGH.
721621 | L SECTIONS OF IRON OR NONALLOY STEEL, HOT-WORKED, LESS THAN 80 MM HIGH.
721622 | T SECTIONS OF IRON OR NONALLOY STEEL, HOT-WORKED, LESS THAN 80 MM HIGH.
721631 | U SECTIONS OF IRON OR NONALLOY STEEL, HOT-WORKED, 80 MM OR MORE HIGH.
721632 | I SECTIONS OF IRON OR NONALLOY STEEL, HOT-WORKED, 80 MM OR MORE HIGH (STANDARD BEAMS).
721633 | H SECTIONS OF IRON OR NONALLOY STEEL, HOT-WORKED, 80 MM OR MORE HIGH.
721640 | L OR T SECTIONS OF IRON OR NONALLOY STEEL, HOT-WORKED, 80 MM OR MORE HIGH.
721650 | ANGLES, SHAPES AND SECTIONS NESOI OF IRON OR NONALLOY STEEL, HOT-WORKED.
721661 | ANGLES, SHAPES AND SECTIONS, IRON OR NONALLOY STEEL, NOT FURTHER WORKED THAN COLD-FORMED OR COLD-FINISHED, OBTAINED FROM FLAT-ROLLED PRODUCTS.
721669 | ANGLES, SHAPES AND SECTIONS, IRON OR NONALLOY STEEL, NOT FURTHER WORKED THAN COLD-FORMED OR COLD-FINISHED, NOT OBTAINED FROM FLAT-ROLLED PRODUCTS.
721691 | ANGLES, SHAPES AND SECTIONS, IRON OR NONALLOY STEEL, OTHER COLD-FORMED OR COLD-FINISHED FROM FLAT-ROLLED PRODUCTS.
721699 | ANGLES, SHAPES AND SECTIONS IRON OR NONALLOY STEEL NESOI.
721810 | STAINLESS STEEL INGOTS AND OTHER PRIMARY FORMS.
721891 | SEMIFINISHED PRODUCTS OF STAINLESS STEEL, RECTANGULAR (OTHER THAN SQUARE) CROSS-SECTION.
721899 | OTHER SEMIFINISHED PRODUCTS OF STAINLESS STEEL.
* * * * * * *
722230 | BARS AND RODS OF STAINLESS STEEL, NESOI.
722410 | INGOTS AND OTHER PRIMARY FORMS OF ALLOY STEEL (OTHER THAN STAINLESS) NESOI.
722490 | SEMIFINISHED PRODUCTS OF ALLOY STEEL (OTHER THAN STAINLESS) NESOI.
* * * * * * *
722519 | FLAT-ROLLED SILICON ELECTRICAL STEEL 600MM OR MORE WIDE, NOT GRAIN-ORIENTED.
722530 | FLAT-ROLLED ALLOY STEEL (OTHER THAN STAINLESS) IN COILS, 600 MM OR MORE WIDE, HOT-ROLLED, NESOI.
* * * * * * *
722599 | FLAT-ROLLED ALLOY STEEL NOT STAINLESS, 600 MM OR MORE WIDE, NESOI.
* * * * * * *
722691 | FLAT-ROLLED ALLOY STEEL (OTHER THAN STAINLESS) PRODUCTS, UNDER 600 MM WIDE, HOT-ROLLED, NESOI.
* * * * * * *
722810 | BARS AND RODS OF HIGH-SPEED STEEL NESOI.
722820 | BARS AND RODS OF SILICO-MANGANESE STEEL NESOI.
722830 | BARS AND RODS OF ALLOY STEEL (OTHER THAN STAINLESS), HOT-WORKED, NESOI.
722840 | BARS AND RODS OF ALLOY STEEL (OTHER THAN STAINLESS), FORGED, NESOI.
722850 | BARS AND RODS OF ALLOY STEEL (OTHER THAN STAINLESS), COLD-FORMED OR COLD-FINISHED, NESOI.
722860 | BARS AND RODS OF ALLOY STEEL (OTHER THAN STAINLESS), NESOI.
722870 | ANGLES, SHAPES AND SECTIONS OF ALLOY STEEL (OTHER THAN STAINLESS), NESOI.
722880 | HOLLOW DRILL BARS AND RODS OF ALLOY OR NONALLOY STEEL.
722990 | WIRE OF ALLOY STEEL NESOI.
730120 | WELDED ANGLES, SHAPES AND SECTIONS OF IRON OR STEEL.
730424 | CASING & TUBING USED IN DRILLING FOR OIL OR GAS, OTHER OF STAINLESS STEEL.
730539 | PIPES AND TUBES NESOI, EXTERNAL DIAMETER OVER 406.4 MM (16 IN.), OF IRON OR STEEL, WELDED NESOI.
730650 | PIPES, TUBES AND HOLLOW PROFILES NESOI, WELDED, OF CIRCULAR CROSS SECTION, OF ALLOY STEEL (OTHER THAN STAINLESS) NESOI.
730722 | PIPE OR TUBE FITTINGS, NESOI, STAINLESS STEEL THREADED ELBOWS, BENDS AND SLEEVES.
* * * * * * *
731100 | CONTAINERS FOR COMPRESSED OR LIQUEFIED GAS, OF IRON OR STEEL.
731412 | ENDLESS BANDS OF STAINLESS STEEL.
731824 | COTTERS AND COTTER PINS, OF IRON OR STEEL.
732020 | HELICAL SPRINGS OF IRON OR STEEL.
732290 | AIR HEATERS AND HOT AIR DISTRIBUTORS, NOT ELECTRICALLY HEATED, INCORPORATING A MOTOR-DRIVEN FAN OR BLOWER, AND PARTS THEREOF, OF IRON OR STEEL.
732429 | BATHS OF IRON OR STEEL, OTHER THAN CAST IRON.
740710 | BARS, RODS AND PROFILES OF REFINED COPPER.
740721 | BARS, RODS AND PROFILES OF COPPER-ZINC BASE ALLOYS (BRASS).
740729 | BARS, RODS AND PROFILES OF COPPER ALLOYS, NESOI.
740811 | WIRE OF REFINED COPPER, WITH A MAXIMUM CROSS SECTIONAL DIMENSION OVER 6 MM (.23 IN.).
740819 | WIRE OF REFINED COPPER, WITH A MAXIMUM CROSS SECTIONAL DIMENSION NOT OVER 6 MM (.23 IN.).
740821 | WIRE OF COPPER-ZINC BASE ALLOYS (BRASS).
740822 | WIRE OF COPPER-NICKEL BASE ALLOYS (CUPRO-NICKEL) OR COPPER-NICKEL-ZINC BASE ALLOYS (NICKEL-SILVER).
740829 | WIRE OF COPPER ALLOYS, NESOI.
740911 | PLATES, SHEETS AND STRIP OF REFINED COPPER, OVER 0.15 MM THICK, IN COILS.
740919 | PLATES, SHEETS AND STRIP OF REFINED COPPER, OVER 0.15 MM THICK, NOT IN COILS.
740921 | PLATES, SHEETS AND STRIP OF COPPER-ZINC BASE ALLOYS (BRASS), OVER 0.15 MM THICK, IN COILS.
740929 | PLATES, SHEETS AND STRIP OF COPPER-ZINC BASE ALLOYS (BRASS), OVER 0.15 MM THICK, NOT IN COILS.
740931 | PLATES, SHEETS AND STRIP OF COPPER-TIN BASE ALLOYS (BRONZE), OVER 0.15 MM THICK, IN COILS.
740939 | PLATES, SHEETS AND STRIP OF COPPER-TIN BASE ALLOYS (BRONZE), OVER 0.15 MM THICK, NOT IN COILS.
740940 | PLATES, SHEETS AND STRIP OF COPPER-NICKEL BASE ALLOYS (CUPRO-NICKEL) OR COPPER-NICKEL-ZINC BASE ALLOYS (NICKEL SILVER), OVER 0.15 MM THICK.
740990 | PLATES, SHEETS AND STRIP OF COPPER ALLOYS NESOI, OVER 0.15 MM THICK.
741129 | TUBES AND PIPES OF COPPER ALLOYS NESOI.
741521 | WASHERS, INCLUDING SPRING WASHERS, OF COPPER.
750511 | NICKEL BARS, RODS AND PROFILES, NOT ALLOYED.
750512 | NICKLE BARS, RODS AND PROFILES, OF NICKLE ALLOYS.
750521 | NICKLE WIRE, NOT ALLOYED.
750522 | NICKLE WIRE, OF NICKLE ALLOYS.
750610 | NICKEL PLATES, SHEETS, STRIP AND FOIL, NOT ALLOYED.
750620 | NICKEL PLATES, SHEETS, STRIP AND FOIL, OF NICKLE ALLOYS.
750711 | NICKLE TUBES AND PIPES, NOT ALLOYED.
750712 | NICKLE TUBES AND PIPES, OF NICKLE ALLOYS.
750720 | NICKLE TUBE OR PIPE FITTINGS.
750810 | CLOTH, GRILL AND NETTING OF NICKEL WIRE.
750890 | OTHER ARTICLES OF NICKEL, NESOI.
760511 | ALUMINUM WIRE OF NONALLOYED ALUMINUM, WITH A MAXIMUM CROSS SECTIONAL DIMENSION OF OVER 7 MM.
760519 | ALUMINUM WIRE OF NONALLOYED ALUMINUM, WITH A MAXIMUM CROSS SECTIONAL DIMENSION OF 7 MM OR LESS.
760521 | ALUMINUM ALLOY WIRE, WITH A MAXIMUM CROSS SECTIONAL DIMENSION OF OVER 7 MM.
760529 | ALUMINUM ALLOY WIRE, WITH A MAXIMUM CROSS SECTIONAL DIMENSION OF 7 MM OR LESS.
760692 | ALUMINUM ALLOY PLATES, SHEETS OR STRIP, OVER 0.2 MM THICK, NESOI (OTHER THAN RECTANGULAR SQUARE SHAPES).
760720 | ALUMINUM FOIL, NOT OVER 0.2 MM THICK, BACKED.
* * * * * * *
761100 | ALUMINUM TANKS, VATS AND SIMILAR PLAIN, UNFITTED CONTAINERS, OF A CAPACITY OVER 300 LITERS (79.30 GAL.).
* * * * * * *
761290 | ALUMINUM CASKS, DRUMS, CANS, BOXES AND SIMILAR PLAIN, UNFITTED CONTAINERS, OF A CAPACITY NOT OVER 300 LITERS (79.30 GAL.).
761300 | ALUMINUM CONTAINERS FOR COMPRESSED OR LIQUEFID GAS.
761610 | NAILS, TACKS, STAPLES (OTHER THAN IN STRIPS), SCREWS, BOLTS, NUTS, SCREW HOOKS, RIVETS AND SIMILAR ARTICLES, OF ALUMINUM.
780411 | LEAD SHEETS, STRIP AND FOIL NOT OVER 0.2 MM THICK.
780419 | LEAD PLATES, SHEETS, STRIP AND FOIL OVER 0.2 MM THICK.
780420 | LEAD POWDERS AND FLAKES.
790500 | ZINC PLATES, SHEETS, STRIP AND FOIL.
800110 | TIN, NOT ALLOYED, UNWROUGHT.
800120 | TIN ALLOYS, UNWROUGHT.
800300 | TIN BARS, RODS, PROFILES AND WIRE.
800700 | ARTICLES OF TIN, NESOI.
810110 | TUNGSTEN (WOLFRAM) POWDERS.
810210 | MOLYBDENUM POWDERS.
810294 | MOLYBDENUM, UNWROUGHT, INCLUDING BARS AND RODS OBTAINED SIMPLY BY SINTERING.
810295 | MOLYBDENUM BARS AND RODS, OTHER THAN THOSE OBTAINED SIMPLY BY SINTERING; MOLYBDENUM PROFILES, PLATES, SHEETS, STRIP AND FOIL.
810296 | MOLYBDENUM WIRE.
810297 | MOLYBDENUM WASTE AND SCRAP.
810299 | MOLYBDENUM AND ARTICLES THEREOF, NESOI.
810590 | COBALT AND ARTICLES THEREOF, NESOI.
810921 | UNWROUGHT ZIRCONIUM; POWDERS.
810929 | UNWROUGHT ZIRCONIUM; POWDERS.
810931 | ZIRCONIUM WASTE AND SCRAP.
810939 | ZIRCONIUM WASTE AND SCRAP.
810991 | ZIRCONIUM AND ARTICLES THEREOF, NESOI.
810999 | ZIRCONIUM AND ARTICLES THEREOF, NESOI.
820220 | BANDSAW BLADES, AND BASE METAL PARTS THEREOF.
* * * * * * *
830120 | LOCKS OF A KIND USED ON MOTOR VEHICLES, OF BASE METAL.
830170 | KEYS PRESENTED SEPARATELY FOR PADLOCKS OR LOCKS, OF BASE METAL.
830230 | MOUNTINGS, FITTINGS AND SIMILAR ARTICLES NESOI (EXCEPT HINGES), AND PARTS THEREOF, SUITABLE FOR MOTOR VEHICLES, OF BASE METAL.
830710 | FLEXIBLE TUBING, OF IRON OR STEEL.
830790 | FLEXIBLE TUBING, OF BASE METAL, OTHER THAN IRON OR STEEL.
830910 | CROWN CORKS (INCLUDING CROWN SEALS AND CAPS), AND PARTS THEREOF, OF BASE METAL.
830990 | STOPPERS, CAPS AND LIDS NESOI (NOT CROWN), CAPSULES FOR BOTTLES, BUNGS, SEALS AND OTHER PACKING ACCESSORIES, AND PARTS THEREOF, OF BASE METAL.
840110 | NUCLEAR REACTORS.
840120 | ISOTOPIC SEPARATION MACHINERY AND APPARATUS, AND PARTS THEREOF.
840130 | FUEL ELEMENTS (CARTRIDGES), NON-IRRADIATED, FOR NUCLEAR REACTORS, AND PARTS THEREOF.
840140 | PARTS OF NUCLEAR REACTORS.
840211 | WATERTUBE BOILERS WITH A STEAM PRODUCTION EXCEEDING 45 T PER HOUR.
* * * * * * *
840310 | CENTRAL HEATING BOILERS.
840390 | PARTS FOR CENTRAL HEATING BOILERS.
* * * * * * *
840610 | TURBINES, STEAM AND OTHER VAPOR TYPES, FOR MARINE PROPULSION.
* * * * * * *
840710 | AIRCRAFT SPARK-IGNITION RECIPROCATING OR ROTARY INTERNAL COMBUSTION PISTON ENGINES.
* * * * * * *
840731 | SPARK-IGNITION RECIPROCATING PISTON ENGINES FOR PROPULSION OF VEHICLES EXCEPT RAILWAY OR TRAMWAY STOCK, NOT OVER 50 CC CYLINDER CAPACITY.
840732 | SPARK-IGNITION RECIPROCATING PISTON ENGINES FOR PROPULSION OF VEHICLES EXCEPT RAILWAY OR TRAMWAY STOCK, OVER 50 BUT NOT OVER 250 CC CYLINDER CAPACITY.
840733 | SPARK-IGNITION RECIPROCATING PISTON ENGINES FOR PROPULSION OF VEHICLES EXCEPT RAIL OR TRAMWAY STOCK, OVER 250 BUT NOT OVER 1,000 CC CYLINDER CAPACITY.
840734 | SPARK-IGNITION RECIPROCATING PISTON ENGINES FOR PROPULSION OF VEHICLES EXCEPT RAILWAY OR TRAMWAY STOCK, OVER 1,000 CC CYLINDER CAPACITY.
840790 | SPARK-IGNITION RECIPROCATING OR ROTARY INTERNAL COMBUSTION PISTON ENGINES, NESOI.
* * * * * * *
840910 | PARTS FOR SPARK-IGNITION OR ROTARY INTERNAL COMBUSTION PISTON ENGINES OR COMPRESSION-IGNITION INTERNAL COMBUSTION PISTON ENGINES, FOR AIRCRAFT.
840991 | PARTS FOR USE WITH SPARK-IGNITION INTERNAL COMBUSTION PISTON ENGINES (INCLUDING ROTARY ENGINES), NESOI.
* * * * * * *
841011 | HYDRAULIC TURBINES AND WATER WHEELS, OF A POWER NOT EXCEEDING 1,000 KW.
841012 | HYDRAULIC TURBINES AND WATER WHEELS, OF A POWER EXCEEDING 1,000 KW BUT NOT EXCEEDING 10,000 KW.
841013 | HYDRAULIC TURBINES AND WATER WHEELS, OF A POWER EXCEEDING 10,000 KW.
* * * * * * *
841181 | GAS TURBINES, EXCEPT TURBOJETS AND TURBOPROPELLERS, OF A POWER NOT EXCEEDING 5,000 KW.
841182 | GAS TURBINES, EXCEPT TURBOJETS AND TURBOPROPELLERS, OF A POWER EXCEEDING 5,000 KW.
* * * * * * *
841199 | PARTS OF GAS TURBINES, NESOI (OTHER THAN PARTS FOR TURBOJETS OR TURBOPROPELLERS).
* * * * * * *
841231 | PNEUMATIC POWER ENGINES AND MOTORS, LINEAR ACTING (CYLINDERS).
* * * * * * *
841290 | PARTS FOR ENGINES AND MOTORS, NESOI.
* * * * * * *
841320 | HAND PUMPS, OTHER THAN PUMPS FITTED OR DESIGNED TO BE FITTED WITH A MEASURING DEVICE.
* * * * * * *
841340 | CONCRETE PUMPS.
* * * * * * *
841370 | CENTRIFUGAL PUMPS, NESOI.
* * * * * * *
841382 | LIQUID ELEVATORS.
841391 | PARTS OF PUMPS FOR LIQUIDS.
841392 | PARTS OF LIQUID ELEVATORS.
* * * * * * *
841420 | HAND- OR FOOT-OPERATED AIR PUMPS.
841430 | COMPRESSORS USED IN REFRIGERATING EQUIPMENT (INCLUDING AIR CONDITIONING).
841440 | AIR COMPRESSORS MOUNTED ON A WHEELED CHASSIS FOR TOWING.
841451 | FANS, TABLE, FLOOR, WALL, WINDOW, CEILING OR ROOF, WITH SELF-CONTAINED ELECTRIC MOTOR OF AN OUTPUT NOT EXCEEDING 125 W.
841459 | FANS, NESOI.
841460 | VENTILATING OR RECYCLING HOODS INCORPORATING A FAN, HAVING A MAXIMUM HORIZINTAL SIDE NOT EXCEEDING 120 CM.
841470 | FILTERING OR PURIFYING MACHINERY AND APPARATUS FOR GASES, NESOI.
841480 | AIR PUMPS AND AIR OR OTHER GAS COMPRESSORS, NESOI; VENTILATING OR RECYCLING HOODS INCORPORATING A FAN, NESOI.
* * * * * * *
841510 | AIR CONDITIONING MACHINES, WINDOW OR WALL TYPES, SELF-CONTAINED OR “SPLIT-SYSTEM“.
* * * * * * *
841581 | AIR CONDITIONING MACHINES NESOI, INCORPORATING A REFRIGERATING UNIT AND VALVE FOR REVERSAL OF THE COOLING/HEAT CYCLE (REVERSIBLE HEAT PUMPS).
841582 | AIR CONDITIONING MACHINES NESOI, INCORPORATING A REFRIGERATING UNIT, NESOI.
* * * * * * *
841590 | PARTS, NESOI, OF AIR CONDITIONING MACHINES.
* * * * * * *
841710 | INDUSTRIAL OR LABORATORY FURNACES AND OVENS, FOR THE HEAT TREATMENT OF ORES, PYRITES OR METALS, NONELECTRIC.
* * * * * * *
841780 | INDUSTRIAL OR LABORATORY FURNACES AND OVENS, INCLUDING INCINERATORS, NONELECTRIC, NESOI.
841790 | PARTS OF INDUSTRIAL OR LABORATORY FURNACES AND OVENS, INCLUDING PARTS OF INCINERATORS, NONELECTRIC.
841810 | COMBINED REFRIGERATOR-FREEZERS FITTED WITH SEPARATE EXTERNAL DOORS.
841821 | REFRIGERATORS, HOUSEHOLD, COMPRESSION TYPE.
841829 | REFRIGERATORS, HOUSEHOLD TYPE, NESOI.
841830 | FREEZERS, CHEST TYPE, CAPACITY NOT EXCEEDING 800 LITERS.
841840 | FREEZERS, UPRIGHT TYPE, CAPACITY NOT EXCEEDING 900 LITERS.
841850 | REFRIGERATING OR FREEZING CHESTS, DISPLAY COUNTERS, CABINETS, SHOWCASES AND SIMILAR EQUIPMENT, NESOI.
* * * * * * *
841891 | FURNITURE DESIGNED TO RECEIVE REFRIGERATING OR FREEZING EQUIPMENT.
841899 | PARTS OF REFRIGERATION OR FREEZING EQUIPMENT AND HEAT PUMPS, NESOI.
841911 | INSTANTANEOUS GAS WATER HEATERS.
841912 | INSTANTANEOUS OR STORAGE WATER HEATERS, EXCEPT INSTANTANEOUS GAS WATER HEATERS, NONELECTRIC.
* * * * * * *
841920 | MEDICAL, SURGICAL OR LABORATORY STERILIZERS.
841933 | DRYERS FOR AGRICULTURAL PRODUCTS.
841934 | DRYERS FOR AGRICULTURAL PRODUCTS.
841935 | DRYERS FOR WOOD, PAPER PULP, PAPER OR PAPERBOARD.
841939 | DRYERS, NESOI.
* * * * * * *
841981 | MACHINERY, PLANT OR EQUIPMENT FOR MAKING HOT DRINKS OR FOR COOKING OR HEATING FOOD.
* * * * * * *
842010 | CALENDERING OR OTHER ROLLING MACHINES, OTHER THAN FOR METALS OR GLASS.
* * * * * * *
842112 | CLOTHES-DRYERS, CENTRIFUGAL.
* * * * * * *
842121 | WATER FILTERING OR PURIFYING MACHINERY AND APPARATUS.
842122 | BEVERAGE FILTERING OR PURIFYING MACHINERY AND APPARATUS, OTHER THAN WATER.
* * * * * * *
842132 | FILTERING OR PURIFYING MACHINERY AND APPARATUS FOR GASES, NESOI.
* * * * * * *
842211 | DISHWASHING MACHINES, HOUSEHOLD TYPE.
842219 | DISHWASHING MACHINES, EXCEPT HOUSEHOLD TYPE.
842220 | MACHINERY FOR CLEANING OR DRYING BOTTLES OR OTHER CONTAINERS.
842230 | MACHINERY FOR FILLING, CLOSING, SEALING, CAPSULING OR LABELING BOTTLES, CANS, BOXES OR OTHER CONTAINERS; MACHINERY FOR AERATING BEVERAGES.
842240 | PACKING OR WRAPPING MACHINERY (INCLUDING HEAT-SHRINK WRAPPING MACHINERY), NESOI.
842290 | PARTS FOR MACHINES FOR DISHWASHING, FOR CLEANING, FILLING ETC. CONTAINERS AND FOR PACKING AND WRAPPING; PARTS OF MACHINES FOR AERATING BEVERAGES.
842310 | PERSONAL WEIGHING MACHINES, INCLUDING BABY SCALES; HOUSEHOLD SCALES.
842320 | SCALES FOR CONTINUOUS WEIGHING OF GOODS ON CONVEYORS.
842330 | CONSTANT-WEIGHT SCALES AND SCALES FOR DISCHARGING A PREDETERMINED WEIGHT OF MATERIAL INTO A BAG OR CONTAINER, INCLUDING HOPPER SCALES.
842381 | WEIGHING MACHINERY, NESOI, HAVING A MAXIMUM WEIGHING CAPACITY NOT EXCEEDING 30 KG.
842382 | WEIGHING MACHINERY, NESOI, HAVING A MAXIMUM WEIGHING CAPACITY EXCEEDING 30 KG BUT NOT EXCEEDING 5,000 KG.
842389 | WEIGHING MACHINERY, NESOI, HAVING A MAXIMUM WEIGHING CAPACITY EXCEEDING 5,000 KG.
842390 | WEIGHING MACHINE WEIGHTS OF ALL KINDS; PARTS OF WEIGHING MACHINERY.
* * * * * * *
842420 | SPRAY GUNS AND SIMILAR APPLIANCES.
842430 | STEAM OR SAND BLASTING MACHINES AND SIMILAR JET PROJECTING MACHINES.
842441 | PORTABLE AGRICULTURAL OR HORTICULTURAL SPRAYERS, FOR PROJECTING, DISPERSING OR SPRAYING LIQUIED OR POWDERS.
842449 | AGRICULTURAL OR HORTICULTURAL SPRAYERS, OTHER THAN PORTABLE SPRAYERS.
842482 | MECHANICAL APPLINACES FOR AGRICULTURAL OR HORTICULTURAL USE FOR PROJECTING, DISPERSING OR SPRAYING LIQUIDS OR POWEDERS, NESOI.
* * * * * * *
842519 | PULLEY TACKLE AND HOISTS, OTHER THAN SKIP HOISTS OR HOISTS OF A KIND USED FOR RAISING VEHICLES, NOT POWERED BY ELECTRIC MOTOR.
* * * * * * *
842539 | WINCHES AND CAPSTANS, NOT POWERED BY ELECTRIC MOTORS.
842541 | BUILT-IN JACKING SYSTEMS OF A TYPE USED IN GARAGES.
842542 | JACKS AND HOISTS, HYDRAULIC, EXCEPT BUILT-IN JACKING SYSTEMS USED IN GARAGES.
842549 | JACKS, NESOI; HOISTS OF A KIND USED FOR RAISING VEHICLES, NESOI.
* * * * * * *
842810 | PASSENGER OR FREIGHT ELEVATORS OTHER THAN CONTINUOUS ACTION; SKIP HOISTS.
* * * * * * *
842840 | ESCALATORS AND MOVING WALKWAYS.
842860 | TELEFERICS, CHAIR LIFTS, SKI DRAGLINES; TRACTION MECHANISMS FOR FUNICULARS.
* * * * * * *
843020 | SNOWPLOWS AND SNOWBLOWERS.
843031 | COAL OR ROCK CUTTERS AND TUNNELING MACHINERY, SELF-PROPELLED.
* * * * * * *
843041 | BORING OR SINKING MACHINERY, NESOI, SELF-PROPELLED.
* * * * * * *
843061 | TAMPING OR COMPACTING MACHINERY, NOT SELF-PROPELLED.
* * * * * * *
843110 | PARTS FOR PULLEY TACKLE AND HOISTS (OTHER THAN SKIP HOISTS), WINCHES, CAPSTANS AND JACKS.
* * * * * * *
843131 | PARTS FOR PASSENGER OR FREIGHT ELEVATORS OTHER THAN CONTINUOUS ACTION, SKIP HOISTS OR ESCALATORS.
* * * * * * *
843142 | BULLDOZER OR ANGLEDOZER BLADES.
843143 | PARTS FOR BORING OR SINKING MACHINERY, NESOI.
* * * * * * *
843210 | PLOWS FOR SOIL PREPARATION OR CULTIVATION.
843221 | DISC HARROWS.
843229 | HARROWS (EXCEPT DISC), SCARIFIERS, CULTIVATORS, WEEDERS AND HOES.
843231 | NO-TILL DIRECT SEEDERS, PLANTERS AND TRANSPLANTERS.
843239 | SEEDERS, PLANTERS AND TRANSPLANTERS, NESOI.
843241 | MANURE SPREADERS.
843242 | FERTILIZER DISTRIBUTORS.
843280 | AGRICULTURAL, HORTICULTURAL OR FORESTRY MACHINERY FOR SOIL PREPARATION OR CULTIVATION, NESOI; LAWN OR SPORTS GROUND ROLLERS.
843290 | PARTS FOR AGRICULTURAL, HORTICULTURAL OR FORESTRY MACHINERY (FOR SOIL PREPARATION OR CULTIVATION) AND PARTS FOR LAWN OR GROUND ROLLERS.
843311 | MOWERS FOR LAWNS, PARKS OR SPORTS GROUNDS, POWERED WITH THE CUTTING DEVICE ROTATING IN A HORIZONTAL PLANE.
843319 | MOWERS FOR LAWNS, PARKS OR SPORTS GROUNDS, EXCEPT POWERED WITH THE CUTTING DEVICE ROTATING IN A HORIZONTAL PLANE.
843320 | MOWERS, NESOI, INCLUDING CUTTER BARS FOR TRACTOR MOUNTING.
843330 | HAYING MACHINES, OTHER THAN MOWERS.
843340 | STRAW OR FODDER BALERS, INCLUDING PICK-UP BALERS.
843351 | COMBINE HARVESTER-THRESHERS.
843352 | THRESHING MACHINERY, EXCEPT COMBINE HARVESTER-THRESHERS.
843353 | ROOT OR TUBER HARVESTING MACHINES.
843359 | HARVESTING MACHINERY, NESOI.
843360 | MACHINES FOR CLEANING, SORTING OR GRADING EGGS, FRUIT OR OTHER AGRICULTURAL PRODUCE.
843390 | PARTS FOR HARVESTING OR THRESHING MACHINERY, MOWERS, BALERS AND MACHINES FOR CLEANING, SORTING OR GRADING EGGS, FRUIT OR OTHER AGRICULTURAL PRODUCE.
843410 | MILKING MACHINES.
843420 | DAIRY MACHINERY.
843490 | PARTS OF MILKING MACHINES AND DAIRY MACHINERY.
843510 | PRESSES, CRUSHERS AND SIMILAR MACHINERY USED IN THE MANUFACTURE OF WINES, CIDER, FRUIT JUICES OR SIMILAR BEVERAGES.
843590 | PARTS OF PRESSES, CRUSHERS AND SIMILAR MACHINERY, USED IN THE MANUFACTURE OF WINE, CIDER, FRUIT JUICES OR SIMILAR BEVERAGES.
843610 | MACHINERY FOR PREPARING ANIMAL FEEDS.
843621 | POULTRY INCUBATORS AND BROODERS.
843629 | POULTRY-KEEPING MACHINERY (OTHER THAN INCUBATORS AND BROODERS).
843680 | AGRICULTURAL, HORTICULTURAL, FORESTRY, BEE-KEEPING MACHINERY, INCLUDING GERMINATION PLANT FITTED WITH MECHANICAL OR THERMAL EQUIPMENT, NESOI.
843691 | PARTS OF POULTRY-KEEPING MACHINERY OR POULTRY INCUBATORS AND BROODERS.
843699 | PARTS OF AGRICULTURAL, HORTICULTURAL, FORESTRY, BEE-KEEPING MACHINERY, INCLUDING GERMINATION PLANT FITTED WITH MECHANICAL OR THERMAL EQUIPMENT, NESOI.
843710 | MACHINES FOR CLEANING, SORTING OR GRADING SEED, GRAIN OR DRIED LEGUMINOUS VEGETABLES.
843780 | MACHINERY USED IN THE MILLING INDUSTRY OR FOR THE WORKING OF CEREALS OR DRIED LEGUMINOUS VEGETABLES, OTHER THAN FARM TYPE MACHINERY.
843790 | PARTS OF MACHINES (NONFARM) USED TO CLEAN, SORT OR GRADE SEED, GRAIN OR DRIED LEGUMINOUS VEGETABLES OR TO WORK CEREALS OR DRIED LEGUMINOUS VEGETABLES.
843810 | BAKERY MACHINERY AND MACHINERY FOR THE MANUFACTURE OF MACARONI, SPAGHETTI OR SIMILAR PRODUCTS.
843820 | MACHINERY FOR THE MANUFACTURE OF CONFECTIONERY, COCOA OR CHOCOLATE.
843830 | MACHINERY FOR SUGAR MANUFACTURE.
843840 | BREWERY MACHINERY.
843850 | MACHINERY FOR THE PREPARATION OF MEAT OR POULTRY.
843860 | MACHINERY FOR THE PREPARATION OF FRUITS, NUTS OR VEGETABLES.
843880 | MACHINERY FOR THE INDUSTRIAL PREPARATION OR MANUFACTURE OF FOOD OR DRINK (NOT FOR THE EXTRACTION ETC. OF ANIMAL OR FIXED VEGETABLE FATS OR OILS) NESOI.
843890 | PARTS OF MACHINERY FOR THE INDUSTRIAL PREPARATION OR MANUFACTURE OF FOOD OR DRINK, NESOI.
* * * * * * *
843920 | MACHINERY FOR MAKING PAPER OR PAPERBOARD.
* * * * * * *
843991 | PARTS OF MACHINERY FOR MAKING PULP OF FIBROUS CELLULOSIC MATERIAL.
843999 | PARTS FOR MACHINERY MAKING OR FINISHING PAPER OR PAPERBOARD.
844010 | BOOKBINDING MACHINERY, INCLUDING BOOK-SEWING MACHINES.
* * * * * * *
844110 | CUTTING MACHINES FOR PAPER AND PAPERBOARD.
844120 | MACHINES FOR MAKING PAPER BAGS, SACKS OR ENVELOPES.
* * * * * * *
844140 | MACHINES FOR MOLDING ARTICLES IN PAPER PULP, PAPER OR PAPERBOARD.
844180 | MACHINERY FOR MAKING UP PAPER PULP, PAPER OR PAPERBOARD, NESOI.
844190 | PARTS OF MACHINERY FOR MAKING UP PAPER PULP, PAPER OR PAPERBOARD, INCLUDING PARTS OF CUTTING MACHINES.
* * * * * * *
844250 | PRINTING TYPE, BLOCKS, PLATES, CYLINDERS AND OTHER PRINTING COMPONENTS; BLOCKS, PLATES, CYLINDERS AND LITHOGRAPHIC STONES, PREPARED FOR PRINT PURPOSES.
* * * * * * *
844312 | OFFSET PRINTING MACHINERY, SHEET-FED, OFFICE TYPE (SHEET SIZE NOT EXCEEDING 22X36 CM).
* * * * * * *
844314 | LETTERPRESS PRINTING MACHINERY, REEL FED, EXCLUDING FLEXOGRAPHIC PRINTING.
* * * * * * *
844331 | MACHINES WHICH PERFORM TWO OR MORE OF THE FUNCTIONS OF PRINTING, COPYING OR FAX TRANSMISSION, CAPABLE OF CONNECTING TO AN ADP MACHINE OR TO A NETWORK.
844332 | PRINTERS, COPYING MACHINES AND FACSIMILE MACHINES, NOT COMBINED, CAPABLE OF CONNECTING TO AN AUTOMATIC DATA PROCESSING MACHINE OR TO A NETWORK.
844339 | PRINTERS, COPYING MACHINES AND FACSIMILE MACHINES, NOT COMBINED, NESOI.
* * * * * * *
844399 | PARTS AND ACCESSORIES OF PRINTERS, COPYING MACHINES AND FACSIMILE MACHINES, NESOI.
* * * * * * *
844511 | CARDING MACHINES FOR PREPARING TEXTILE FIBERS.
844512 | COMBING MACHINES FOR PREPARING TEXTILE FIBERS.
844513 | DRAWING OR ROVING MACHINES FOR PREPARING TEXTILE FIBERS.
844519 | MACHINES FOR PREPARING TEXTILE FIBERS, NESOI.
844520 | TEXTILE SPINNING MACHINES.
844530 | TEXTILE DOUBLING OR TWISTING MACHINES.
844540 | TEXTILE WINDING (INCLUDING WEFT WINDING) OR REELING MACHINES.
844590 | MACHINERY FOR PRODUCING TEXTILE YARNS NESOI; MACHINES FOR PREPARING TEXTILE YARNS FOR WEAVING MACHINES (LOOMS), KNITTING AND STICH-BONDING MACHINES.
844610 | WEAVING MACHINES (LOOMS) FOR WEAVING FABRICS OF A WIDTH NOT EXCEEDING 30 CM.
* * * * * * *
844630 | WEAVING MACHINES (LOOMS) FOR WEAVING FABRICS OF A WIDTH EXCEEDING 30 CM, SHUTTLELESS TYPE.
844711 | CIRCULAR KNITTING MACHINES WITH CYLINDER DIAMETER NOT EXCEEDING 165 MM.
844712 | CIRCULAR KNITTING MACHINES WITH CYLINDER DIAMETER EXCEEDING 165 MM.
844720 | FLAT KNITTING MACHINES; STITCH-BONDING MACHINES.
844790 | KNITTING MACHINES, NESOI, AND MACHINES FOR MAKING GIMPED YARN, TULLE, LACE, EMBROIDERY, TRIMMINGS, BRAID OR NET AND MACHINES FOR TUFTING.
* * * * * * *
844831 | CARD CLOTHING.
844832 | PARTS OF MACHINES FOR PREPARING TEXTILE FIBERS, OTHER THAN CARD CLOTHING.
* * * * * * *
844859 | PARTS AND ACCESSORIES NESOI FOR MACHINES FOR KNITTING, STITCH-BONDING, MAKING GIMPED YARN, TULLE, LACE, EMBROIDERY, TRIMMING, BRAID, NET OR TUFTING.
844900 | MACHINERY FOR THE MANUFACTURE OR FINISHING OF FELT OR NONWOVENS IN THE PIECE OR IN SHAPES, OR FOR MAKING OR BLOCKING FELT HATS; PARTS THEREOF.
845011 | HOUSEHOLD- OR LAUNDRY-TYPE WASHING MACHINES, FULLY AUTOMATIC, WITH A DRY LINEN CAPACITY NOT EXCEEDING 10 KG.
845012 | HOUSEHOLD- OR LAUNDRY-TYPE WASHING MACHINES, NOT FULLY AUTOMATIC, WITH A BUILT-IN CENTRIFUGAL DRYER, WITH A DRY LINEN CAPACITY NOT EXCEEDING 10 KG.
845019 | HOUSEHOLD- OR LAUNDRY-TYPE WASHING MACHINES, WITH A DRY LINEN CAPACITY NOT EXCEEDING 10 KG, NESOI.
845020 | HOUSEHOLD- OR LAUNDRY-TYPE WASHING MACHINES, WITH A DRY LINEN CAPACITY EXCEEDING 10 KG.
845090 | PARTS OF HOUSEHOLD- OR LAUNDRY-TYPE WASHING MACHINES, INCLUDING PARTS OF MACHINES WHICH BOTH WASH AND DRY.
* * * * * * *
845121 | DRYING MACHINES (EXCEPT CENTRIFUGAL TYPE) FOR TEXTILE YARNS, FABRICS OR MADE UP TEXTILE ARTICLES, WITH A DRY LINEN CAPACITY NOT EXCEEDING 10 KG.
* * * * * * *
845140 | WASHING, BLEACHING OR DYEING MACHINES FOR TEXTILES YARNS, FABRICS OR MADE UP TEXTILES ARTICLES.
845150 | MACHINES FOR REELING, UNREELING, FOLDING, CUTTING OR PINKING TEXTILE FABRICS.
845180 | MACHINERY FOR FINISHING, COATING OR IMPREGNATING TEXTILES YARNS, FABRICS OR MADE UP TEXTILE ARTICLES; MACHINES FOR APPLYING PASTE TO BASE FABRICS ETC.
* * * * * * *
845210 | SEWING MACHINES OF THE HOUSEHOLD TYPE.
845221 | SEWING MACHINES OTHER THAN OF THE HOUSEHOLD TYPE, AUTOMATIC UNITS.
845229 | SEWING MACHINES OTHER THAN OF THE HOUSEHOLD OR AUTOMATIC TYPES.
* * * * * * *
845290 | PARTS FOR SEWING MACHINES, NESOI.
* * * * * * *
845320 | MACHINERY FOR MAKING OR REPAIRING FOOTWEAR.
* * * * * * *
845430 | CASTING MACHINES USED IN METALLURGY OR METAL FOUNDRIES.
* * * * * * *
845510 | METAL-ROLLING TUBE MILLS.
845521 | METAL-ROLLING HOT OR COMBINATION HOT AND COLD ROLLING MILLS, EXCEPT TUBE MILLS.
* * * * * * *
845590 | PARTS FOR METAL-ROLLING MILLS, EXCEPT ROLLS FOR ROLLING MILLS.
845611 | MACHINE TOOLS FOR WORKING ANY MATERIAL BY REMOVAL OF MATERIAL OPERATED BY LASER.
845612 | MACHINE TOOLS FOR WORKING ANY MATERIAL BY REMOVAL OF MATERIAL OPERATED BY OTHER LIGHT OR PHOTON BEAM PROCESSES.
* * * * * * *
845630 | MACHINE TOOLS FOR WORKING ANY MATERIAL BY REMOVAL OF MATERIAL, BY ELECTRO-DISCHARGE PROCESSES.
* * * * * * *
845650 | MACHINE TOOLS FOR WORKING ANY MATERIAL BY REMOVAL OF MATERIAL, WATER-JET CUTTING MACHINES.
* * * * * * *
845720 | UNIT CONSTRUCTION MACHINES (SINGLE STATION) FOR WORKING METAL.
* * * * * * *
845929 | DRILLING MACHINES FOR REMOVING METAL NESOI, NOT NUMERICALLY CONTROLLED.
* * * * * * *
845939 | BORING-MILLING MACHINES FOR REMOVING METAL NESOI, NOT NUMERICALLY CONTROLLED.
* * * * * * *
845951 | MILLING MACHINES, KNEE TYPE, FOR REMOVING METAL, NUMERICALLY CONTROLLED.
845959 | MILLING MACHINES, KNEE TYPE, FOR REMOVING METAL, NOT NUMERICALLY CONTROLLED.
* * * * * * *
845969 | MILLING MACHINES, NOT KNEE TYPE, FOR REMOVING METAL, NOT NUMERICALLY CONTROLLED.
* * * * * * *
846510 | MACHINES FOR WORKING WOOD, HARD RUBBER, ETC., WHICH CARRY OUT DIFFERENT MACHINE OPERATIONS WITHOUT TOOL CHANGES BETWEEN OPERATIONS.
* * * * * * *
846591 | SAWING MACHINES FOR WORKING WOOD, CORK, BONE, HARD RUBBER, HARD PLASTICS OR SIMILAR HARD MATERIALS.
846592 | PLANING, MILLING OR MOLDING (BY CUTTING) MACHINES FOR WORKING WOOD, CORK, BONE, HARD RUBBER, HARD PLASTICS OR SIMILAR HARD MATERIALS.
* * * * * * *
846595 | DRILLING OR MORTISING MACHINES FOR WORKING WOOD, CORK, BONE, HARD RUBBER, HARD PLASTICS OR SIMILAR HARD MATERIALS.
* * * * * * *
846599 | MACHINE TOOLS (ALSO THOSE FOR NAILING, STAPLING, GLUEING, ETC.) FOR WORKING WOOD, CORK, BONE, HARD RUBBER, HARD PLASTICS OR SIMILAR MATERIALS, NESOI.
* * * * * * *
846630 | DIVIDING HEADS AND OTHER SPECIAL ATTACHMENTS FOR MACHINE TOOLS.
* * * * * * *
846711 | PNEUMATIC TOOLS FOR WORKING IN THE HAND, ROTARY TYPE (INCLUDING COMBINED ROTARY-PERCUSSION).
846719 | PNEUMATIC TOOLS FOR WORKING IN THE HAND, EXCEPT ROTARY TYPE
846721 | DRILLS WITH SELF-CONTAINED ELECTRIC MOTORS, FOR WORKING IN THE HAND.
846722 | SAWS WITH SELF-CONTAINED ELECTRIC MOTORS, FOR WORKING IN THE HAND.
846729 | TOOLS FOR WORKING IN THE HAND, WITH SELF-CONTAINED ELECTRIC MOTORS, NESOI.
846781 | CHAIN SAWS, SELF-CONTAINED NONELECTRIC MOTOR, HAND-DIRECTED.
846789 | TOOLS FOR WORKING IN THE HAND, WITH SELF-CONTAINED NONELECTRIC MOTOR, NESOI.
846791 | PARTS OF CHAIN SAWS.
846792 | PARTS OF PNEUMATIC TOOLS FOR WORKING IN THE HAND.
846799 | PARTS OF TOOLS WITH SELF-CONTAINED NONELECTRIC MOTOR, FOR WORKING IN THE HAND, NESOI.
* * * * * * *
847010 | ELECTRONIC CALCULATORS CAPABLE OF OPERATION WITHOUT AN EXTERNAL SOURCE OF POWER.
847021 | ELECTRONIC CALCULATING MACHINES, NESOI, INCORPORATING A PRINTING DEVICE.
847029 | ELECTRONIC CALCULATING MACHINES, NESOI, NOT INCORPORATING A PRINTING DEVICE.
847030 | CALCULATING MACHINES, EXCEPT ELECTRONIC.
847050 | CASH REGISTERS.
847090 | POSTAGE-FRANKING MACHINES, TICKET-ISSUING MACHINES AND SIMILAR MACHINES, INCORPORATING A CALCULATING DEVICE, NESOI.
847130 | PORTABLE DIGTL AUTOMATIC DATA PROCESSING MACHINES, WEIGHT NOT MORE THAN 10 KG, CONSISTING OF AT LEAST A CENTRAL PROCESSING UNIT, KEYBOARD & A DISPLAY.
847141 | DIGITAL ADP MACHINES COMPRISING IN SAME HOUSING AT LEAST A CENTRAL PROCESSING UNIT AND AN INPUT AND OUTPUT UNIT, WHETHER OR NOT COMBINED, N.E.S.O.I.
847149 | DIGITAL AUTOMATIC DATA PROCESSING MACHINES AND UNITS THEREOF PRESENTED IN THE FORM OF SYSTEMS, N.E.S.O.I.
847150 | DIGITAL PROCESSING UNITS OTHER THAN THOSE OF 8471.41 AND 8471.49, N.E.S.O.I.
847160 | AUTOMATIC DATA PROCESSING INPUT OR OUTPUT UNITS, WHETHER OR NOT CONTAINING STORAGE UNITS IN THE SAME HOUSING, N.E.S.O.I.
847170 | AUTOMATIC DATA PROCESSING STORAGE UNITS, N.E.S.O.I.
847180 | AUTOMATIC DATA PROCESSING UNITS, N.E.S.O.I.
847190 | AUTOMATIC DATA PROCESSING UNTS THEREOF; MAGNETIC/OPTICAL READERS, MACH FOR TRANSCRIBING DATA TO DATA MEDIA IN CODED FORM & MACH FOR PROC DATA, NESOI.
* * * * * * *
847290 | OFFICE MACHINES NESOI (INCLUDING AUTOMATIC BANKNOTE DISPENSERS, COIN-SORTING MACHINES, PENCIL-SHARPENING MACHINES, PERFORATING OR STAPLING MACHINES).
* * * * * * *
847329 | PARTS AND ACCESSORIES FOR CASH REGISTERS AND MACHINES FOR ACCOUNTING, POSTAGE-FRANKING, TICKET-ISSUING AND SIMILAR MACHINES WITH A CALCULATING DEVICE.
* * * * * * *
847340 | PARTS AND ACCESSORIES FOR OFFICE MACHINES, NESOI (FOR EXAMPLE, DUPLICATING MACHINES, ADDRESSING MACHINES, STAPLING MACHINES, ETC.).
847350 | PARTS AND ACCESSORIES EQUALLY SUITABLE FOR USE WITH MACHINES OF TWO OR MORE OF THE HEADINGS 8469 TO 8472.
* * * * * * *
847420 | MACHINES FOR CRUSHING OR GRINDING EARTH, STONE, ORE OR OTHER MINERAL SUBSTANCES, IN SOLID FORM.
* * * * * * *
847432 | MACHINES FOR MIXING MINERAL SUBSTANCES WITH BITUMEN.
* * * * * * *
847490 | PARTS OF MACHINERY FOR SORTING, SCREENING, SEPARATING AND KNEADING OR PROCESSING, ETC. EARTH, STONE, ORES OR OTHER MINERAL SUBSTANCES IN SOLID FORM.
847510 | MACHINES FOR ASSEMBLING ELECTRIC OR ELECTRONIC LAMPS, TUBES OR FLASHBULBS, IN GLASS ENVELOPES.
* * * * * * *
847621 | AUTOMATIC BEVERAGE VENDING MACHINES INCORPORATING HEATING OR REFRIGERATING DEVICES.
847629 | AUTOMATIC BEVERAGE VENDING MACHINES NOT INCORPORATING HEATING OR REFRIGERATING DEVICES.
847681 | AUTOMATIC GOOGS-VENDING MACHINES INCORPORATING HEATING OR REFRIGERATING DEVICES, NESOI.
847689 | AUTOMATIC GOODS-VENDING MACHINES NOT INCORPORATINNG HEATING OR REFRIGERATING DEVICES, NESOI.
847690 | PARTS OF AUTOMATIC VENDING MACHINES.
847710 | INJECTION-MOLDING MACHINES FOR WORKING RUBBER OR PLASTICS.
847720 | EXTRUDERS FOR WORKING RUBBER OR PLASTICS.
* * * * * * *
847780 | MACHINERY FOR WORKING RUBBER OR PLASTICS OR FOR THE MANUFACTURE OF PRODUCTS FROM THESE MATERIALS, NESOI.
* * * * * * *
847810 | MACHINERY FOR PREPARING OR MAKING UP TOBACCO, NESOI.
847890 | PARTS OF MACHINERY, NESOI, FOR PREPARING OR MAKING UP TOBACCO.
* * * * * * *
847920 | MACHINERY FOR THE EXTRACTION OR PREPARATION OF ANIMAL OR FIXED VEGETABLE FATS OR OILS.
* * * * * * *
847940 | ROPE OR CABLE-MAKING MACHINES.
* * * * * * *
847960 | EVAPORATIVE AIR COOLERS.
847971 | PASSENGER BOARDING BRIDGES OF A KIND USED IN AIRPORTS.
847979 | PASSENGER BOARDING BRIDGES, OTHER THAN THOSE OF A KIND USED IN AIRPORTS.
* * * * * * *
847983 | MACHINES AND MECHANICAL APPLIANCES HAVING INDIVIDUAL FUNCTIONS, NESOI.
* * * * * * *
848010 | MOLDING BOXES FOR METAL FOUNDRY.
* * * * * * *
848041 | MOLDS FOR METAL OR METAL CARBIDES, INJECTION OR COMPRESSION TYPES.
848049 | MOLDS FOR METAL OR METAL CARBIDES, OTHER THAN INJECTION OR COMPRESSION TYPES.
848050 | MOLDS FOR GLASS.
* * * * * * *
848071 | MOLDS FOR RUBBER OR PLASTICS, INJECTION OR COMPRESSION TYPES.
848079 | MOLDS FOR RUBBER OR PLASTICS, OTHER THAN INJECTION OR COMPRESSION TYPES.
* * * * * * *
848180 | TAPS, COCKS, VALVES AND SIMILAR APPLIANCES FOR PIPES, VATS OR THE LIKE, INCLUDING THERMOSTATICALLY CONTROLLED VALVES, NESOI.
848190 | PARTS FOR TAPS, COCKS, VALVES AND SIMILAR APPLIANCES FOR PIPES, VATS OR THE LIKE, INCLUDING PRESSURE REDUCING AND THERMOSTATICALLY CONTROLLED VALVES.
* * * * * * *
848510 | SHIPS' OR BOATS' PROPELLERS AND BLADES THEREFOR.
* * * * * * *
848580 | MACHINES AND MECHANICAL APPLIANCES HAVING INDIVIDUAL FUNCTIONS, NESOI.
* * * * * * *
850110 | ELECTRIC MOTORS OF AN OUTPUT NOT EXCEEDING 37.5 W.
* * * * * * *
850132 | DC MOTORS NESOI AND GENERATORS OF AN OUTPUT EXCEEDING 750 W BUT NOT EXCEEDING 75 KW.
* * * * * * *
850134 | DC MOTORS NESOI AND GENERATORS OF AN OUTPUT EXCEEDING 375 KW.
850140 | AC MOTORS NESOI, SINGLE-PHASE.
850151 | AC MOTORS NESOI, MULTI-PHASE, OF AN OUTPUT NOT EXCEEDING 750 W.
850152 | AC MOTORS NESOI, MULTI-PHASE, OF AN OUTPUT EXCEEDING 750 W BUT NOT EXCEEDING 75 KW.
* * * * * * *
850171 | DC MOTORS NESOI AND GENERATORS OF AN OUTPUT NOT EXCEEDING 750 W.
850172 | DC MOTORS NESOI AND GENERATORS OF AN OUTPUT NOT EXCEEDING 750 W.
850180 | AC GENERATORS (ALTERNATORS), OF AN OUTPUT NOT EXCEEDING 75 KVA.
* * * * * * *
850410 | BALLASTS FOR DISCHARGE LAMPS OR TUBES.
850421 | LIQUID DIELECTRIC TRANSFORMERS HAVING A POWER HANDLING CAPACITY NOT EXCEEDING 650 KVA.
850422 | LIQUID DIELECTRIC TRANSFORMERS HAVING A POWER HANDLING CAPACITY EXCEEDING 650 KVA BUT NOT EXCEEDING 10,000 KVA.
850423 | LIQUID DIELECTRIC TRANSFORMERS HAVING A POWER HANDLING CAPACITY EXCEEDING 10,000 KVA.
850431 | ELECTRICAL TRANSFORMERS NESOI, HAVING A POWER HANDING CAPACITY NOT EXCEEDING 1 KVA.
* * * * * * *
850440 | ELECTRICAL STATIC CONVERTERS; POWER SUPPLIES FOR ADP MACHINES OR UNITS OF 8471.
850450 | ELECTRICAL INDUCTORS NESOI.
850490 | PARTS FOR ELECTRICAL TRANSFORMERS, STATIC CONVERTERS AND INDUCTORS.
* * * * * * *
850519 | PERMANENT MAGNETS AND ARTICLES INTENDED TO BECOME PERMANENT MAGNETS AFTER MAGNETIZATION, MADE OF MATERIALS OTHER THAN METAL.
* * * * * * *
850610 | PRIMARY CELLS AND PRIMARY BATTERIES, MANGANESE DIOXIDE.
850630 | PRIMARY CELLS AND PRIMARY BATTERIES, MERCURIC OXIDE.
850640 | PRIMARY CELLS AND PRIMARY BATTERIES, SILVER OXIDE.
850650 | PRIMARY CELLS AND PRIMARY BATTERIES, LITHIUM.
* * * * * * *
850680 | PRIMARY CELLS AND PRIMARY BATTERIES, N.E.S.O.I.
* * * * * * *
850750 | NICKEL-METAL HYDRIDE BATTERIES.
850760 | LITHIUM ION BATTERIES.
850780 | STORAGE BATTERIES NESOI.
850790 | PARTS OF ELECTRIC STORAGE BATTERIES, INCLUDING SEPARATORS THEREFOR.
850811 | VACUUM CLEANERS WITH SELF-CONTAINED ELECTRIC MOTOR, OF A POWER LT=1500 W AND HAVING A DUST BAG OR OTHER RECEPTACLE CAPACITY LT=20 L.
850819 | VACUUM CLEANERS WITH SELF-CONTAINED ELECTRIC MOTOR, NESOI.
850860 | VACUUM CLEANERS WITHOUT SELF-CONTAINED ELECTRIC MOTOR.
850870 | PARTS OF VACUUM CLEANERS.
850940 | ELECTROMECHANICAL DOMESTIC FOOD GRINDERS, PROCESSORS AND MIXERS, AND FRUIT OR VEGETABLE JUICE EXTRACTORS, WITH SELF-CONTAINED ELECTRIC MOTOR.
850980 | ELECTROMECHANICAL DOMESTIC APPLIANCES, WITH SELF-CONTAINED ELECTRIC MOTOR, NESOI.
850990 | PARTS OF ELECTROMECHANICAL DOMESTIC APPLIANCES WITH SELF-CONTAINED ELECTRIC MOTOR.
851010 | ELECTRIC SHAVERS, WITH SELF-CONTAINED ELECTRIC MOTOR.
851020 | ELECTRIC HAIR CLIPPERS, WITH SELF-CONTAINED ELECTRIC MOTOR.
851030 | HAIR-REMOVING APPLIANCES, WITH SELF-CONTAINED ELECTRIC MOTOR.
851090 | PARTS OF ELECTRIC SHAVERS AND HAIR CLIPPERS WITH SELF-CONTAINED ELECTRIC MOTOR.
* * * * * * *
851210 | ELECTRICAL LIGHTING OR VISUAL SIGNALING EQUIPMENT FOR USE ON BICYCLES.
* * * * * * *
851230 | ELECTRICAL SOUND SIGNALING EQUIPMENT USED FOR CYCLES OR MOTOR VEHICLES.
851240 | ELECTRICAL WINDSHIELD WIPERS, DEFROSTERS AND DEMISTERS USED FOR CYCLES OR MOTOR VEHICLES.
* * * * * * *
851310 | PORTABLE ELECTRIC LAMPS, BATTERY OR MAGNETO POWERED, NESOI.
851390 | PARTS FOR PORTABLE ELECTRIC LAMPS, BATTERY OR MAGNETO POWERED, NESOI.
* * * * * * *
851440 | INDUSTRIAL OR LABORATORY INDUCTION OR DIELECTION HEATING EQUIPMENT, NESOI.
* * * * * * *
851531 | ELECTRIC MACHINES AND APPARATUS FOR ARC (INCLUDING PLAZMA ARC) WELDING OF METALS, FULLY OR PARTY AUTOMATIC.
851539 | ELECTRIC MACHINES AND APPARATUS FOR ARC (INCLUDING PLAZMA ARC) WELDING OF METALS, OTHER THAN FULLY OR PARTLY AUTOMATIC.
851580 | ELECTRIC, LASER, ULTRASONIC ETC. BRAZING OR WELDING MACHINES NESOI; ELECTRIC MACHINES FOR HOT SPRAYING OF METALS OR SINTERED METAL CARBIDES, NESOI.
851590 | PARTS FOR ELECTRIC LASER, ULTRASONIC ETC. WELDING ETC. MACHINES; PARTS FOR ELECTRIC MACHINES FOR HOT SPRAYING OF METALS OR SINTERED METAL CARBIDES.
851610 | ELECTRIC INSTANTANEOUS OR STORAGE WATER HEATERS AND IMMERSION HEATERS.
* * * * * * *
851629 | ELECTRIC SPACE HEATING APPARATUS NESOI AND ELECTRIC SOIL HEATING APPARATUS.
851631 | ELECTRIC HAIR DRYERS.
851632 | ELECTROTHERMIC HAIRDRESSING APPARATUS OTHER THAN HAIR DRYERS.
851633 | ELECTRIC HAND-DRYING APPARATUS.
851640 | ELECTRIC FLATIRONS.
851650 | MICROWAVE OVENS.
851660 | ELECTRIC OVENS, COOKING STOVES, RANGES, COOKING PLATES, BOILING RINGS, GRILLERS AND ROASTERS, NESOI.
851671 | ELECTRIC COFFEE OR TEA MAKERS.
851672 | ELECTRIC TOASTERS.
851679 | ELECTROTHERMIC DOMESTIC APPLIANCES, NESOI.
* * * * * * *
851690 | PARTS FOR ELECTRIC WATER HEATERS, SPACE HEATERS, HAIRDRESSING APPARATUS, FLAT IRONS, STOVES, OVENS, COFFEE OR TEA MAKERS, TOASTERS, ETC.
851711 | LINE TELEPHONE SETS WITH CORDLESS HANDSETS.
851713 | TELEPHONES FOR CELLULAR NETWORKS OR FOR OTHER WIRELESS NETWORKS.
851714 | TELEPHONES FOR CELLULAR NETWORKS OR FOR OTHER WIRELESS NETWORKS.
851718 | TELEPHONE SETS, NESOI.
851761 | BASE STATIONS.
851762 | MACHINES FOR THE RECEPTION, CONVERSION AND TRANSMISSION OR REGENERATION OF VOICE, IMAGES OR OTHER DATA, INCLUDING SWITCHING AND ROUTING APPARATUS.
851769 | APPARATUS FOR THE TRANSMISSION OR RECEPTION OF VOICE, IMAGES OR OTHER DATA, INCLUDING SWITCHING AND ROUTING APPARATUS, NESOI.
* * * * * * *
851810 | MICROPHONES AND STANDS THEREFOR.
851821 | SINGLE LOUDSPEAKERS, MOUNTED IN THEIR ENCLOSURES.
851822 | MULTIPLE LOUDSPEAKERS, MOUNTED IN SAME ENCLOSURE.
851829 | LOUDSPEAKERS, NESOI.
851830 | HEADPHONES, EARPHONES WHETHER OR NOT COMBINED MICROPHONE/SPEAKER SETS.
851840 | AUDIO-FREQUENCY ELECTRIC AMPLIFIERS.
851850 | ELECTRIC SOUND AMPLIFIER SETS.
851890 | PARTS OF MICROPHONES, LOUDSPEAKERS, HEADPHONES, EARPHONES, AUDIO-FREQUENCY ELECTRIC AMPLIFIERS, AND ELECTRIC SOUND AMPLIFIER SETS.
851920 | SOUND RECORDING OR REPRODUCING APPARATUS OPERATED BY COINS, BANKNOTES, BANK CARDS, TOKENS OR BY OTHER MEANS OF PAYMENT.
851930 | TURNTABLES (RECORD-DECKS).
851981 | SOUND RECORDING OR REPRODUCING APPARATUS, USING MAGNETIC, OPTICAL OR SEMICONDUCTOR MEDIA, NESOI.
851989 | SOUND RECORDING OR REPRODUCING APPARATUS, NESOI.
852110 | VIDEO RECORDING OR REPRODUCING APPARATUS (WHETHER OR NOT INCORPORATING A VIDEO TUNER), MAGNETIC TAPE-TYPE.
852190 | VIDEO RECORDING OR REPRODUCING APPARATUS (WHETHER OR NOT INCORPORATING A VIDEO TURNER), OTHER THAN MAGNETIC TAPE-TYPE.
852210 | PICKUP CARTRIDGES FOR SOUND RECORDERS.
852290 | PARTS AND ACCESSORIES, EXCEPT PICKUP CARTRIDGES, FOR SOUND REPRODUCING, SOUND RECORDING, AND VIDEO RECORDING OR REPRODUCING APPARATUS.
852321 | CARDS INCORPORATING A MAGNETIC STRIPE.
852329 | MAGNETIC MEDIA FOR THE RECORDING OF SOUND OR OTHER PHENOMENA, NESOI.
852341 | OPTICAL MEDIA FOR THE RECORDING OF SOUND OR OF OTHER PHENOMENA, UNRECORDED.
852349 | OPTICAL MEDIA FOR THE RECORDING OF SOUND OR OF OTHER PHENOMENA, RECORDED.
* * * * * * *
852352 | SMART CARDS.
852359 | SEMICONDUCTOR MEDIA, FOR THE RECORDING OF SOUND OR OTHER PHENOMENA, NESOI.
852380 | MEDIA FOR THE RECORDING OF SOUND OR OF OTHER PHENOMENA, NESOI.
852411 | OPTICAL DEVICES, APPLIANCES AND INSTRUMENTS, NESOI.
852412 | PARTS (EXCEPT ANTENNAS AND REFLECTORS) FOR USE WITH RADIO TRANSMISSION, RADAR, RADIO NAVIGATIONAL AID, RECEPTION AND TELEVISION APPARATUS, NESOI.
852419 | PARTS AND ACCESSORIES FOR LIQUID CRYSTAL DEVICES, LASERS (OTHER THAN LASER DIODES) AND OTHER OPTICAL APPLIANCES AND INSTRUMENTS, NESOI.
852491 | OTHER RECORDED MEDIA, NESOI, FOR REPRODUCING PHENOMENA OTHER THAN SOUND OR IMAGE.
852492 | PARTS (EXCEPT ANTENNAS AND REFLECTORS) FOR USE WITH RADIO TRANSMISSION, RADAR, RADIO NAVIGATIONAL AID, RECEPTION AND TELEVISION APPARATUS, NESOI.
852499 | RECORDED MEDIA FOR REPRODUCING SOUND OR IMAGE, N.E.S.O.I.
* * * * * * *
852560 | TRANSMISSION APPARATUS INCORPORATING RECEPTION APPARATUS, FOR RADIO-BROADCASTING OR TELEVISION.
* * * * * * *
852691 | RADIO NAVIGATIONAL AID APPARATUS.
* * * * * * *
852712 | POCKET-SIZE RADIO CASSETTE PLAYERS.
852713 | RADIOBROADCAST RECEIVERS CAPABLE OF OPERATING WITHOUT AN EXTERNAL SOURCE OF POWER, COMBINED WITH SOUND RECORDING OR REPRODUCING APPARATUS, N.E.S.O.I.
852719 | RADIOBROADCAST RECEIVERS, BATTERY TYPE, NESOI.
* * * * * * *
852729 | RADIOBROADCAST RECEIVERS FOR MOTOR VEHICLES, NOT CAPABLE OF OPERATING WITHOUT OUTSIDE POWER, NESOI.
852791 | RECEPTION APPARATUS FOR RADIO-BROADCASTING, COMBINED WITH SOUND RECORDING OR REPRODUCING APPARATUS, NESOI.
852792 | RECEPTION APPARATUS FOR RADIO-BROADCASTING, COMBINED WITH A CLOCK, NESOI.
852799 | RECEPTION APPARATUS FOR RADIO-BROADCASTING, NESOI.
852842 | CATHODE-RAY TUBE MONITORS CAPABLE OF DIRECTLY CONNECTING TO AND DESIGNED FOR USE WITH MACHINES OF HEADING 8471.
* * * * * * *
852852 | OTHER MONITORS CAPABLE OF DIRECTLY CONNECTING TO AND DESIGNED FOR USE WITH MACHINES OF HEADIN 8471.
852859 | MONITORS, NOT INCORPORATING TELEVISION RECEPTION APPARATUS, NESOI.
852862 | PROJECTORS CAPABLE OF DIRECTLY CONNECTING TO AND DESIGNED FOR USE WITH ADP MACHINES OF HEADING 8471.
852869 | PROJECTORS, NOT INCORPORATING TELEVISION RECEPTION APPARATUS, NESOI.
852871 | RECEPTION APPARATUS FOR TELEVISION, NOT DESIGNED TO INCORPORATE A VIDEO DISPLAY OR SCREEN.
852872 | RECEPTION APPARATUS FOR TELEVISION, COLOR, NESOI.
852873 | RECEPTION APPARATUS FOR TELEVISION, MONOCHROME, DESIGNED TO INCORPORATED A VIDEO DISPLAY OR SCREEN.
* * * * * * *
852990 | PARTS (EXCEPT ANTENNAS AND REFLECTORS) FOR USE WITH RADIO TRANSMISSION, RADAR, RADIO NAVIGATIONAL AID, RECEPTION AND TELEVISION APPARATUS, NESOI.
* * * * * * *
853110 | BURGLAR OR FIRE ALARMS AND SIMILAR APPARATUS.
853120 | INDICATOR PANELS INCORPORATING LIQUID CRYSTAL DEVICES (LCD'S) OR LIGHT EMITTING DIODES (LED'S).
853180 | ELECTRIC SOUND OR VISUAL SIGNALING APPARATUS (FOR EXAMPLE, BELLS, SIRENS, INDICATOR PANELS), NESOI.
853190 | PARTS OF ELECTRIC SOUND OR VISUAL SIGNALING APPARATUS, NESOI.
* * * * * * *
853222 | FIXED CAPACITORS NESOI, ALUMINUM ELECTROLYTIC.
853223 | FIXED CAPACITORS NESOI, SINGLE LAYER CERAMIC DIELECTRIC.
* * * * * * *
853225 | FIXED CAPACITORS NESOI, DIELECTRIC OF PAPER OR PLASTICS.
* * * * * * *
853310 | FIXED CARBON RESISTORS, COMPOSITION OR FILM TYPES.
853321 | FIXED RESISTORS, NESOI, FOR A POWER HANDLING CAPACITY NOT EXCEDING 20 W.
* * * * * * *
853331 | WIREWOUND VARIABLE RESISTORS, INCLUDING RHEOSTATS AND POTENTIOMETERS, FOR A POWER HANDLING CAPACITY NOT EXCEEDING 20 W.
853339 | WIREWOUND VARIABLE RESISTORS, INCLUDING RHEOSTATS AND POTENTIOMETERS, FOR A POWER HANDING CAPACITY EXCEEDING 20 W.
853340 | VARIABLE RESISTORS, INCLUDING RHEOSTATS AND POTENTIOMETERS, NESOI.
* * * * * * *
853610 | FUSES FOR ELECTRICAL APPARATUS FOR A VOLTAGE NOT EXCEEDING 1,000 V.
853620 | AUTOMATIC CIRCUIT BREAKERS FOR A VOLTAGE NOT EXCEEDING 1,000 V.
853630 | ELECTRICAL APPARATUS FOR PROTECTING ELECTRICAL CIRCUITS FOR A VOLTAGE NOT EXCEEDING 1,000 V, NESOI.
853641 | RELAYS FOR A VOLTAGE NOT EXCEEDING 60 V.
853649 | RELAYS FOR A VOLTAGE EXCEEDING 60 V BUT NOT EXCEEDING 1,000 V.
* * * * * * *
853661 | ELECTRICAL LAMPHOLDERS FOR A VOLTAGE NOT EXCEEDING 1,000 V.
* * * * * * *
853670 | CONNECTORS FOR OPTICAL FIBERS, OPTICAL FIBER BUNDLES OR CABLES.
* * * * * * *
853720 | BOARDS, PANELS, CONSOLES, ETC. WITH ELECTRICAL APPARATUS, FOR ELECTRIC CONTROL OR DISTRIBUTION OF ELECTRICITY, FOR A VOLTAGE EXCEEDING 1,000 V.
* * * * * * *
853910 | SEALED BEAM ELECTRIC LAMP UNITS.
853921 | TUNGSTEN HALOGEN ELECTRIC FILAMENT LAMPS.
853922 | ELECTRIC FILAMENT LAMPS NESOI, OF A POWER NOT EXCEEDING 200 W AND FOR A VOLTAGE EXCEEDING 100 V.
* * * * * * *
853931 | ELECTRIC DISCHARGE LAMPS (OTHER THAN ULTRAVIOLET LAMPS), FLUORESCENT, HOT CATHODE.
853932 | MERCURY OR SODIUM VAPOR DISCHARGE LAMPS; METAL HALIDE DISCHARGE LAMPS.
* * * * * * *
853949 | ULTRAVIOLET OR INFRARED LAMPS.
* * * * * * *
853990 | PARTS FOR ELECTRIC FILAMENT, DISCHARGE OR ARC LAMPS.
854011 | CATHODE-RAY TELEVISION PICTURE TUBES, COLOR, INCLUDING VIDEO MONITOR CATHODE-RAY TUBES.
854012 | CATHODE-RAY TELEVISION PICTURE TUBES, INCLUDING VIDEO MONITOR CATHODE-RAY TUBES, MONOCHROME.
* * * * * * *
854040 | DATA/GRAPHIC DISPLAY TUBES, MONOCHROME; DATA/GRAPHIC DISPLAY TUBES, COLOR, WITH A PHOSPHOR DOT SCREEN PITCH SMALLER THAN 0.4 MM.
* * * * * * *
854340 | ELECTRIC FENCE ENERGIZERS.
* * * * * * *
854390 | PARTS FOR ELECTRICAL MACHINES AND APPARATUS HAVING INDIVIDUAL FUNCTIONS, NESOI.
* * * * * * *
854419 | INSULATED WINDING WIRE, NESOI.
854420 | INSULATED COAXIAL CABLE AND OTHER COAXIAL ELECTRICAL CONDUCTORS.
* * * * * * *
854442 | ELECTRIC CONDUCTORS, FOR A VOLTAGE NOT EXCEEDING 1000 V, FITTED WITH CONNECTORS, NESOI.
* * * * * * *
854511 | CARBON ELECTRODES OF A KIND USED FOR FURNACES.
854519 | CARBON ELECTRODES NESOI.
* * * * * * *
854590 | ELECTRICAL CARBON OR GRAPHITE ARTICLES, NESOI.
854610 | ELECTRICAL INSULATORS OF GLASS.
854620 | ELECTRICAL INSULATORS OF CERAMICS.
854690 | ELECTRICAL INSULATORS, NESOI.
* * * * * * *
860210 | DIESEL-ELECTRIC LOCOMOTIVES.
* * * * * * *
860610 | RAILWAY OR TRAMWAY TANK CARS AND THE LIKE, NOT SELF-PROPELLED.
860630 | RAILWAY OR TRAMWAY SELF-DISCHARGING CARS (OTHER THAN TANK CARS AND THE LIKE OR INSULATED OR REFRIGERATED CARS), NOT SELF-PROPELLED.
860691 | RAILWAY OR TRAMWAY FREIGHT CARS, COVERED AND CLOSED, NOT SELF-PROPELLED, NESOI.
* * * * * * *
860699 | RAILWAY OR TRAMWAY FREIGHT CARS, NOT SELF-PROPELLED, NESOI.
870121 | ROAD TRACTORS FOR SEMI-TRAILERS.
870122 | ROAD TRACTORS FOR SEMI-TRAILERS.
870123 | ROAD TRACTORS FOR SEMI-TRAILERS.
870124 | ROAD TRACTORS FOR SEMI-TRAILERS.
870130 | TRACK-LAYING TRACTORS.
* * * * * * *
870321 | PASSENGER MOTOR VEHICLES WITH SPARK-IGNITION INTERNAL COMBUSTION RECIPROCATING PISTON ENGINE, CYLINDER CAPACITY NOT OVER 1,000 CC.
870322 | PASSENGER MOTOR VEHICLES WITH SPARK-IGNITION INTERNAL COMBUSTION RECIPROCATING PISTON ENGINE, CYLINDER CAPACITY OVER 1,000 CC BUT NOT OVER 1,500 CC.
870323 | PASSENGER MOTOR VEHICLES WITH SPARK-IGNITION INTERNAL COMBUSTION RECIPROCATING PISTON ENGINE, CYLINDER CAPACITY OVER 1,500 CC BUT NOT OVER 3,000 CC.
870324 | PASSENGER MOTOR VEHICLES WITH SPARK-IGNITION INTERNAL COMBUSTION RECIPROCATING PISTON ENGINE, CYCLINDER CAPACITY OVER 3,000 CC.
870331 | PASSENGER MOTOR VEHICLES WITH COMPRESSION-IGNITION INTERNAL COMBUSTION PISTON ENGINE (DIESEL), CYLINDER CAPACITY NOT OVER 1,500 CC.
870332 | PASSENGER MOTOR VEHICLES WITH COMPRESSION-IGNITION INTERNAL COMBUSTION PISTON ENGINE (DIESEL), CYLINDER CAPACITY OVER 1,500 CC BUT NOT OVER 2,500 CC.
870333 | PASSENGER MOTOR VEHICLES WITH COMPRESSION-IGNITION INTERNAL COMBUSTION PISTON ENGINE (DIESEL), CYLINDER CAPACITY OVER 2,500 CC.
870340 | PASSENGER MOTOR VEHICLES, WITH BOTH APRK-IG INTRNL COMBUST AND ELECTRIC MOTOR, OTHER THAN THOSE CHARGES BY PLUGGIN TO EXTERNAL ELECTRIC POWER.
870350 | MOTOR VEHICLES, WITH BOTH COMPRES-IG INTERNAL COMBUS PISTON ENGINE (DIESEL/SEMI-DIESEL) AND ELECTRIC MOTOR,NOT CHARGED BY PLUG.
870360 | MOTOR VEHICLES WITH BOTH SPARK-IG AND ELECTRIC MOTOR, CAPABLE OF CHARGE BY PLUGGING TO EXTNL PWR.
870370 | MOTOR VEHICLES, WITH BOTH COMPRESSION-IGNITION INTERNAL COMBUSTION (DIESEL/SEMI-DIESEL AND ELECTRIC MOTOR, CAPABLE OF CHARGED BY PLUGGING.
870380 | MOTOR VEHICLES WITH ONLY ELECTRIC MOTOR, NESOI.
870390 | PASSENGER MOTOR VEHICLES, NESOI.
* * * * * * *
870431 | MOTOR VEHICLES FOR GOODS TRANSPORT NESOI, WITH SPARK-IGNITION INTERNAL COMBUSTION PISTON ENGINE, GVW NOT OVER 5 METRIC TONS.
* * * * * * *
870441 | MOTOR VEHICLES FOR THE TRANSPORT OF GOODS, NESOI.
870442 | MOTOR VEHICLES FOR THE TRANSPORT OF GOODS, NESOI.
870443 | MOTOR VEHICLES FOR THE TRANSPORT OF GOODS, NESOI.
870451 | MOTOR VEHICLES FOR THE TRANSPORT OF GOODS, NESOI.
870452 | MOTOR VEHICLES FOR THE TRANSPORT OF GOODS, NESOI.
870460 | MOTOR VEHICLES FOR THE TRANSPORT OF GOODS, NESOI.
870490 | MOTOR VEHICLES FOR THE TRANSPORT OF GOODS, NESOI.
* * * * * * *
870520 | MOBILE DRILLING DERRICKS.
870530 | FIRE FIGHTING VEHICLES.
* * * * * * *
890110 | CRUISE SHIPS, EXCURSION BOATS AND SIMILAR VESSELS PRINCIPALLY DESIGNED FOR THE TRANSPORT OF PERSONS; FERRY BOATS OF ALL KINDS.
890311 | INFLATABLE YACHTS AND VESSELS FOR PLEASURE OR SPORTS, INCLUDING INFLATABLE ROW BOATS AND CANOES.
890312 | INFLATABLE YACHTS AND VESSELS FOR PLEASURE OR SPORTS, INCLUDING INFLATABLE ROW BOATS AND CANOES.
890319 | INFLATABLE YACHTS AND VESSELS FOR PLEASURE OR SPORTS, INCLUDING INFLATABLE ROW BOATS AND CANOES.
890321 | SAILBOATS, WITH OR WITHOUT AUXILIARY MOTOR.
890322 | SAILBOATS, WITH OR WITHOUT AUXILIARY MOTOR.
890323 | SAILBOATS, WITH OR WITHOUT AUXILIARY MOTOR.
890331 | MOTORBOATS, OTHER THAN OUTBOARD MOTORBOATS.
890332 | MOTORBOATS, OTHER THAN OUTBOARD MOTORBOATS.
890333 | MOTORBOATS, OTHER THAN OUTBOARD MOTORBOATS.
890393 | YACHTS AND OTHER VESSELS FOR PLEASURE OR SPORTS NESOI; ROW BOATS AND CANOES (NOT DESIGNED TO BE PRINCIPALLY USED WITH MOTORS OR SAILS) NESOI.
890399 | YACHTS AND OTHER VESSELS FOR PLEASURE OR SPORTS NESOI; ROW BOATS AND CANOES (NOT DESIGNED TO BE PRINCIPALLY USED WITH MOTORS OR SAILS) NESOI.
* * * * * * *
900120 | SHEETS AND PLATES OF POLARIZING MATERIAL.
900130 | CONTACT LENSES.
900140 | SPECTACLE LENSES OF GLASS.
900150 | SPECTACLE LENSES OF MATERIALS OTHER THAN GLASS.
900190 | LENSES (EXCEPT CONTACT AND SPECTACLE), PRISMS, MIRRORS AND OTHER OPTICAL ELEMENTS, UNMOUNTED, OTHER THAN ELEMENTS OF GLASS NOT OPTICALLY WORKED.
900211 | OBJECTIVE LENSES AND PARTS AND ACCESSORIES THEREOF FOR CAMERAS, PROJECTORS OR PHOTOGRAPHIC ENLARGERS OR REDUCERS.
900219 | OBJECTIVE LENSES AND PARTS AND ACCESSORIES THEREOF FOR INSTRUMENTS OR APPARATUS, NESOI.
900220 | OPTICAL FILTERS AND PARTS AND ACCESSORIES THEREOF FOR INSTRUMENTS OR APPARATUS.
900290 | PRISMS, MIRRORS AND OTHER OPTICAL ELEMENTS, MOUNTED, AND PARTS AND ACCESSORIES THEREOF, NESOI.
900311 | FRAMES AND MOUNTINGS FOR SPECTACLES, GOGGLES OR THE LIKE, OF PLASTICS.
900319 | FRAMES AND MOUNTINGS FOR SPECTACLES, GOGGLES OR THE LIKE, OF MATERIALS OTHER THAN PLASTICS.
900390 | PARTS OF FRAMES AND MOUNTINGS FOR SPECTACLES, GOGGLES OR THE LIKE.
900410 | SUNGLASSES.
900490 | SPECTACLES, GOGGLES AND THE LIKE, CORRECTIVE, PROTECTIVE OR OTHER, NESOI.
* * * * * * *
900710 | CINEMATOGRAPHIC CAMERAS.
900720 | CINEMATOGRAPHIC PROJECTORS, WHETHER OR NOT INCORPORATING SOUND RECORDING OR REPRODUCING APPARATUS.
900791 | PARTS AND ACCESSORIES FOR CINEMATOGRAPHIC CAMERAS.
900792 | PARTS AND ACCESSORIES FOR CINEMATOGRAPHIC PROJECTORS.
900850 | IMAGE AND PHOTOGRAPHIC PROJECTORS, ENLARGERS AND REDUCERS, OTHER THAN CINEMATOGRAPHIC.
900890 | PARTS AND ACCESSORIES OF IMAGE PROJECTORS, PHOTOGRAPHIC ENLARGERS AND REDUCERS, OTHER THAN CINEMATOGRAPHIC.
* * * * * * *
901050 | APPARATUS AND EQUIPMENT FOR PHOTOGRAPHIC (INCLUDING CIMETOGRAPHIC) LABORATORIES, N.E.S.O.I.; NEGATOSCOPES.
901060 | PROJECTION SCREENS.
901090 | PARTS AND ACCESSORIES OF APPARATUS AND EQUIPMENT FOR PHOTOGRAPHIC (INCLUDING CINEMATOGRAPHIC) LABORATORIES NESOI, NEGATOSCOPES AND PROJECTION SCREENS.
901110 | STEREOSCOPIC MICROSCOPES.
901120 | MICROSCOPES NESOI, FOR PHOTOMICROGRAPHY, CINEPHOTOMICROGRAPHY OR MICROPROJECTION.
901180 | COMPOUND OPTICAL MICROSCOPES, NESOI.
901190 | PARTS AND ACCESSORIES FOR COMPOUND OPTICAL MICROSCOPES.
901210 | MICROSCOPES OTHER THAN OPTICAL MICROSCOPES; DIFFRACTION APPARATUS.
901290 | PARTS AND ACCESSORIES FOR MICROSCOPES OTHER THAN OPTICAL MICROSCOPES; PARTS AND ACCESSORIES FOR DIFFRACTION APPARATUS.
901310 | TELESCOPIC SIGHTS FOR FITTING TO ARMS; PERISCOPES; TELESCOPES FOR OPTICAL, PHOTOGRAPHIC, PRECISION, MEDICAL AND ELECTRICAL MACHINES, APPLIANCES, ETC.
901320 | LASERS, OTHER THAN LASER DIODES.
* * * * * * *
901390 | PARTS AND ACCESSORIES FOR LIQUID CRYSTAL DEVICES, LASERS (OTHER THAN LASER DIODES) AND OTHER OPTICAL APPLIANCES AND INSTRUMENTS, NESOI.
* * * * * * *
901530 | LEVELS (SURVEYING).
* * * * * * *
901600 | BALANCES OF A SENSITIVITY OF 5 CG OR BETTER, WITH OR WITHOUT WEIGHTS; PARTS AND ACCESSORIES THEREOF.
901710 | DRAFTING TABLES AND MACHINES, WHETHER OR NOT AUTOMATIC.
901720 | DRAWING, MARKING-OUT OR MATHEMATICAL CALCULATING INSTRUMENTS, EXCEPT DRAFTING TABLES AND MACHINES.
901730 | MICROMETERS, CALIPERS AND GAUGES.
901780 | INSTRUMENTS FOR MEASURING LENGTH, FOR USE IN THE HAND, NESOI.
901790 | PARTS AND ACCESSORIES FOR DRAWING, MARKING-OUT OR MATHEMATICAL CALCULATING INSTRUMENTS AND INSTRUMENTS FOR MEASURING LENGTH FOR USE IN THE HAND, NESOI.
901811 | ELECTROCARDIOGRAPHS, AND PARTS AND ACCESSORIES THEREOF.
901812 | ULTRASONIC SCANNING APPARATUS.
901813 | MAGNETIC RESONANCE IMAGING APPARATUS.
901814 | SCINTIGRAPHIC APPARATUS.
901819 | ELECTRO-DIAGNOSTIC APPARATUS (AND APPARATUS FOR FUNCTIONAL EXPLORATORY EXAMINATION OR FOR CHECKING PHYSIOLOGICAL PARAMETERS) NESOI, AND PARTS, ETC.
901820 | ULTRAVIOLET OR INFRARED RAY APPARATUS, AND PARTS AND ACCESSORIES THEREOF.
901831 | SYRINGES, WITH OR WITHOUT NEEDLES; PARTS AND ACCESSORIES THEREOF.
901832 | TUBULAR METAL NEEDLES AND NEEDLES FOR SUTURES AND PARTS AND ACCESSORIES THEREOF.
901839 | MEDICAL ETC., NEEDLES NESOI, CATHETERS, CANNULAE AND THE LIKE; PARTS AND ACCESSORIES THEROF.
901841 | DENTAL DRILL ENGINES, WHETHER OR NOT COMBINED ON A SINGLE BASE WITH OTHER DENTAL EQUIPMENT, AND PARTS AND ACCESSORIES THEREOF.
901849 | INSTRUMENTS AND APPLIANCES USED IN DENTAL SCIENCES, NESOI, AND PARTS AND ACCESSORIES THEREOF.
901850 | OPHTHALMIC INSTRUMENTS AND APPLIANCES, NESOI, AND PARTS AND ACCESSORIES THEREOF.
901890 | INSTRUMENTS AND APPLIANCES FOR MEDICAL, SURGICAL OR VETERINARY SCIENCES, NESOI, AND PARTS AND ACCESSORIES THEREOF.
901910 | MECHANO-THERAPY APPLIANCES; MASSAGE APPARATUS; PSYCHOLOGICAL APTITUDE-TESTING APPARATUS; PARTS AND ACCESSORIES THEREOF.
901920 | OZONE THERAPY, OXYGEN THERAPY, AEROSOL THERAPY, ARTIFICAL RESPIRATION OR OTHER THERAPEUTIC RESPIRATION APPARATUS; PARTS AND ACCESSORIES THEREOF.
902000 | BREATHING APPLIANCES NESOI AND GAS MASKS HAVING MECHANICAL PARTS AND/OR REPLACEABLE FILTERS; PARTS AND ACCESSORIES THEREOF.
902110 | ORTHOPEDIC OR FRACTURE APPLIANCES; PARTS AND ACCESSORIES THEREOF.
902121 | ARTIFICIAL TEETH; AND PARTS AND ACCESSORIES THEREOF.
902129 | DENTAL FITTINGS; AND PARTS AND ACCESSORIES THEREOF.
902131 | ARTIFICIAL JOINTS AND PARTS AND ACCESSORIES THEREOF.
902139 | ARTIFICIAL JOINTS AND PARTS AND ACCESSORIES THEREOF, NESOI.
902140 | HEARING AIDS.
902150 | PACEMAKERS FOR STIMULATING HEART MUSCLES.
902190 | ARTIFICIAL PARTS OF THE BODY NESOI; AND PARTS AND ACCESSORIES THEREOF.
902212 | COMPUTED TOMOGRAPHY APPARATUS.
902213 | APPARATUS BASE ON THE USE OF X-RAYS FOR DENTAL, USES, INCLUDING RADIOGRAPHY OR RADIOTHERAPY APPARATUS.
902214 | APPARATUS BASED ON THE USE OF X-RAYS FOR MEDICAL, SURGICAL, OR VETERINARY USES, INCLUDING RADIOGRAPHY OR RADIOTHERAPY APPARATUS, NESOI.
902219 | APPARATUS BASED ON THE USE OF X-RAYS FOR USES OTHER THAN MEDICAL, SURGICAL, DENTAL OR VETERINARY, INCLUDING INDUSTRIAL X-RAY APPARATUS.
902221 | APPARATUS BASED ON THE USE OF ALPHA, BETA OR GAMMA RADIATIONS FOR MEDICAL, SURGICAL, DENTAL OR VETERINARY USES.
902229 | APPARATUS BASED ON THE USE OF ALPHA, BETA OR GAMMA RADIATIONS FOR OTHER THAN MEDICAL, SURGICAL, DENTAL OR VETERINARY USES.
902230 | X-RAY TUBES.
902290 | X-RAY GENERATORS, HIGH TENSION GENERATORS, CONTROL PANELS AND DESKS, SCREENS, EXAMINATION OR TREATMENT TABLES, CHAIRS ETC.; PARTS AND ACCESSORIES.
902300 | INSTRUMENTS, APPARATUS AND MODELS, DESIGNED FOR DEMONSTRATIONAL PURPOSES, UNSUITABLE FOR OTHER USES, AND PARTS AND ACCESSORIES THEREOF.
902410 | MACHINES AND APPLIANCES FOR TESTING METALS.
* * * * * * *
902490 | PARTS AND ACCESSORIES OF MACHINES OR APPLIANCES FOR TESTING HARDNESS, STRENGTH, COMPRESSIBILITY, ELASTICITY OR OTHER SPECIFIC PROPERTIES OF MATERIALS.
902511 | THERMOMETERS AND PYROMETERS, NOT COMBINED WITH OTHER INSTRUMENTS, LIQUID-FILLED, FOR DIRECT READING.
* * * * * * *
902580 | HYDROMETERS AND SIMILAR FLOATING INSTRUMENTS, HYGROMETERS AND PSYCHROMETERS, NESOI.
* * * * * * *
902720 | CHROMATOGRAPHS AND ELECTROPHORESIS INSTRUMENTS.
902730 | SPECTROMETERS, SPECTROPHOTOMETERS AND SPECTROGRAPHS USING OPTICAL RADIATIONS (ULTRAVIOLET, VISIBLE, INFRARED).
902750 | INSTRUMENTS AND APPARATUS FOR PHYSICAL OR CHEMICAL ANALYSIS USING OPTICAL RADIATIONS (ULTRAVIOLET, VISIBLE, INFRARED), NESOI.
* * * * * * *
902790 | MICROTOMES; PARTS AND ACCESSORIES FOR INSTRUMENTS AND APPARATUS FOR PHYSICAL OR CHEMICAL ANALYSIS.
902810 | GAS SUPPLY OR PRODUCTION METERS.
902820 | LIQUID SUPPLY OR PRODUCTION METERS.
902830 | ELECTRICITY SUPPLY OR PRODUCTION METERS.
902890 | PARTS AND ACCESSORIES OF GAS, LIQUID OR ELECTRICITY SUPPLY OR PRODUCTION METERS, INCLUDING CALIBRATING METERS THEREFOR.
* * * * * * *
903010 | INSTRUMENTS AND APPARATUS FOR MEASURING OR DETECTING IONIZING RADIATIONS.
903020 | CATHODE-RAY OSCILLOSCOPES AND CATHODE-RAY OSCILLOGRAPHS.
903031 | MULTIMETERS, WITHOUT A RECORDING DEVICE.
* * * * * * *
903033 | INSTRUMENTS AND APPARATUS, FOR MEASURING OR CHECKING VOLTAGE, CURRENT, RESISTANCE OR POWER, WITHOUT A RECORDING DEVICE, NESOI.
* * * * * * *
903084 | INSTRUMENTS AND APPARATUS, WITH A RECORDING DEVICE, NESOI.
* * * * * * *
903090 | PARTS AND ACCESSORIES OF INSTRUMENTS AND APPARATUS FOR MEASURING, CHECKING OR DETECTING ELECTRICAL QUANTITIES, OR IONIZING RADIATIONS, NESOI.
903110 | MEASURING OR CHECKING MACHINES FOR BALANCING MECHANICAL PARTS, NESOI.
* * * * * * *
903141 | OPTICAL INSTRUMENTS FOR INSPECTING SEMICONDUCTOR WAFERS OR DEVICES OR FOR INSPECTING PHOTOMASKS OR RETICLES USED IN MANUFG SEMICONDUCTOR DEVICES.
* * * * * * *
903190 | PARTS AND ACCESSORIES FOR MEASURING OR CHECKING INSTRUMENTS, APPLIANCES AND MACHINES, NESOI; PARTS AND ACCESSORIES FOR PROFILE PROJECTORS.
903210 | THERMOSTATS.
903220 | MANOSTATS.
* * * * * * *
903290 | PARTS AND ACCESSORIES OF AUTOMATIC REGULATING OR CONTROLLING INSTRUMENTS AND APPARATUS.
903300 | PARTS AND ACCESSORIES (NOT SPECIFIED OR INCLUDED ELSEWHERE IN THIS CHAPTER) FOR MACHINES, APPLIANCES, INSTRUMENTS OR APPARATUS OF CHAPTER 90.
940110 | SEATS OF A KIND USED FOR AIRCRAFT.
940120 | SEATS OF A KIND USED FOR MOTOR VEHICLES.
940330 | WOODEN FURNITURE (EXCEPT SEATS) OF A KIND USED IN OFFICES.
940610 | PREFABRICATED BUILDINGS OF WOOD.
940620 | PREFABRICATED BUILDINGS, OTHER THAN OF WOOD.
940690 | PREFABRICATED BUILDINGS, OTHER THAN OF WOOD.
950300 | TRICYCLES, SCOOTERS, PEDAL CARS AND SIMILAR WHEELED TOYS; DOLLS' CARRIAGES; DOLLS; OTHER TOYS; ETC.
960610 | PRESS-FASTENERS, SNAP-FASTENERS AND PRESS-STUDS AND PARTS THEREFOR.
960621 | BUTTONS OF PLASTICS, NOT COVERED WITH TEXTILE MATERIAL.
960622 | BUTTONS OF BASE METAL, NOT COVERED WITH TEXTILE MATERIAL.
960629 | BUTTONS, NESOI.
960630 | BUTTONS MOLDS AND OTHER PARTS OF BUTTONS; BUTTON BLANKS.
960891 | PEN NIBS AND NIB POINTS.
961220 | INK-PADS, WHETHER OR NOT INKED.

12. Supplement no. 5 to part 746 is revised to read as follows:

Supplement No. 5 to Part 746—`Luxury Goods' Sanctions for Russia and Belarus Pursuant to § 746.10(a)(1) and (2)

(a) The source for the Harmonized Tariff Schedule (HTS)-6 codes and descriptions in this list comes from the United States International Trade Commission (USITC's) Harmonized Tariff Schedule of the United States (2023). The items described in supplement no. 5 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. This supplement includes two columns consisting of the HTS Code and HTS Description and Per Unit Wholesale Price in the U.S. if applicable to assist exporters, reexporters, and transferors in identifying the products in this supplement. For information on HTS codes in general, you may contact a local import specialist at U.S. Customs and Border Protection at the nearest port. HTS-6 Codes 590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000 are listed in both this supplement and supplement no. 4 to this part, so exporters, reexporters, and transferors must comply with the license requirements under both §§ 746.5(a)(1)(ii) and 746.10 as applicable.

(b) The items identified in the HTS-6 Code column of this supplement are subject to the license requirement under § 746.10(a)(1) and (2). The other column—HTS Description—is intended to assist exporters with their AES filing responsibilities. The license requirements extend to HTS Codes at the 8 and 10 digit level (HTS-8 and HTS-10 codes, respectively) when such longer HTS Codes begin with the HTS-6 Codes as their first 6 numbers. When a description mentions parts related to one or more numerical headings, this means parts related to any HS codes that begin with the digits in the range specified. For example, `headings 8524 to 8528' means any HS code, HTS code, or Schedule B which has 8524, 8525, 8526, 8527, or 8528 as the first four digits.

HTS-6 Code | HTS-6 Description and per unit wholesale price in the U.S. if applicable
220300 | BEER MADE FROM MALT.
220410 | SPARKLING WINE OF FRESH GRAPES.
220421 | WINE OF FRESH GRAPES (OTHER THAN SPARKLING WINE) AND GRAPE MUST WITH FERMENTATION PREVENTED, ETC. BY ADDING ALCOHOL, CONTAINERS OF NOT OVER 2 LITERS.
220422 | WINE, GRAPE MUST WITH FERMENTATION PREVENTED OR ARRESTED BY THE ADDITION OF ALCOHOL IN CONTAINERS HOLDING MORE THAN 2 LITERS BUT NO MORE THAN 10 LITER.
220429 | WINE OF FRESH GRAPES (OTHER THAN SPARKLING WINE) AND GRAPE MUST WITH FERMENTATION PREVENTED, ETC. BY ADDING ALCOHOL, CONTAINERS HOLDING OVER 2 LITERS.
220430 | GRAPE MUST, PARTIALLY FERMENTED, HAVING AN ALCOHOLIC STRENGTH BY VOLUME EXCEEDING 0.5% VOL., NESOI.
220510 | VERMOUTH AND OTHER WINE OF FRESH GRAPES FLAVORED WITH PLANTS OR AROMATIC SUBSTANCES, IN CONTAINERS HOLDING 2 LITERS OR LESS.
220590 | VERMOUTH AND OTHER WINE OF FRESH GRAPES FLAVORED WITH PLANTS OR AROMATIC SUBSTANCES, IN CONTAINERS HOLDING OVER 2 LITERS.
220600 | FERMENTED BEVERAGES, NESOI (INCL CIDER, PERRY & MEAD); MIXTURES OF FERMENTED BEVERAGES & MIXTURES OF FERMENTED BEVERAGES & NON-ALCOHOL BEVERAGE NESOI.
220710 | ETHYL ALCOHOL, UNDENATURED, OF AN ALCOHOLIC STRENGTH BY VOLUME OF 80% OR HIGHER.
220820 | SPIRITS OBTAINED BY DISTILLING GRAPE WINE OR GRAPE MARC (GRAPE BRANDY).
220830 | WHISKIES.
220840 | RUM AND TAFIA.
220850 | GIN AND GENEVA.
220860 | VODKA.
220870 | LIQUEURS AND CORDIALS.
220890 | SPIRITUOUS BEVERAGES, NESOI, INCLUDING CORDIALS, LIQUEURS, KIRSHWASSER, RATAFIA AND VODKA.
240110 | TOBACCO, NOT STEMMED/STRIPPED.
240120 | TOBACCO, PARTLY OR WHOLLY STEMMED/STRIPPED.
240130 | TOBACCO REFUSE (WASTE).
240210 | CIGARS, CHEROOTS AND CIGARILLOS, CONTAINING TOBACCO.
240220 | CIGARETTES CONTAINING TOBACCO.
240290 | CIGARS, CHEROOTS, CIGARILLOS AND CIGARETTES OF TOBACCO SUBSTITUTES, NOT CONTAINING TOBACCO.
240311 | WATER PIPE TOBACCO SPECIFIED IN SUBHEADING NOTE 1 TO CHAPTER 24.
240319 | SMOKING TOBACCO, WHETHER OR NOT CONTAINING TOBACCO SUBSTITUTES IN ANY PROPORTION, OTHER THAN WATER PIPE TOBACCO.
240391 | HOMOGENIZED OR RECONSTITUTED TOBACCO.
240399 | MANUFACTURED TOBACCO AND ITS SUBSTITUTES, NESOI; TOBACCO EXTRACTS AND ESSENCES.
240411 | MANUFACTURED TOBACCO AND ITS SUBSTITUTES, NESOI; TOBACCO EXTRACTS AND ESSENCES.
240412 | CHEMICAL PRODUCTS AND PREPARATIONS OF THE CHEMICAL OR ALLIED INDUSTRIES, N.E.S.O.I.; RESIDUAL PRODUCTS OF THE CHEMICAL OR ALLIED INDUSTRIES, N.E.S.O.I.
240419 | MANUFACTURED TOBACCO AND ITS SUBSTITUTES, NESOI; TOBACCO EXTRACTS AND ESSENCES.
240491 | FOOD PREPARATIONS NESOI.
240492 | CHEMICAL PRODUCTS AND PREPARATIONS OF THE CHEMICAL OR ALLIED INDUSTRIES, N.E.S.O.I.; RESIDUAL PRODUCTS OF THE CHEMICAL OR ALLIED INDUSTRIES, N.E.S.O.I.
240499 | CHEMICAL PRODUCTS AND PREPARATIONS OF THE CHEMICAL OR ALLIED INDUSTRIES, N.E.S.O.I.; RESIDUAL PRODUCTS OF THE CHEMICAL OR ALLIED INDUSTRIES, N.E.S.O.I.
330290 | MIXTURES OF ODORIFEROUS SUBSTANCES AND MIXTURES (INCLUDING ALCOHOLIC SOLUTIONS) BASED ON ONE OR MORE OF THESE SUBSTANCES USED AS RAW MATERIALS, NESOI.
330300 | PERFUMES AND TOILET WATERS.
330410 | LIP MAKE-UP PREPARATIONS.
330420 | EYE MAKE-UP PREPARATIONS.
330491 | POWDER MAKE-UP OR SKIN CARE PREPARATIONS, INCLUDING FACE POWDER, ROUGE, BABY POWDER AND BATH POWDER.
330499 | BEAUTY OR MAKE-UP PREPARATIONS AND PREPARATIONS FOR CARE OF THE SKIN (EXCLUDING MEDICAMENTS) NESOI, INCLUDING SUNSCREENS AND SUNTAN PREPARATIONS.
330790 | DEPILATORIES AND OTHER PERFUMERY, COSMETIC OR TOILET PREPARATIONS, NESOI.
391690 | MONOFILAMENT WITH A CROSS-SECTIONAL DIMENSION OVER 1 MM, RODS, STICKS AND PROFILE SHAPES OF PLASTICS, NESOI, NOT MORE THAN SURFACE-WORKED.
392620 | ARTICLES OF APPAREL AND CLOTHING ACCESSORIES (INCLUDING GLOVES, MITTENS, AND MITTS), NESOI, OF PLASTICS.
392640 | STATUETTES AND OTHER ORNAMENTAL ARTICLES, OF PLASTICS.
392690 | ARTICLES OF PLASTICS, NESOI.
420211 | TRUNKS, SUITCASES, VANITY CASES AND SIMILAR CONTAINERS, WITH OUTER SURFACE OF LEATHER OR OF COMPOSITION LEATHER.
420212 | TRUNKS, SUITCASES, VANITY CASES AND SIMILAR CONTAINERS, WITH OUTER SURFACE OF PLASTICS OR OF TEXTILE MATERIALS.
420219 | TRUNKS, SUITCASES, VANITY CASES AND SIMILAR CONTAINERS, WITH OUTER SURFACE OF MATERIALS OTHER THAN LEATHER, PLASTICS OR TEXTILES.
420221 | HANDBAGS, WHETHER OR NOT WITH SHOULDER STRAP OR HANDLES, WITH OUTER SURFACE OF LEATHER OR OF COMPOSITION LEATHER.
420222 | HANDBAGS, WHETHER OR NOT WITH SHOULDER STRAP OR HANDLES, WITH OUTER SURFACE OF PLASTIC SHEETING OR OF TEXTILE MATERIALS.
420229 | HANDBAGS, WHETHER OR NOT WITH SHOULDER STRAP OR HANDLES, WITH OUTER SURFACE OF MATERIALS NESOI.
420231 | ARTICLES NORMALLY CARRIED IN THE POCKET OR HANDBAG, WITH OUTER SURFACE OF LEATHER OR OF COMPOSITION LEATHER.
420232 | ARTICLES NORMALLY CARRIED IN THE POCKET OR HANDBAG, WITH OUTER SURFACE OF SHEETING OF PLASTICS OR OF TEXTILE MATERIALS.
420239 | ARTICLES NORMALLY CARRIED IN THE POCKET OR HANDBAG, WITH OUTER SURFACE OF MATERIALS NESOI.
420291 | CONTAINERS, BAGS, BOXES, CASES, SATCHELS ETC. WITH OUTER SURFACE OF LEATHER OR OF COMPOSITION LEATHER, NESOI.
420299 | CONTAINER BAGS, BOXES, CASES AND SATCHELS NESOI, WITH OUTER SURFACE OF MATERIALS NESOI.
420340 | CLOTHING ACCESSORIES NESOI, OF LEATHER OR OF COMPOSITION LEATHER.
430110 | MINK FURSKINS, RAW, WHOLE, WITH OR WITHOUT HEAD, TAIL OR PAWS.
430130 | ASTRAKHAN, BROADTAIL, CARACUL, PERSIAN AND SIMILAR LAMB, INDIAN, CHINESE, MONGOLIAN OR TIBETAN LAMB, FURSKINS, RAW, WHOLE, WITH OR WITHOUT HEAD, ETC.
430160 | FOX FURSKINS, RAW, WHOLE, WITH OR WITHOUT HEAD, TAIL OR PAWS.
430180 | FURSKINS NESOI, RAW, WHOLE, WITH OR WITHOUT HEAD, TAIL OR PAWS.
430190 | HEADS, TAILS, PAWS AND OTHER PIECES OR CUTTINGS, OF FURSKINS, RAW, SUITABLE FOR FURRIERS' USE.
430211 | MINK FURSKINS, WHOLE, WITH OR WITHOUT HEAD, TAIL OR PAWS, TANNED OR DRESSED, NOT ASSEMBLED.
430219 | FURSKINS NESOI, WHOLE, WITH OR WITHOUT HEAD, TAIL OR PAWS, TANNED OR DRESSED, NOT ASSEMBLED.
430220 | FURSKIN HEADS, TAILS, PAWS AND OTHER PIECES OR CUTTINGS, TANNED OR DRESSED, NOT ASSEMBLED.
430230 | FURSKINS, WHOLE AND PIECES OR CUTTINGS THEREOF, TANNED OR DRESSED, ASSEMBLED.
430310 | ARTICLES OF APPAREL AND CLOTHING ACCESSORIES OF FURSKINS.
430390 | ARTICLES OF FURSKINS, NESOI.
430400 | ARTIFICIAL FUR AND ARTICLES THEREOF.
442011 | STATUETTES AND OTHER ORNAMENTS, OF WOOD.
442019 | STATUETTES AND OTHER ORNAMENTS, OF WOOD.
490700 | UNUSED POSTAGE, STAMP-IMPRESSED PAPER, CHECK FORMS, BANK NOTES, STOCK, SHARE OR BOND CERTIFICATES AND SIMILAR DOCUMENTS OF TITLE, ETC.
500100 | SILKWORM COCOONS SUITABLE FOR REELING, AND VALUED AT $300 OR GREATER PER UNIT WHOLESALE PRICE IN THE U.S.
500200 | RAW SILK (NOT THROWN), AND VALUED AT $300 OR GREATER PER UNIT WHOLESALE PRICE IN THE U.S.
500300 | SILK WASTE (INCLUDING COCOONS UNSUITABLE FOR REELING, YARN WASTE AND GARNETTED STOCK), AND VALUED AT $300 OR GREATER PER UNIT WHOLESALE PRICE IN THE U.S.
500400 | SILK YARN (OTHER THAN SPUN FROM SILK WASTE) NOT PUT UP FOR RETAIL SALE, AND VALUED AT $300 OR GREATER PER UNIT WHOLESALE PRICE IN THE U.S.
500500 | YARN SPUN FROM SILK WASTE, NOT PUT UP FOR RETAIL SALE, AND VALUED AT $300 OR GREATER PER UNIT WHOLESALE PRICE IN THE U.S.
500600 | SILK YARN AND YARN SPUN FROM SILK WASTE, PUT UP FOR RETAIL SALE; SILK WORM GUT, AND VALUED AT $300 OR GREATER PER UNIT WHOLESALE PRICE IN THE U.S.
500710 | WOVEN FABRICS OF NOIL SILK, AND VALUED AT $300 OR GREATER PER UNIT WHOLESALE PRICE IN THE U.S.
500720 | WOVEN FABRICS CONTAINING 85% OR MORE BY WEIGHT OF SILK OR SILK WASTE OTHER THAN NOIL SILK, AND VALUED AT $300 OR GREATER PER UNIT WHOLESALE PRICE IN THE U.S.
500790 | WOVEN FABRICS OF SILK OR SILK WASTE, NESOI, AND VALUED AT $300 OR GREATER PER UNIT WHOLESALE PRICE IN THE U.S.
560394 | NONWOVENS, WHETHER OR NOT IMPREGNATED, COATED, COVERED OR LAMINATED, (NOT OF MANMADE FILAMENTS), WEIGHING MORE THAN 150 G/M2, AND VALUED AT $300 OR GREATER PER UNIT WHOLESALE PRICE IN THE U.S.
570110 | CARPETS AND OTHER TEXTILE FLOOR COVERINGS, KNOTTED (WHETHER OR NOT MADE-UP), OF WOOL OR FINE ANIMAL HAIR, AND VALUED AT $300 OR GREATER PER UNIT WHOLESALE PRICE IN THE U.S.
570190 | CARPETS AND OTHER TEXTILE FLOOR COVERINGS, KNOTTED (WHETHER OR NOT MADE UP), OF TEXTILE MATERIALS, OTHER THAN WOOL OR FINE ANIMAL HAIR, AND VALUED AT $300 OR GREATER PER UNIT WHOLESALE PRICE IN THE U.S.
570210 | KELEM, SCHUMACKS, KARAMANIE, AND SIMILAR HAND-WOVEN RUGS, AND VALUED AT $300 OR GREATER PER UNIT WHOLESALE PRICE IN THE U.S.
570220 | FLOOR COVERINGS OF COCONUT FIBERS (COIR), WOVEN, NOT TUFTED OR FLOCKED, WHETHER OR NOT MADE-UP, AND VALUED AT $300 OR GREATER PER UNIT WHOLESALE PRICE IN THE U.S.
570231 | CARPETS AND OTHER TEXTILE FLOOR COVERINGS, WOVEN, NOT TUFTED OR FLOCKED, NESOI, OF PILE CONSTRUCTION, NOT MADE-UP, OF WOOL OR FINE ANIMAL HAIR, AND VALUED AT $300 OR GREATER PER UNIT WHOLESALE PRICE IN THE U.S.
570232 | CARPETS AND OTHER TEXTILE FLOOR COVERINGS, WOVEN, NOT TUFTED OR FLOCKED, NESOI, OF PILE CONSTRUCTION, NOT MADE-UP, OF MANMADE TEXTILE MATERIALS, AND VALUED AT $300 OR GREATER PER UNIT WHOLESALE PRICE IN THE U.S.
570239 | CARPETS AND OTHER TEXTILE FLOOR COVERINGS, WOVEN, NOT TUFTED OR FLOCKED, NESOI, OF PILE CONSTRUCTION, NOT MADE-UP, OF TEXTILE MATERIALS NESOI, AND VALUED AT $300 OR GREATER PER UNIT WHOLESALE PRICE IN THE U.S.
570241 | CARPETS AND OTHER TEXTILE FLOOR COVERINGS, WOVEN, NOT TUFTED OR FLOCKED, NESOI, OF PILE CONSTRUCTION, MADE-UP, OF WOOL OR FINE ANIMAL HAIR, AND VALUED AT $300 OR GREATER PER UNIT WHOLESALE PRICE IN THE U.S.
570242 | CARPETS AND OTHER TEXTILE FLOOR COVERINGS, WOVEN, NOT TUFTED OR FLOCKED, NESOI, OF PILE CONSTRUCTION, MADE-UP, OF MANMADE TEXTILE MATERIALS, AND VALUED AT $300 OR GREATER PER UNIT WHOLESALE PRICE IN THE U.S.
570249 | CARPETS AND OTHER TEXTILE FLOOR COVERINGS, WOVEN, NOT TUFTED OR FLOCKED, NESOI, OF PILE CONSTRUCTION, MADE-UP, OF TEXTILE MATERIALS NESOI, AND VALUED AT $300 OR GREATER PER UNIT WHOLESALE PRICE IN THE U.S.
570250 | CARPETS AND OTHER TEXTILE FLOOR COVERINGS, WOVEN, NOT TUFTED OR FLOCKED, NOT OF PILE CONSTRUCTION, NOT MADE-UP, AND VALUED AT $300 OR GREATER PER UNIT WHOLESALE PRICE IN THE U.S.
570291 | CARPETS AND OTHER TEXTILE FLOOR COVERINGS, WOVEN, NOT TUFTED OR FLOCKED, NESOI, NOT OF PILE CONSTRUCTION, MADE-UP, OF WOOL OR FINE ANIMAL HAIR, AND VALUED AT $300 OR GREATER PER UNIT WHOLESALE PRICE IN THE U.S.
570292 | CARPETS AND OTHER TEXTILE FLOOR COVERINGS, WOVEN, NOT TUFTED OR FLOCKED, NESOI, NOT OF PILE CONSTRUCTION, MADE-UP, OF MANMADE TEXTILE MATERIALS, AND VALUED AT $300 OR GREATER PER UNIT WHOLESALE PRICE IN THE U.S.
570299 | CARPETS AND OTHER TEXTILE FLOOR COVERINGS, WOVEN, NOT TUFTED OR FLOCKED, NESOI, NOT OF PILE CONSTRUCTION, MADE-UP, OF TEXTILE MATERIALS NESOI, AND VALUED AT $300 OR GREATER PER UNIT WHOLESALE PRICE IN THE U.S.
570310 | CARPETS AND OTHER TEXTILE FLOOR COVERINGS, TUFTED (WHETHER OR NOT MADE-UP), OF WOOL OR FINE ANIMAL HAIR, AND VALUED AT $300 OR GREATER PER UNIT WHOLESALE PRICE IN THE U.S.
570321 | CARPETS AND OTHER TEXTILE FLOOR COVERINGS, TUFTED (WHETHER OR NOT MADE-UP), OF NYLON OR OTHER POLYAMIDES, AND VALUED AT $300 OR GREATER PER UNIT WHOLESALE PRICE IN THE U.S.
570329 | CARPETS AND OTHER TEXTILE FLOOR COVERINGS, TUFTED (WHETHER OR NOT MADE-UP), OF NYLON OR OTHER POLYAMIDES, AND VALUED AT $300 OR GREATER PER UNIT WHOLESALE PRICE IN THE U.S.
570331 | CARPETS AND OTHER TEXTILE FLOOR COVERINGS, TUFTED (WHETHER OR NOT MADE-UP), OF MANMADE TEXTILE MATERIALS OTHER THAN NYLON OR OTHER POLYAMIDES, AND VALUED AT $300 OR GREATER PER UNIT WHOLESALE PRICE IN THE U.S.
570339 | CARPETS AND OTHER TEXTILE FLOOR COVERINGS, TUFTED (WHETHER OR NOT MADE-UP), OF MANMADE TEXTILE MATERIALS OTHER THAN NYLON OR OTHER POLYAMIDES, AND VALUED AT $300 OR GREATER PER UNIT WHOLESALE PRICE IN THE U.S.
570390 | CARPETS AND OTHER TEXTILE FLOOR COVERINGS, TUFTED (WHETHER OR NOT MADE-UP), OF TEXTILE MATERIALS NESOI, AND VALUED AT $300 OR GREATER PER UNIT WHOLESALE PRICE IN THE U.S.
570410 | TEXTILE FLOOR COVERINGS, OF FELT, NOT TUFTED OR FLOCKED, TILES HAVING A MAXIMUM SURFACE AREA OF 0.30 M2, AND VALUED AT $300 OR GREATER PER UNIT WHOLESALE PRICE IN THE U.S.
570420 | TEXTILE FLOOR COVERINGS, OF FELT, NOT TUFTED OR FLOCKED, OTHER THAN TILES HAVING A MAXIMUM SURFACE AREA EXCEEDING 0.3M2 NOT EXC 1 M2, AND VALUED AT $300 OR GREATER PER UNIT WHOLESALE PRICE IN THE U.S.
570490 | CARPETS AND OTHER TEXTILE FLOOR COVERINGS, OF FELT, NOT TUFTED OR FLOCKED (WHETHER OR NOT MADE-UP), OTHER THAN TILES WITH A MAXIMUM AREA OF 0.30 M2, AND VALUED AT $300 OR GREATER PER UNIT WHOLESALE PRICE IN THE U.S.
570500 | CARPETS AND OTHER TEXTILE FLOOR COVERINGS (WHETHER OR NOT MADE-UP), NESOI, AND VALUED AT $300 OR GREATER PER UNIT WHOLESALE PRICE IN THE U.S.
580500 | HANDWOVEN TAPESTRIES SIMILAR TO GOBELINS, FLANDERS, AUBUSSON OR BEAUVAIS AND NEEDLEWORKED TAPESTRIES (PETIT POINT, CROSS-STITCH ETC.), MADE-UP OR NOT.
580639 | NARROW WOVEN FABRICS NESOI, NOT OVER 30 CM IN WIDTH, OF TEXTILE MATERIALS NESOI.
590500 | TEXTILE WALL COVERINGS.
611030 | SWEATERS, PULLOVERS, SWEATSHIRTS, VESTS AND SIMILAR ARTICLES OF MANMADE FIBERS, KNITTED OR CROCHETED, AND VALUED AT $300 OR GREATER PER UNIT WHOLESALE PRICE IN THE U.S.
611211 | TRACK SUITS, WARM-UP SUITS AND JOGGING SUITS OF COTTON, KNITTED OR CROCHETED, AND VALUED AT $300 OR GREATER PER UNIT WHOLESALE PRICE IN THE U.S.
611212 | TRACK SUITS, WARM-UP SUITS AND JOGGING SUITS OF SYNTHETIC FIBERS, KNITTED OR CROCHETED, AND VALUED AT $300 OR GREATER PER UNIT WHOLESALE PRICE IN THE U.S.
611219 | TRACK SUITS, WARM-UP SUITS AND JOGGING SUITS OF TEXTILE MATERIALS NESOI, KNITTED OR CROCHETED, AND VALUED AT $300 OR GREATER PER UNIT WHOLESALE PRICE IN THE U.S.
611220 | SKI SUITS, KNITTED OR CROCHETED, AND VALUED AT $300 OR GREATER PER UNIT WHOLESALE PRICE IN THE U.S.
611231 | MEN'S OR BOYS' SWIMWEAR OF SYNTHETIC FIBERS, KNITTED OR CROCHETED, AND VALUED AT $300 OR GREATER PER UNIT WHOLESALE PRICE IN THE U.S.
611239 | MEN'S OR BOYS' SWIMWEAR OF TEXTILE MATERIALS NESOI, KNITTED OR CROCHETED, AND VALUED AT $300 OR GREATER PER UNIT WHOLESALE PRICE IN THE U.S.
611241 | WOMEN'S OR GIRLS' SWIMWEAR OF SYNTHETIC FIBERS, KNITTED OR CROCHETED, AND VALUED AT $300 OR GREATER PER UNIT WHOLESALE PRICE IN THE U.S.
611249 | WOMEN'S OR GIRLS' SWIMWEAR OF TEXTILE MATERIALS NESOI, KNITTED OR CROCHETED, AND VALUED AT $300 OR GREATER PER UNIT WHOLESALE PRICE IN THE U.S.
620610 | WOMEN'S OR GIRLS' BLOUSES, SHIRTS AND SHIRT-BLOUSES OF SILK OR SILK WASTE, NOT KNITTED OR CROCHETED, AND VALUED AT $300 OR GREATER PER UNIT WHOLESALE PRICE IN THE U.S.
621111 | MEN'S OR BOYS' SWIMWEAR, NOT KNITTED OR CROCHETED, AND VALUED AT $300 OR GREATER PER UNIT WHOLESALE PRICE IN THE U.S.
621112 | WOMEN'S OR GIRLS' SWIMWEAR, NOT KNITTED OR CROCHETED, AND VALUED AT $300 OR GREATER PER UNIT WHOLESALE PRICE IN THE U.S.
621120 | SKI-SUITS, NOT KNITTED OR CROCHETED, AND VALUED AT $300 OR GREATER PER UNIT WHOLESALE PRICE IN THE U.S.
621390 | HANDKERCHIEFS, OF TEXTILE MATERIALS NESOI, AND VALUED AT $300 OR GREATER PER UNIT WHOLESALE PRICE IN THE U.S.
621410 | SHAWLS, SCARVES, MUFFLERS, MANTILLAS, VEILS AND THE LIKE, OF SILK OR SILK WASTE, NOT KNITTED OR CROCHETED, AND VALUED AT $300 OR GREATER PER UNIT WHOLESALE PRICE IN THE U.S.
621510 | TIES, BOW TIES AND CRAVATS, OF SILK OR SILK WASTE, NOT KNITTED OR CROCHETED, AND VALUED AT $300 OR GREATER PER UNIT WHOLESALE PRICE IN THE U.S.
630120 | BLANKETS (OTHER THAN ELECTRIC BLANKETS) AND TRAVELING RUGS, OF WOOL OR FINE ANIMAL HAIR, AND VALUED AT $300 OR GREATER PER UNIT WHOLESALE PRICE IN THE U.S.
630130 | BLANKETS (OTHER THAN ELECTRIC BLANKETS) AND TRAVELING RUGS, OF COTTON, AND VALUED AT $300 OR GREATER PER UNIT WHOLESALE PRICE IN THE U.S.
630140 | BLANKETS (OTHER THAN ELECTRIC BLANKETS) AND TRAVELING RUGS, OF SYNTHETIC FIBERS, AND VALUED AT $300 OR GREATER PER UNIT WHOLESALE PRICE IN THE U.S.
630190 | BLANKETS (OTHER THAN ELECTRIC BLANKETS) AND TRAVELING RUGS, OF TEXTILE MATERIALS NESOI, AND VALUED AT $300 OR GREATER PER UNIT WHOLESALE PRICE IN THE U.S.
630622 | TENTS, OF SYNTHETIC FIBERS, AND VALUED AT $300 OR GREATER PER UNIT WHOLESALE PRICE IN THE U.S.
630629 | TENTS, OF TEXTILE MATERIALS NESOI, AND VALUED AT $300 OR GREATER PER UNIT WHOLESALE PRICE IN THE U.S.
630630 | SAILS FOR BOATS, SAILBOARDS OR LANDCRAFT, AND VALUED AT $300 OR GREATER PER UNIT WHOLESALE PRICE IN THE U.S.
630690 | CAMPING GOODS MADE OF TEXTILES, OTHER THAN TENTS AND PNEUMATIC MATTRESSES, AND VALUED AT $300 OR GREATER PER UNIT WHOLESALE PRICE IN THE U.S.
630720 | LIFE JACKETS AND LIFE BELTS, OF TEXTILE MATERIALS, AND VALUED AT $300 OR GREATER PER UNIT WHOLESALE PRICE IN THE U.S.
630800 | NEEDLECRAFT SETS, OF WOVEN FABRIC AND YARN, WITH OR WITHOUT ACCESSORIES, FOR MAKING RUGS, TAPESTRIES OR EMBROIDERED ARTICLES, PACKAGED FOR RETAIL SALE, AND VALUED AT $300 OR GREATER PER UNIT WHOLESALE PRICE IN THE U.S.
640192 | WATERPROOF FOOTWEAR WITH BONDED OR CEMENTED OUTER SOLES AND UPPERS OF RUBBER OR PLASTICS NESOI, COVERING THE ANKLE BUT NOT COVERING THE KNEE, AND VALUED AT $300 OR GREATER PER UNIT WHOLESALE PRICE IN THE U.S.
640212 | OTHER FOOTWEAR WITH OUTER SOLES AND UPPERS OF RUBBER OR PLASTICS: SPORTS FOOTWEAR: SKI-BOOTS AND CROSS-COUNTRY SKI FOOTWEAR AND SNOWBOARD BOOTS, AND VALUED AT $300 OR GREATER PER UNIT WHOLESALE PRICE IN THE U.S.
640219 | SPORTS FOOTWEAR, OTHER THAN SKI-BOOTS AND CROSS-COUNTRY SKI FOOTWEAR, WITH OUTER SOLES AND UPPERS OF RUBBER OR PLASTICS NESOI, AND VALUED AT $300 OR GREATER PER UNIT WHOLESALE PRICE IN THE U.S.
640299 | FOOTWEAR, WITH OUTER SOLES AND UPPERS OF RUBBER OR PLASTICS NESOI, NOT COVERING THE ANKLE, AND VALUED AT $300 OR GREATER PER UNIT WHOLESALE PRICE IN THE U.S.
640312 | FOOTWEAR WITH UPPERS OF LEATHER, SKI-BOOTS AND CROSS-COUNTRY SKI FOOTWEAR AND SNOWBOARD BOOTS, AND VALUED AT $300 OR GREATER PER UNIT WHOLESALE PRICE IN THE U.S.
640319 | SPORTS FOOTWEAR (OTHER THAN SKI FOOTWEAR) NESOI, WITH OUTER SOLES OF RUBBER, PLASTICS, LEATHER OR COMPOSITION LEATHER AND UPPERS OF LEATHER, AND VALUED AT $300 OR GREATER PER UNIT WHOLESALE PRICE IN THE U.S.
640320 | FOOTWEAR, WITH OUTER SOLES OF LEATHER AND UPPERS WHICH CONSIST OF LEATHER STRAPS ACROSS THE INSTEP AND AROUND THE BIG TOE, AND VALUED AT $300 OR GREATER PER UNIT WHOLESALE PRICE IN THE U.S.
640340 | FOOTWEAR, WITH OUTER SOLES OF RUBBER, PLASTICS, LEATHER OR COMPOSITION LEATHER AND UPPERS OF LEATHER, INCORPORATING A PROTECTIVE METAL TOE-CAP, AND VALUED AT $300 OR GREATER PER UNIT WHOLESALE PRICE IN THE U.S.
640351 | FOOTWEAR, WITH OUTER SOLES AND UPPERS OF LEATHER NESOI, COVERING THE ANKLE, AND VALUED AT $300 OR GREATER PER UNIT WHOLESALE PRICE IN THE U.S.
640359 | FOOTWEAR, WITH OUTER SOLES AND UPPERS OF LEATHER NESOI, NOT COVERING THE ANKLE, AND VALUED AT $300 OR GREATER PER UNIT WHOLESALE PRICE IN THE U.S.
640391 | FOOTWEAR, WITH OUTER SOLES OF RUBBER, PLASTICS OR COMPOSITION LEATHER AND UPPERS OF LEATHER NESOI, COVERING THE ANKLE, AND VALUED AT $300 OR GREATER PER UNIT WHOLESALE PRICE IN THE U.S.
640399 | FOOTWEAR, WITH OUTER SOLES OF RUBBER, PLASTICS OR COMPOSITION LEATHER AND UPPERS OF LEATHER NESOI, NOT COVERING THE ANKLE, AND VALUED AT $300 OR GREATER PER UNIT WHOLESALE PRICE IN THE U.S.
640411 | SPORTS FOOTWEAR, INCLUDING TENNIS SHOES, BASKETBALL SHOES AND GYM SHOES, WITH OUTER SOLES OF RUBBER OR PLASTICS AND UPPERS OF TEXTILE MATERIALS, AND VALUED AT $300 OR GREATER PER UNIT WHOLESALE PRICE IN THE U.S.
640420 | FOOTWEAR, WITH OUTER SOLES OF LEATHER OR COMPOSITION LEATHER AND UPPERS OF TEXTILE MATERIALS, AND VALUED AT $300 OR GREATER PER UNIT WHOLESALE PRICE IN THE U.S.
640510 | FOOTWEAR NESOI, WITH UPPERS OF LEATHER OR COMPOSITION LEATHER, AND VALUED AT $300 OR GREATER PER UNIT WHOLESALE PRICE IN THE U.S.
650610 | SAFETY (INCLUDING SPORTS) HEADGEAR, WHETHER OR NOT LINED OR TRIMMED, AND VALUED AT $300 OR GREATER PER UNIT WHOLESALE PRICE IN THE U.S.
650699 | HEADGEAR NESOI, WHETHER OR NOT LINED OR TRIMMED, OF MATERIALS NESOI, AND VALUED AT $300 OR GREATER PER UNIT WHOLESALE PRICE IN THE U.S.
670100 | SKINS AND OTHER PARTS OF BIRDS WITH THEIR FEATHERS OR DOWN, BLEACHED, DYED OR PROCESSED AND ARTICLES OF FEATHERS OR DOWN NESOI
691110 | CERAMIC TABLEWARE AND KITCHENWARE, OF PORCELAIN OR CHINA, AND VALUED AT $300 OR GREATER PER UNIT WHOLESALE PRICE IN THE U.S.
691190 | CERAMIC HOUSEHOLD AND TOILET ARTICLES NESOI, OF PORCELAIN OR CHINA, AND VALUED AT $300 OR GREATER PER UNIT WHOLESALE PRICE IN THE U.S.
691310 | CERAMIC STATUETTES AND OTHER ORNAMENTAL ARTICLES, OF PORCELAIN OR CHINA, AND VALUED AT $300 OR GREATER PER UNIT WHOLESALE PRICE IN THE U.S.
691390 | CERAMIC STATUETTES AND OTHER ORNAMENTAL ARTICLES, OF OTHER THAN PORCELAIN OR CHINA, AND VALUED AT $300 OR GREATER PER UNIT WHOLESALE PRICE IN THE U.S.
691410 | CERAMIC ARTICLES NESOI, OF PORCELAIN OR CHINA, AND VALUED AT $300 OR GREATER PER UNIT WHOLESALE PRICE IN THE U.S.
691490 | CERAMIC ARTICLES NESOI, OF OTHER THAN PORCELAIN OR CHINA, AND VALUED AT $300 OR GREATER PER UNIT WHOLESALE PRICE IN THE U.S.
701322 | STEMWARE DRINKING GLASSES OTHER THAN OF GLASS-CERAMICS OF LEAD CRYSTAL, AND VALUED AT $300 OR GREATER PER UNIT WHOLESALE PRICE IN THE U.S.
701333 | DRINKING GLASSES, OTHER HTAN OF GLASS-CERAMICS, OF LEAD CRYSTAL, NES, AND VALUED AT $300 OR GREATER PER UNIT WHOLESALE PRICE IN THE U.S.
701341 | TABLE OR KITCHEN GLASSWARE NESOI (OTHER THAN DRINKING GLASSES), OF LEAD CRYSTAL, AND VALUED AT $300 OR GREATER PER UNIT WHOLESALE PRICE IN THE U.S.
701391 | GLASSWARE (INCLUDING GLASSWARE OF A KIND USED FOR TOILET, OFFICE, INDOOR DECORATION OR SIMILAR PURPOSES) NESOI, OF LEAD CRYSTAL, AND VALUED AT $300 OR GREATER PER UNIT WHOLESALE PRICE IN THE U.S.
710110 | NATURAL PEARLS, NOT MOUNTED OR SET.
710121 | CULTURED PEARLS, UNWORKED.
710122 | CULTURED PEARLS, WORKED, NOT SET.
710210 | DIAMONDS, UNSORTED.
710310 | PRECIOUS STONES (OTHER THAN DIAMONDS) AND SEMIPRECIOUS STONES, UNWORKED OR SIMPLY SAWN OR ROUGHLY SHAPED.
710391 | RUBIES, SAPPHIRES AND EMERALDS, OTHERWISE WORKED.
710399 | SEMIPRECIOUS STONES, OTHERWISE WORKED.
710429 | SYNTHETIC OR RECONSTRUCTED GEMSTONES, UNWORKED OR SIMPLY SAWN OR ROUGHLY SHAPED.
710499 | SYNTHETIC OR RECONSTRUCTED PRECIOUS OR SEMIPRECIOUS STONES NESOI, OTHERWISE WORKED.
710691 | SILVER, UNWROUGHT NESOI (OTHER THAN POWDER).
710692 | SILVER, SEMIMANUFACTURED.
710812 | GOLD, NONMONETARY, UNWROUGHT NESOI (OTHER THAN POWDER).
710813 | GOLD, NONMONETARY, SEMIMANUFACTURED FORMS NESOI (OTHER THAN POWDER).
711311 | JEWELRY AND PARTS THEREOF, OF SILVER.
711319 | JEWELRY AND PARTS THEREOF, OF PRECIOUS METAL OTHER THAN SILVER.
711320 | JEWELRY AND PARTS THEREOF, OF BASE MATEL CLAD WITH PRECIOUS METAL.
711419 | ARTICLES OF GOLD OR PLATINUM (OTHER THAN JEWELRY), WHETHER OR NOT PLATED OR CLAD WITH OTHER PRECIOUS METAL.
711420 | ARTICLES OF GOLDSMITHS' OR SILVERSMITHS' WARES (OTHER THAN JEWELRY) AND PARTS THEREOF, OF BASE METAL CLAD WITH PRECIOUS METAL.
711590 | ARTICLES NESOI, OF PRECIOUS METAL OR OF METAL CLAD WITH PRECIOUS METAL.
711610 | ARTICLES OF NATURAL OR CULTURED PEARLS.
711620 | ARTICLES OF PRECIOUS OR SEMIPRECIOUS STONES (NATURAL, SYNTHETIC OR RECONSTRUCTED).
711719 | IMITATION JEWELRY NESOI, OF BASE METAL, WHETHER OR NOT PLATED WITH PRECIOUS METAL.
711810 | COIN (OTHER THAN GOLD COIN), NOT BEING LEGAL TENDER.
711890 | COIN, NESOI.
732690 | ARTICLES OF IRON OR STEEL, NESOI, AND VALUED AT $300 OR GREATER PER UNIT WHOLESALE PRICE IN THE U.S.
830621 | STATUETTES AND OTHER ORNAMENTS, AND PARTS THEREOF, OF BASE METAL PLATED WITH PRECIOUS METAL.
830629 | STAUETTES AND OTHER ORNAMENTS, AND PARTS THEREOF, OF BASE METAL NOT PLATED WITH PRECIOUS METAL
840710 | AIRCRAFT SPARK-IGNITION RECIPROCATING OR ROTARY INTERNAL COMBUSTION PISTON ENGINES.
840721 | OUTBOARD ENGINES FOR MARINE PROPULSION.
840729 | INBOARD ENGINES FOR MARINE PROPULSION.
840731 | SPARK-IGNITION RECIPROCATING PISTON ENGINES FOR PROPULSION OF VEHICLES EXCEPT RAILWAY OR TRAMWAY STOCK, NOT OVER 50 CC CYLINDER CAPACITY.
840732 | SPARK-IGNITION RECIPROCATING PISTON ENGINES FOR PROPULSION OF VEHICLES EXCEPT RAILWAY OR TRAMWAY STOCK, OVER 50 BUT NOT OVER 250 CC CYLINDER CAPACITY.
840733 | SPARK-IGNITION RECIPROCATING PISTON ENGINES FOR PROPULSION OF VEHICLES EXCEPT RAIL OR TRAMWAY STOCK, OVER 250 BUT NOT OVER 1,000 CC CYLINDER CAPACITY.
840734 | SPARK-IGNITION RECIPROCATING PISTON ENGINES FOR PROPULSION OF VEHICLES EXCEPT RAILWAY OR TRAMWAY STOCK, OVER 1,000 CC CYLINDER CAPACITY.
840790 | SPARK-IGNITION RECIPROCATING OR ROTARY INTERNAL COMBUSTION PISTON ENGINES, NESOI.
840810 | MARINE COMPRESSION-IGNITION INTERNAL COMBUSTION PISTON ENGINES (DIESEL OR SEMI-DIESEL ENGINES).
840820 | COMPRESSION-IGNITION INTERNAL COMBUSTION PISTON ENGINES (DIESEL OR SEMI-DIESEL), FOR THE PROPULSION OF VEHICLES EXCEPT RAILWAY OR TRAMWAY STOCK.
840890 | COMPRESSION-IGNITION INTERNAL COMBUSTION PISTON ENGINES (DIESEL OR SEMI-DIESEL ENGINES), NESOI.
840910 | PARTS FOR SPARK-IGNITION OR ROTARY INTERNAL COMBUSTION PISTON ENGINES OR COMPRESSION-IGNITION INTERNAL COMBUSTION PISTON ENGINES, FOR AIRCRAFT.
840991 | PARTS FOR USE WITH SPARK-IGNITION INTERNAL COMBUSTION PISTON ENGINES (INCLUDING ROTARY ENGINES), NESOI.
840999 | PARTS FOR USE WITH COMPRESSION-IGNITION INTERNAL COMBUSTION PISTON ENGINES, NESOI.
841111 | TURBOJETS OF A THRUST NOT EXCEEDING 25 KN.
841112 | TURBOJETS OF A THRUST EXCEEDING 25 KN.
841121 | TURBOPROPELLERS OF A POWER NOT EXCEEDING 1,100 KW.
841122 | TURBOPROPELLERS OF A POWER EXCEEDING 1,100 KW.
841181 | GAS TURBINES, EXCEPT TURBOJETS AND TURBOPROPELLERS, OF A POWER NOT EXCEEDING 5,000 KW.
841182 | GAS TURBINES, EXCEPT TURBOJETS AND TURBOPROPELLERS, OF A POWER EXCEEDING 5,000 KW.
841191 | PARTS OF TURBOJETS OR TURBOPROPELLERS.
841199 | PARTS OF GAS TURBINES, NESOI (OTHER THAN PARTS FOR TURBOJETS OR TURBOPROPELLERS).
841229 | HYDRAULIC POWER ENGINES AND MOTORS, EXCEPT LINEAR ACTING (CYLINDERS).
841290 | PARTS FOR ENGINES AND MOTORS, NESOI.
841451 | FANS, TABLE, FLOOR, WALL, WINDOW, CEILING OR ROOF, WITH SELF-CONTAINED ELECTRIC MOTOR OF AN OUTPUT NOT EXCEEDING 125 W.
841459 | FANS, NESOI.
841460 | VENTILATING OR RECYCLING HOODS INCORPORATING A FAN, HAVING A MAXIMUM HORIZINTAL SIDE NOT EXCEEDING 120 CM.
841510 | AIR CONDITIONING MACHINES, WINDOW OR WALL TYPES, SELF-CONTAINED OR “SPLIT-SYSTEM“.
841810 | COMBINED REFRIGERATOR-FREEZERS FITTED WITH SEPARATE EXTERNAL DOORS.
841821 | REFRIGERATORS, HOUSEHOLD, COMPRESSION TYPE.
841829 | REFRIGERATORS, HOUSEHOLD TYPE, NESOI.
841830 | FREEZERS, CHEST TYPE, CAPACITY NOT EXCEEDING 800 LITERS.
841840 | FREEZERS, UPRIGHT TYPE, CAPACITY NOT EXCEEDING 900 LITERS.
841981 | MACHINERY, PLANT OR EQUIPMENT FOR MAKING HOT DRINKS OR FOR COOKING OR HEATING FOOD.
842211 | DISHWASHING MACHINES, HOUSEHOLD TYPE.
842310 | PERSONAL WEIGHING MACHINES, INCLUDING BABY SCALES; HOUSEHOLD SCALES.
842860 | TELEFERICS, CHAIR LIFTS, SKI DRAGLINES; TRACTION MECHANISMS FOR FUNICULARS.
843139 | PARTS FOR LIFTING, HANDLING, LOADING OR UNLOADING MACHINERY, NESOI.
844312 | OFFSET PRINTING MACHINERY, SHEET-FED, OFFICE TYPE (SHEET SIZE NOT EXCEEDING 22X36 CM).
844331 | MACHINES WHICH PERFORM TWO OR MORE OF THE FUNCTIONS OF PRINTING, COPYING OR FAX TRANSMISSION, CAPABLE OF CONNECTING TO AN ADP MACHINE OR TO A NETWORK.
844332 | PRINTERS, COPYING MACHINES AND FACSIMILE MACHINES, NOT COMBINED, CAPABLE OF CONNECTING TO AN AUTOMATIC DATA PROCESSING MACHINE OR TO A NETWORK.
844339 | PRINTERS, COPYING MACHINES AND FACSIMILE MACHINES, NOT COMBINED, NESOI.
845011 | HOUSEHOLD- OR LAUNDRY-TYPE WASHING MACHINES, FULLY AUTOMATIC, WITH A DRY LINEN CAPACITY NOT EXCEEDING 10 KG.
845012 | HOUSEHOLD- OR LAUNDRY-TYPE WASHING MACHINES, NOT FULLY AUTOMATIC, WITH A BUILT-IN CENTRIFUGAL DRYER, WITH A DRY LINEN CAPACITY NOT EXCEEDING 10 KG.
845019 | HOUSEHOLD- OR LAUNDRY-TYPE WASHING MACHINES, WITH A DRY LINEN CAPACITY NOT EXCEEDING 10 KG, NESOI.
845121 | DRYING MACHINES (EXCEPT CENTRIFUGAL TYPE) FOR TEXTILE YARNS, FABRICS OR MADE UP TEXTILE ARTICLES, WITH A DRY LINEN CAPACITY NOT EXCEEDING 10 KG.
845210 | SEWING MACHINES OF THE HOUSEHOLD TYPE.
847010 | ELECTRONIC CALCULATORS CAPABLE OF OPERATION WITHOUT AN EXTERNAL SOURCE OF POWER.
847021 | ELECTRONIC CALCULATING MACHINES, NESOI, INCORPORATING A PRINTING DEVICE.
847029 | ELECTRONIC CALCULATING MACHINES, NESOI, NOT INCORPORATING A PRINTING DEVICE.
847030 | CALCULATING MACHINES, EXCEPT ELECTRONIC.
847130 | PORTABLE DIGTL AUTOMATIC DATA PROCESSING MACHINES, WEIGHT NOT MORE THAN 10 KG, CONSISTING OF AT LEAST A CENTRAL PROCESSING UNIT, KEYBOARD & A DISPLAY.
847141 | DIGITAL ADP MACHINES COMPRISING IN SAME HOUSING AT LEAST A CENTRAL PROCESSING UNIT AND AN INPUT AND OUTPUT UNIT, WHETHER OR NOT COMBINED, N.E.S.O.I.
847149 | DIGITAL AUTOMATIC DATA PROCESSING MACHINES AND UNITS THEREOF PRESENTED IN THE FORM OF SYSTEMS, N.E.S.O.I.
847150 | DIGITAL PROCESSING UNITS OTHER THAN THOSE OF 8471.41 AND 8471.49, N.E.S.O.I.
847160 | AUTOMATIC DATA PROCESSING INPUT OR OUTPUT UNITS, WHETHER OR NOT CONTAINING STORAGE UNITS IN THE SAME HOUSING, N.E.S.O.I.
847170 | AUTOMATIC DATA PROCESSING STORAGE UNITS, N.E.S.O.I.
847180 | AUTOMATIC DATA PROCESSING UNITS, N.E.S.O.I.
847190 | AUTOMATIC DATA PROCESSING UNTS THEREOF; MAGNETIC/OPTICAL READERS, MACH FOR TRANSCRIBING DATA TO DATA MEDIA IN CODED FORM & MACH FOR PROC DATA, NESOI.
847290 | OFFICE MACHINES NESOI (INCLUDING AUTOMATIC BANKNOTE DISPENSERS, COIN-SORTING MACHINES, PENCIL-SHARPENING MACHINES, PERFORATING OR STAPLING MACHINES).
847960 | EVAPORATIVE AIR COOLERS.
848310 | TRANSMISSION SHAFTS (INCLUDING CAMSHAFTS AND CRANKSHAFTS) AND CRANKS.
848320 | HOUSED BEARINGS, INCORPORATING BALL OR ROLLER BEARINGS.
848330 | BEARING HOUSINGS; PLAIN SHAFT BEARINGS.
848340 | GEARS AND GEARING (EXCEPT TOOTHED WHEELS, CHAIN SPROCKETS, ETC.); BALL OR ROLLER SCREWS; GEAR BOXES AND OTHER SPEED CHANGERS, INCL TORQUE CONVERTERS.
848350 | FLYWHEELS AND PULLEYS, INCLUDING PULLEY BLOCKS.
848360 | CLUTCHES AND SHAFT COUPLINGS (INCLUDING UNIVERSAL JOINTS).
848390 | TOOTHED WHEELS, CHAIN SPROCKETS AND OTHER TRANSMISSION ELEMENTS PRESENTED SEPARATELY; PARTS.
850811 | VACUUM CLEANERS WITH SELF-CONTAINED ELECTRIC MOTOR, OF A POWER LT=1500 W AND HAVING A DUST BAG OR OTHER RECEPTACLE CAPACITY LT=20 L.
850819 | VACUUM CLEANERS WITH SELF-CONTAINED ELECTRIC MOTOR, NESOI.
850860 | VACUUM CLEANERS WITHOUT SELF-CONTAINED ELECTRIC MOTOR.
850980 | ELECTROMECHANICAL DOMESTIC APPLIANCES, WITH SELF-CONTAINED ELECTRIC MOTOR, NESOI.
851110 | INTERNAL COMBUSTION ENGINE SPARK PLUGS.
851120 | INTERNAL COMBUSTION ENGINE IGNITION MAGNETOS, MAGNETO-DYNAMOS AND MAGNETIC FLYWHEELS.
851130 | INTERNAL COMBUSTION ENGINE DISTRIBUTORS AND IGNITION COILS.
851140 | INTERNAL COMBUSTION ENGINE STARTER MOTORS AND DUAL PURPOSE STARTER-GENERATORS.
851150 | INTERNAL COMBUSTION ENGINE GENERATORS, NES0I.
851180 | ELECTRICAL IGNITION OR STARTING EQUIPMENT USED FOR INTERNAL COMBUSTION ENGINES, NESOI, AND EQUIPMENT USED IN CONJUNCTION WITH SUCH ENGINES, NESOI.
851190 | PARTS FOR ELECTRICAL IGNITION OR STARTING EQUIPMENT USED FOR INTERNAL COMBUSTION ENGINES; PARTS FOR GENERATORS AND CUT-OUTS USED WITH SUCH EQUIPMENT.
851220 | ELECTRICAL LIGHTING OR VISUAL SIGNALING EQUIPMENT, FOR USE ON CYCLES OR MOTOR VEHICLES, EXCEPT FOR USE ON BICYCLES.
851230 | ELECTRICAL SOUND SIGNALING EQUIPMENT USED FOR CYCLES OR MOTOR VEHICLES.
851240 | ELECTRICAL WINDSHIELD WIPERS, DEFROSTERS AND DEMISTERS USED FOR CYCLES OR MOTOR VEHICLES.
851631 | ELECTRIC HAIR DRYERS.
851650 | MICROWAVE OVENS.
851660 | ELECTRIC OVENS, COOKING STOVES, RANGES, COOKING PLATES, BOILING RINGS, GRILLERS AND ROASTERS, NESOI.
851671 | ELECTRIC COFFEE OR TEA MAKERS.
851672 | ELECTRIC TOASTERS.
851679 | ELECTROTHERMIC DOMESTIC APPLIANCES, NESOI.
851711 | LINE TELEPHONE SETS WITH CORDLESS HANDSETS.
851713 | TELEPHONES FOR CELLULAR NETWORKS OR FOR OTHER WIRELESS NETWORKS.
851718 | TELEPHONE SETS, NESOI.
851761 | BASE STATIONS.
851762 | MACHINES FOR THE RECEPTION, CONVERSION AND TRANSMISSION OR REGENERATION OF VOICE, IMAGES OR OTHER DATA, INCLUDING SWITCHING AND ROUTING APPARATUS.
851769 | APPARATUS FOR THE TRANSMISSION OR RECEPTION OF VOICE, IMAGES OR OTHER DATA, INCLUDING SWITCHING AND ROUTING APPARATUS, NESOI.
851920 | SOUND RECORDING OR REPRODUCING APPARATUS OPERATED BY COINS, BANKNOTES, BANK CARDS, TOKENS OR BY OTHER MEANS OF PAYMENT.
851930 | TURNTABLES (RECORD-DECKS).
851981 | SOUND RECORDING OR REPRODUCING APPARATUS, USING MAGNETIC, OPTICAL OR SEMICONDUCTOR MEDIA, NESOI.
851989 | SOUND RECORDING OR REPRODUCING APPARATUS, NESOI.
852110 | VIDEO RECORDING OR REPRODUCING APPARATUS (WHETHER OR NOT INCORPORATING A VIDEO TUNER), MAGNETIC TAPE-TYPE.
852190 | VIDEO RECORDING OR REPRODUCING APPARATUS (WHETHER OR NOT INCORPORATING A VIDEO TURNER), OTHER THAN MAGNETIC TAPE-TYPE.
852691 | RADIO NAVIGATIONAL AID APPARATUS.
852712 | POCKET-SIZE RADIO CASSETTE PLAYERS.
852713 | RADIOBROADCAST RECEIVERS CAPABLE OF OPERATING WITHOUT AN EXTERNAL SOURCE OF POWER, COMBINED WITH SOUND RECORDING OR REPRODUCING APPARATUS, N.E.S.O.I.
852719 | RADIOBROADCAST RECEIVERS, BATTERY TYPE, NESOI.
852721 | RADIOBROADCAST RECEIVERS FOR MOTOR VEHICLES, COMBINED WITH SOUND RECORDING OR REPRODUCING APPARATUS, NOT CAPABLE OF OPERATING WITHOUT OUTSIDE POWER.
852729 | RADIOBROADCAST RECEIVERS FOR MOTOR VEHICLES, NOT CAPABLE OF OPERATING WITHOUT OUTSIDE POWER, NESOI.
852791 | RECEPTION APPARATUS FOR RADIO-BROADCASTING, COMBINED WITH SOUND RECORDING OR REPRODUCING APPARATUS, NESOI.
852792 | RECEPTION APPARATUS FOR RADIO-BROADCASTING, COMBINED WITH A CLOCK, NESOI.
852799 | RECEPTION APPARATUS FOR RADIO-BROADCASTING, NESOI.
852871 | RECEPTION APPARATUS FOR TELEVISION, NOT DESIGNED TO INCORPORATE A VIDEO DISPLAY OR SCREEN.
852872 | RECEPTION APPARATUS FOR TELEVISION, COLOR, NESOI.
852910 | ANTENNAS AND ANTENNA REFLECTORS AND PARTS THEREOF.
853110 | BURGLAR OR FIRE ALARMS AND SIMILAR APPARATUS.
854370 | ELECTRICAL MACHINES AND APPARATUS, HAVING INDIVIDUAL FUNCTIONS, NESOI.
854430 | INSULATED IGNITION WIRING SETS AND OTHER WIRING SETS FOR VEHICLES, AIRCRAFT AND SHIPS.
870310 | PASSENGER MOTOR VEHICLES SPECIALLY DESIGNEED FOR TRAVELING ON SNOW; GOLF CARTS AND SIMILAR VEHICLES.
870321 | PASSENGER MOTOR VEHICLES WITH SPARK-IGNITION INTERNAL COMBUSTION RECIPROCATING PISTON ENGINE, CYLINDER CAPACITY NOT OVER 1,000 CC.
870322 | PASSENGER MOTOR VEHICLES WITH SPARK-IGNITION INTERNAL COMBUSTION RECIPROCATING PISTON ENGINE, CYLINDER CAPACITY OVER 1,000 CC BUT NOT OVER 1,500 CC.
870323 | PASSENGER MOTOR VEHICLES WITH SPARK-IGNITION INTERNAL COMBUSTION RECIPROCATING PISTON ENGINE, CYLINDER CAPACITY OVER 1,500 CC BUT NOT OVER 3,000 CC.
870324 | PASSENGER MOTOR VEHICLES WITH SPARK-IGNITION INTERNAL COMBUSTION RECIPROCATING PISTON ENGINE, CYCLINDER CAPACITY OVER 3,000 CC.
870331 | PASSENGER MOTOR VEHICLES WITH COMPRESSION-IGNITION INTERNAL COMBUSTION PISTON ENGINE (DIESEL), CYLINDER CAPACITY NOT OVER 1,500 CC.
870332 | PASSENGER MOTOR VEHICLES WITH COMPRESSION-IGNITION INTERNAL COMBUSTION PISTON ENGINE (DIESEL), CYLINDER CAPACITY OVER 1,500 CC BUT NOT OVER 2,500 CC.
870333 | PASSENGER MOTOR VEHICLES WITH COMPRESSION-IGNITION INTERNAL COMBUSTION PISTON ENGINE (DIESEL), CYLINDER CAPACITY OVER 2,500 CC.
870340 | PASSENGER MOTOR VEHICLES, WITH BOTH APRK-IG INTRNL COMBUST AND ELECTRIC MOTOR, OTHER THAN THOSE CHARGES BY PLUGGIN TO EXTERNAL ELECTRIC POWER.
870350 | MOTOR VEHICLES, WITH BOTH COMPRES-IG INTERNAL COMBUS PISTON ENGINE (DIESEL/SEMI-DIESEL) AND ELECTRIC MOTOR,NOT CHARGED BY PLUG.
870360 | MOTOR VEHICLES WITH BOTH SPARK-IG AND ELECTRIC MOTOR, CAPABLE OF CHARGE BY PLUGGING TO EXTNL PWR.
870370 | MOTOR VEHICLES, WITH BOTH COMPRESSION-IGNITION INTERNAL COMBUSTION (DIESEL/SEMI-DIESEL AND ELECTRIC MOTOR, CAPABLE OF CHARGED BY PLUGGING.
870380 | MOTOR VEHICLES WITH ONLY ELECTRIC MOTOR,NESOI.
870390 | PASSENGER MOTOR VEHICLES, NESOI.
870600 | CHASSIS FITTED WITH ENGINES FOR TRACTORS, MOTOR VEHICLES FOR PASSENGERS, GOODS TRANSPORT VEHICLES AND SPECIAL PURPOSE MOTOR VEHICLES, AND VALUED AT $50000 OR GREATER PER UNIT WHOLESALE PRICE IN THE U.S.
870710 | BODIES (INCLUDING CABS) FOR MOTOR CARS AND OTHER VEHICLES PRINCIPALLY DESIGNED FOR TRANSPORT OF PERSONS (EXCEPT PUBLIC-TRANSPORT OF PASSENGERS), AND VALUED AT $50000 OR GREATER PER UNIT WHOLESALE PRICE IN THE U.S.
871120 | MOTORCYCLES AND CYCLES WITH AN AUXILIARY MOTOR, WITH RECIPROCATING INTERNAL COMBUSTION PISTON ENGINE, CYLINDER CAPACITY OVER 50 CC BUT NOT OVER 250 CC, AND VALUED AT $5000 OR GREATER PER UNIT WHOLESALE PRICE IN THE U.S.
871130 | MOTORCYCLES AND CYCLES WITH AN AUXILIARY MOTOR, WITH RECIPROCATING INTERNAL COMBUSTION PISTOL ENGINE, CYLINDER CAPACITY OVER 250 CC NOT OVER 500 CC, AND VALUED AT $5000 OR GREATER PER UNIT WHOLESALE PRICE IN THE U.S.
871140 | MOTORCYCLES AND CYCLES WITH AN AUXILIARY MOTOR, WITH RECIPROCATING INTERNAL COMBUSTION PISTON ENGINE, CYLINDER CAPACITY OVER 500 CC NOT OVER 800 CC, AND VALUED AT $5000 OR GREATER PER UNIT WHOLESALE PRICE IN THE U.S.
871150 | MOTORCYCLES AND CYCLES WITH AN AUXILIARY MOTOR WITH RECIPROCATING INTERNAL COMBUSTION PISTON ENGINE, CYLINDER CAPACITY OVER 800 CC, AND VALUED AT $5000 OR GREATER PER UNIT WHOLESALE PRICE IN THE U.S.
871160 | MOTORCYCLES WITH ELECTRIC MOTOR FOR PROPULSION, AND VALUED AT $5000 OR GREATER PER UNIT WHOLESALE PRICE IN THE U.S.
871190 | MOTORCYCLES AND CYCLES FITTED WITH AN AUXILIARY MOTORS, NESOI; SIDE-CARS, AND VALUED AT $5000 OR GREATER PER UNIT WHOLESALE PRICE IN THE U.S.
871410 | PARTS AND ACCESSORIES OF MOTORCYCLES (INCLUDING MOPEDS), AND VALUED AT $5000 OR GREATER PER UNIT WHOLESALE PRICE IN THE U.S.
902000 | BREATHING APPLIANCES NESOI AND GAS MASKS HAVING MECHANICAL PARTS AND/OR REPLACEABLE FILTERS; PARTS AND ACCESSORIES THEREOF.
910111 | WRIST WATCHES, BATTERY POWERED, WITH CASES OF PRECIOUS METAL (OR OF METAL CLAD WITH PRECIOUS METAL), WITH MECHANICAL DISPLAY ONLY, AND VALUED AT $300 OR GREATER PER UNIT WHOLESALE PRICE IN THE U.S.
910119 | WRIST WATCHES, BATTERY POWERED, WITH CASES OF PRECIOUS METAL (OR OF METAL CLAD WITH PRECIOUS METAL), WITH DISPLAY NESOI, AND VALUED AT $300 OR GREATER PER UNIT WHOLESALE PRICE IN THE U.S.
910121 | WRIST WATCHES, NOT BATTERY POWERED, WITH CASES OF PRECIOUS METAL (OR OF METAL CLAD WITH PRECIOUS METAL), WITH AUTOMATIC WINDING, AND VALUED AT $300 OR GREATER PER UNIT WHOLESALE PRICE IN THE U.S.
910129 | WRIST WATCHES, NOT BATTERY POWERED, WITH CASES OF PRECIOUS METAL (OR OF METAL CLAD WITH PRECIOUS METAL), WITHOUT AUTOMATIC WINDING, AND VALUED AT $300 OR GREATER PER UNIT WHOLESALE PRICE IN THE U.S.
910191 | POCKET WATCHES AND OTHER WATCHES, EXCEPT WRIST WATCHES, WITH CASES OF PRECIOUS METAL (OR OF METAL CLAD WITH PRECIOUS METAL), ELECTRICALLY POWERED, AND VALUED AT $300 OR GREATER PER UNIT WHOLESALE PRICE IN THE U.S.
910199 | POCKET WATCHES AND OTHER WATCHES, EXCEPT WRIST WATCHES, WITH CASES OF PRECIOUS METAL (OR OF METAL CLAD WITH PRECIOUS METAL), NOT BATTERY POWERED, AND VALUED AT $300 OR GREATER PER UNIT WHOLESALE PRICE IN THE U.S.
911110 | WATCH CASES OF PRECIOUS METAL OR OF METAL CLAD WITH PRECIOUS METAL, AND VALUED AT $300 OR GREATER PER UNIT WHOLESALE PRICE IN THE U.S.
911190 | PARTS FOR WATCH CASES OF PRECIOUS METAL, BASE METAL OR OF OTHER MATERIALS, AND VALUED AT $300 OR GREATER PER UNIT WHOLESALE PRICE IN THE U.S.
911310 | WATCH STRAPS, WATCH BANDS AND WATCH BRACELETS, AND PARTS THERE OF, OF PRECIOUS METAL OR OF METAL CLAD WITH PRECIOUS METAL, AND VALUED AT $300 OR GREATER PER UNIT WHOLESALE PRICE IN THE U.S.
920120 | GRAND PIANOS.
960110 | WORKED IVORY AND ARTICLES OF IVORY.
960190 | WORKED BONE, TORTOISE-SHELL, HORN, ANTLERS, CORAL, MOTHER-OF-PEARL AND OTHER ANIMAL CARVING MATERIAL, AND ARTICLES OF THESE MATERIALS, NESOI.
960200 | WORKED VEGETABLE OR MINERAL CARVING MATERIALS ETC.; MOLDED OR CARVED ARTICLES OF WAX, STEARIN, GUM, RESIN ETC. NESOI; UNHARDENED GELATIN AND ARTICLES.
960330 | ARTISTS' BRUSHES, WRITING BRUSHES AND SIMILAR BRUSHES FOR THE APPLICATION OF COSMETICS.
960830 | FOUNTAIN PENS, STYLOGRAPH PENS AND OTHER PENS.
961620 | POWDER PUFFS AND PADS FOR APPLYING COSMETICS AND TOILET PREPARATIONS.
970121 | PAINTINGS, DRAWINGS AND PASTELS, HAND EXECUTED WORKS OF ART, FRAMED OR NOT FRAMED, AND VALUED AT $300 OR GREATER PER UNIT WHOLESALE PRICE IN THE U.S.
970122 | COLLAGES AND SIMILAR DECORATIVE PLAQUES, FRAMED OR NOT FRAMED, AND VALUED AT $300 OR GREATER PER UNIT WHOLESALE PRICE IN THE U.S.
970129 | COLLAGES AND SIMILAR DECORATIVE PLAQUES, FRAMED OR NOT FRAMED, AND VALUED AT $300 OR GREATER PER UNIT WHOLESALE PRICE IN THE U.S.
970191 | PAINTINGS, DRAWINGS AND PASTELS, HAND EXECUTED WORKS OF ART, FRAMED OR NOT FRAMED, AND VALUED AT $300 OR GREATER PER UNIT WHOLESALE PRICE IN THE U.S.
970192 | COLLAGES AND SIMILAR DECORATIVE PLAQUES, FRAMED OR NOT FRAMED, AND VALUED AT $300 OR GREATER PER UNIT WHOLESALE PRICE IN THE U.S.
970199 | COLLAGES AND SIMILAR DECORATIVE PLAQUES, FRAMED OR NOT FRAMED, AND VALUED AT $300 OR GREATER PER UNIT WHOLESALE PRICE IN THE U.S.
970210 | ORIGINAL ENGRAVINGS, PRINTS AND LITHOGRAPHS, FRAMED OR NOT FRAMED, AND VALUED AT $300 OR GREATER PER UNIT WHOLESALE PRICE IN THE U.S.
970290 | ORIGINAL ENGRAVINGS, PRINTS AND LITHOGRAPHS, FRAMED OR NOT FRAMED, AND VALUED AT $300 OR GREATER PER UNIT WHOLESALE PRICE IN THE U.S.
970310 | ORIGINAL SCULPTURES AND STATUARY, IN ANY MATERIAL, AND VALUED AT $300 OR GREATER PER UNIT WHOLESALE PRICE IN THE U.S.
970390 | ORIGINAL SCULPTURES AND STATUARY, IN ANY MATERIAL, AND VALUED AT $300 OR GREATER PER UNIT WHOLESALE PRICE IN THE U.S.
970400 | POSTAGE OR REVENUE STAMPS, STAMP-POSTMARKS, FIRST-DAY COVERS, POSTAL STATIONARY (STAMPED) ETC., USED, OR IF UNUSED NOT OF CURRENT OR NEW ISSUE, AND VALUED AT $300 OR GREATER PER UNIT WHOLESALE PRICE IN THE U.S.
970510 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970521 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970522 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970529 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970531 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970539 | COLLECTIONS AND COLLECTORS' PIECES OF ZOOLOGICAL, BOTANICAL, MINERALOGICAL, HISTORICAL, ARCHAELOGICAL, NUMISMATIC OR OTHER INTEREST, AND VALUED AT $300 OR GREATER PER UNIT WHOLESALE PRICE IN THE U.S.
970610 | ANTIQUES OF AN AGE EXCEEDING ONE HUNDRED YEARS, AND VALUED AT $300 OR GREATER PER UNIT WHOLESALE PRICE IN THE U.S.
970690 | ANTIQUES OF AN AGE EXCEEDING ONE HUNDRED YEARS, AND VALUED AT $300 OR GREATER PER UNIT WHOLESALE PRICE IN THE U.S.

13. Supplement no. 6 to part 746 is amended by:

a. Revising the second and last sentences of the introductory text;

b. Revising paragraphs (a)(40) and (41);

c. Adding paragraphs (a)(42) through (45);

d. Revising paragraph (e)(3); and

e. Revising paragraph (f) heading and introductory text, paragraph (f)(3), and Note 6 to paragraph (f).

The addition and revisions read as follows:

Supplement No. 6 to Part 746—Russian and Belarusian Industry Sector Sanctions Pursuant to § 746.5(a)(1)(iii)

* * * These items may be useful for Russia's chemical and biological weapons production capabilities or may be diverted from Belarus to Russia for these or other activities of concern. * * * In addition, paragraph (g) of supplement no. 6 to part 746 identifies equipment and other items that BIS has determined are not manufactured in Russia or are otherwise important to Russia in developing advanced production and development capabilities to enable advanced manufacturing across a number of industries or may be diverted from Belarus to Russia for these or other activities of concern.

(a) * * *

(40) Triethylamine (CAS 121-44-8);

(41) Trimethylamine (CAS 75-50-3);

(42) Lithium chloride (CAS 7447-41-8);

(43) Lithium chloride hydrate (CAS 85144-11-2);

(44) Lithium chloride monohydrate (CAS 16712-20-2); or

(45) Lithium carbonate (CAS 554-13-2).

* * * * *

(e) * * *

(3) Assay kits and reagents for nucleotide or peptide isolation, extraction, or purification, n.e.s.;

* * * * *

(f) Equipment and consumable “materials. This paragraph (f) identifies additional equipment and consumable “materials” that BIS has determined are not manufactured in Russia. Therefore, the implementation of restrictive export controls on these items by the United States and our allies will economically impact Russia and significantly hinder Russia's CBW production capabilities.

* * * * *

(3) Laboratory equipment, including “components,” “parts,” “accessories,” and consumable “materials” for such equipment, for the analysis or detection, destructive or non-destructive, of chemical substances, n.e.s.;

* * * * *

Note 6 to paragraph (f): Consistent with the definitions in part 772 of the EAR, “components,” “parts,” “accessories,” and “materials” include consumables.

* * * * *

14. Supplement no. 7 to part 746 is amended by:

a. Revising the heading;

b. Revising the second sentence of the introductory text;

c. Revising the first sentence of paragraph (b); and

d. Adding, in the table, in numerical order, the entry “854800.”

The revisions and addition read as follows:

Supplement No. 7 to Part 746—Items That Require a License Under § 746.6 When Destined to the Temporarily Occupied Crimea Region of Ukraine, Under § 746.7 When Destined to Iran, and Under § 746.8 When Destined to Russia or Belarus

* * * Also see paragraph (f) of § 734.9 of the EAR for the Russia/Belarus/Temporarily occupied Crimea region of Ukraine Foreign Direct Product (FDP) rule and paragraph (j) for the Iran FDP rule. * * *

* * * * *

(b) The items classified under the provisions identified in the HTS-6 Code column of this supplement are subject to the license requirements under §§ 746.6(a)(1)(ii), 746.7(a)(1)(ii) and (iii), and 746.8(a)(2). * * *

HTS-6 Codes | HTS Description
* * * * * * *
854800 | ELECTRICAL PARTS OF MACHINERY OR APPARATUS, NESOI

PART 750—APPLICATION PROCESSING, ISSUANCE AND/OR DENIAL

15. The authority citation for 15 CFR part 750 continues to read as follows:

Authority: 50 U.S.C. 4801-4852; 50 U.S.C. 4601 et seq.; 50 U.S.C. 1701 et seq.; Sec. 1503, Pub. L. 108-11, 117 Stat. 559; E.O. 13026, 61 FR 58767, 3 CFR, 1996 Comp., p. 228; E.O. 13222, 66 FR 44025, 3 CFR, 2001 Comp., p. 783; E.O. 13637, 78 FR 16129, 3 CFR, 2013 Comp., p. 223; Presidential Determination 2003-23, 68 FR 26459, 3 CFR, 2004 Comp., p. 320.

16. Section 750.7 is amended by adding paragraph (c)(xi) to read as follows:

§ 750.7 Issuance of licenses.

* * * * *

(c) * * *

(1) * * *

(xi) Addition of a new HTS-6 Code identified under supplements nos. 2, 4, or 5 to part 746 or item identified under supplement no. 6 to part 746 for export or reexport to or transfer within Russia or Belarus, provided the criteria of this paragraph are met.

(A) The end use of the BIS license is for the divesture of items within Russia or Belarus or their transfer within Russia or Belarus for the purpose of reexporting such items from Russia or Belarus;

(B) The new HTS-6 Code under supplements nos. 2, 4, or 5 to part 746 or item identified under supplement no. 6 to part 746 was added to the EAR after the validation date of the BIS license;

(C) The BIS license has not yet expired; and

(D) The export, reexport, or in-country transfer of these additional HTS-6 Codes under supplements nos. 2, 4, or 5 to part 746 or items identified under supplement no. 6 to part 746 will not exceed the shipping tolerance of the original license or the number of units authorized under the original license.

* * * * *

Thea D. Rozman Kendler,
Assistant Secretary for Export Administration.

[FR Doc. 2023-10774 Filed 5-19-23; 8:45 am]

BILLING CODE 3510-33-P